DEPARTMENT OF LABOR

Office of the Secretary

Combating Exploitive Child Labor Through Education in Bolivia, Cambodia, Colombia, the Democratic Republic of the Congo, the Dominican Republic, Indonesia, Morocco, the Philippines, Togo, and Uganda

June 14, 2007.

AGENCY: Bureau of International Labor Affairs, Department of Labor.

Announcement Type: New. Notice of Availability of Funds and Solicitation for Cooperative Agreement Applications.

Funding Opportunity Number: SGA 07-10.

Catalog of Federal Domestic Assistance (CFDA) Number: Not applicable.

Key Dates: Deadline for Submission of Application is July 25, 2007.

Executive Summary: The U.S. Department of Labor, Bureau of International Labor Affairs, will award up to USD 46.494 million through 10 or more Cooperative Agreements to one or more qualifying organizations and/or Associations to combat exploitive child labor in the following 10 countries: Bolivia (up to $3.344 million), Cambodia (up to $4 million), Colombia (up to $5.1 million), Democratic Republic of the Congo (up to $5.5 million), the Dominican Republic (up to $4 million), Indonesia (up to $5.55 million), Morocco (up to $3 million), the Philippines (up to $5.5 million), Togo (up to $5 million), and Uganda (up to $5.5 million). Projects funded under this solicitation will seek to sustainably withdraw and prevent children from entering exploitive labor through the provision of direct educational services and other project interventions, and ensure direct beneficiaries' enrollment, retention, and completion of the education and/or training program(s) in which they are enrolled. Projects will also seek to build capacity in target countries to eliminate exploitive child labor and promote educational alternatives for children. Projects funded aim to complement and expand upon existing projects and programs aimed at eliminating exploitive child labor, particularly the worst forms of child labor, and improving basic education in the target countries. Applicants must respond to the entire Scope of Work outlined in this solicitation for each country for which an application is submitted.

I. Funding Opportunity Description

The U.S. Department of Labor (USDOL), Bureau of International Labor Affairs (ILAB), announces the availability of funds to be awarded by Cooperative Agreement to one or more qualifying organizations and/or Associations (hereinafter referred to as “Applicant(s)”) for the purpose of promoting the elimination of exploitive child labor, particularly the worst forms of child labor (for additional information on these key terms, see Appendix A), in target countries. Projects funded under this solicitation will seek to achieve this goal by withdrawing children from, and preventing children from entering, exploitive child labor through the provision of direct educational services, including education and/or training programs, and improving the capacity of target countries to address exploitive child labor.

ILAB is authorized to award and administer Cooperative Agreements for this purpose by Section 20607 of the Revised Continuing Appropriations Resolution, 2007, Pub. L. 110-05, 121 Stat. 8 (2007). Cooperative Agreements awarded under this solicitation will be managed by ILAB's Office of Child Labor, Forced Labor, and Human Trafficking (OCFT). The duration of the projects funded by this solicitation is three to four years. The start date of program activities will be negotiated upon award of the Cooperative Agreement, but will be no later than September 30, 2007.

Please note that Appendix A provides USDOL's definitions for all key terms denoted in italics throughout the text of this solicitation. For ease of reference, the term “child(ren)” and “child labor” have not been denoted in italics, though definitions of each are included in Appendix A. Child(ren) are defined by USDOL as individuals under the age of 18 years. For section I.3.B., Applicants should note that there may be some differences between USDOL definitions of certain key terms and the definitions used by foreign governments. For example, definitions used by USDOL in this solicitation do not necessarily correspond to a foreign government's own definition of terms such as “youth” or “hazardous work.

1. Background: USDOL Support for the Global Elimination of Exploitive Child Labor

The International Labor Organization (ILO) estimated that 218 million children ages 5 to 17 were engaged in child labor around the world in 2004. Children engaged in exploitive child labor on a full-time basis are generally unable to attend school, and children engaged in exploitive child labor on a part-time basis balance economic survival with schooling from an early age, often to the detriment of their education.

Since 1995, the U.S. Congress has appropriated $595 million to USDOL for efforts to combat exploitive child labor internationally. This funding has been used to support technical cooperation projects to combat exploitive child labor in more than 75 countries around the world. Technical cooperation projects funded by USDOL range from targeted action programs in specific sectors of work to more comprehensive programs that support national efforts to eliminate the worst forms of child labor as defined by ILO Convention 182. USDOL-funded projects seek to achieve five major goals:

1. Withdrawing or preventing children from involvement in exploitive child labor through the provision of direct educational services;

2. Strengthening policies on child labor and education, the capacity of national institutions to combat child labor, and formal and transitional education systems that encourage children engaged in or at-risk of engaging in exploitive labor to attend school;

3. Raising awareness of the importance of education for all children and mobilizing a wide array of actors to improve and expand education infrastructures.

4. Supporting research and the collection of reliable data on child labor; and

5. Ensuring the long-term sustainability of these efforts.

By increasing access to basic education, USDOL-funded projects help nurture the development, health, safety, and enhanced future employability of children engaged in or at-risk of entering exploitive labor in geographic areas or economic sectors with a high incidence of exploitive child labor.

Projects funded by USDOL-OCFT are subject to the provisions of the Government Performance and Results Act (GPRA), which was passed by Congress in 1993 to establish strategic planning and performance measurement in the federal government to ensure that taxpayers' dollars were being used efficiently and effectively for the public good. GPRA requires federal agencies to develop and submit strategic and annual performance plans that include performance goals and indicators. Each year federal government agencies receiving appropriated funds are required to submit to Congress a performance and accountability report. Congress uses these reports to make informed assessments of program effectiveness for future funding decisions.

For GPRA purposes, ILAB falls under USDOL's Strategic Goal 2: A Competitive Workforce: Meet the competitive labor demands of the worldwide economy by enhancing the effectiveness and efficiency of the workforce development and regulatory systems that assist workers and employers in meeting the challenges of global competition. Specifically, OCFT is required to measure Indicator 2K: Contribute to the elimination of the worst forms of child labor internationally. The GPRA indicators that OCFT measures across all of its child labor elimination projects, are: (1) The number of children withdrawn or prevented from exploitive child labor and provided education and/or training opportunities as a result of a USDOL-funded child labor elimination project; and (2) The number of countries with improved capacity to address child labor as a result of USDOL-funded child labor elimination projects. For more comprehensive definitions of USDOL-OCFT's GPRA Indicators, see Appendix A. For additional information on GPRA, please visit http://www.whitehouse.gov/omb/mgmt-gpra/gplaw2m.html.

In addition to its GPRA indicators, OCFT also collects information on two other non-GPRA, common indicators related to direct beneficiaries' retention in, and completion, of education and/or training programs (hereinafter referred to as “direct educational services;” for additional information on this key term, see Appendix A).

2. Factors Contributing to Exploitive Child Labor and Barriers to Education

There are complex factors contributing to children's involvement in exploitive labor, as well as barriers to education for children who are engaged in, or at-risk of entering, exploitive child labor. These include poverty; education system barriers; infrastructure barriers; legal and policy barriers; resource gaps; institutional barriers; informational gaps; demographic characteristics of children and/or families; cultural and traditional practices; tenuous labor markets; and weak child labor law enforcement. While these factors and barriers tend to exist throughout the world in areas with a high incidence of exploitive child labor, they manifest themselves in specific ways in the countries of interest in this solicitation.

Some factors unrelated to education that contribute to children entering exploitive labor include their families' need for extra income, children's need to provide a livelihood for themselves and/or their siblings, lack of parent(s) or caregiver(s), cultural practices, and lack of awareness of the hazards associated with exploitive child labor, including the worst forms of child labor. In addition, children have a variety of educational needs and encounter different barriers depending on their work status (e.g., children withdrawn from exploitive labor, underage children at risk of dropping out of school and joining the labor force, children engaged in exploitive labor in a particular sector).

3. Scope of Work

A. General Requirements

Each project must promote the five goals for USDOL-funded projects outlined in section I.1. Applicants should propose an innovative project strategy that will build on existing efforts to withdraw children from, or prevent children from entering, exploitive child labor. Applicants should identify and address the specific needs of proposed direct beneficiaries' to ensure (1) their long-term withdrawal from, or prevention from entering, exploitive child labor; (2) their involvement in acceptable work—for direct beneficiaries of legal working age, this may be accomplished through a reduction in the number of hours worked and/or improvement(s) in their working conditions in accordance with national labor laws and international standards, such as ILO Conventions 138 (Minimum Age Convention, 1973) and 182 (Worst Forms of Child Labor Convention, 1999); and (3) their enrollment in, retention in, and completion of, a direct educational service.

Note: For a child to be counted as a direct beneficiary for the purposes of USDOL's GPRA reporting requirements (see section I.1 above for more information on the GPRA), the Cooperative Agreement awardee (hereafter referred to as “Grantee”) must have completed the following three (3) steps:

(1) Assess the specific needs of each child targeted by the project in order for the child to (a) be withdrawn from, or prevented from entering, exploitive labor and (b) be enrolled in an educational activity;

(2) Develop and implement an appropriate strategy for the child that provides a direct educational service; and

(3) Monitor and report to USDOL on the child's work status (e.g., is the child working in an exploitive labor situation?) and educational status (e.g., is the child still attending an educational or training program?).

USDOL considers strengthening legal frameworks and law enforcement practices that prohibit exploitive child labor and promoting adherence to national educational requirements that support universal access to basic education as critical strategies for achieving long-term impact in combating exploitive child labor. Applicants are encouraged to propose creative ideas that address the nexus between better enforcement of child labor and education laws and the improvement of educational opportunities for children. Applicants are expected to consider the economic, social, and cultural contexts of the target country (ies) when formulating project strategies and to recognize that approaches applicable in one country may not be relevant to others. Applicants must take into account country-specific issues that could affect project results, including those outlined in section I.3.B. for each target country, and meaningfully incorporate them into the proposed strategy, either to increase opportunities for, or reduce obstacles to, successful implementation. Applicants should demonstrate a thorough knowledge of previously piloted interventions and good practices to eliminate child labor in each target county and seek to build upon progress achieved by such past projects.

i. Focus on Action Research and Data Collection

In order to identify gaps, unmet needs and opportunities that could be addressed through a USDOL child labor elimination project, Applicants must conduct a needs assessment in preparing their application(s) to make a preliminary identification of the current working and educational status of the children that the Applicant proposes as direct beneficiaries of the project. It is expected that the information gathered during this assessment will be refined after award, although the application should present a clear indication of the criteria that will likely be used to select proposed direct beneficiaries. These criteria should be based on the target country's legislation related to child labor, including the worst forms of child labor; the minimum age for work; acceptable hours and conditions for children's work; and national policies related to child labor, such as a country-specific list of hazardous work for children that has been submitted to the ILO. The assessment, with data sources, must include information on the incidence and nature of exploitive child labor, particularly the worst forms of child labor, among proposed direct beneficiaries, hours and conditions of work, age and sex distribution of the proposed direct beneficiaries, educational performance relative to other children, if available, and any research or other data that might indicate correlations between educational performance and child labor. In the proposed strategy, Applicants must consult and make reference to relevant literature and documents relating to child labor and the education of proposed direct beneficiaries. Applicants are encouraged to propose strategies for collecting further data on exploitive child labor and children's participation in schooling in the early stages of the project's baseline data collection. In addition, Applicants are encouraged to conduct small-scale research projects in support of the project's overall objectives, in particular on the unconditional worst forms of child labor where there is often a lack of systematic and reliable data. Applicants are encouraged to disseminate findings from such research and to use this information in formulating more targeted and coordinated responses to exploitive child labor, including the unconditional worst forms of child labor.

ii. Withdrawal or Prevention From Exploitive Child Labor Through Direct Educational Services and Other Project Interventions

Projects funded under this Cooperative Agreement solicitation must provide for the long-term withdrawal of children from, and prevention of children from entering, exploitive child labor through the provision of direct educational services. USDOL recognizes that the provision of direct educational services alone may in some cases be insufficient to ensure the complete or sustained withdrawal of children from exploitive child labor. For this reason, Applicants are also encouraged to propose other project interventions as part of a package of services for direct beneficiaries. Applicants are encouraged to be creative in proposing comprehensive cost-effective interventions that will have a demonstrable impact in eliminating exploitive child labor and promoting direct beneficiaries' enrollment, retention in, and completion of direct educational services in the geographic areas and/or sectors in which children are engaged in, or at-risk of engaging in, exploitive child labor. Applicants should address low rates of school enrollment; availability of and access to direct educational services, particularly in rural areas; and the quality of such educational services. Applicants should develop strategies to increase the perceived relevance of education and training for children engaged in, or at-risk of engaging in, exploitive labor, their families and their communities with an aim toward increasing school enrollment. Applicants should also address the unique barriers to education for girls, particularly in rural areas, and incorporate these into the proposed interventions. Applicants may propose solutions for education delivery, such as non-formal schools, including multi-grade programs in rural areas where formal schools may be unavailable, especially at the secondary level. Projects may also support professional training for teachers and provide incentives to children, such as books and uniforms, in-school feeding programs, school supplies, and transportation assistance to remove educational barriers.

For individual target countries, Applicants must demonstrate knowledge of the school calendar and the requirements of basic, non-formal, and vocational education systems; develop an approach that successfully enrolls children in educational programs with minimal delay and without missing an academic year or program cycle; and address the non-education factors contributing to children's involvement in or risk of entering exploitive labor. If cultural traditions and norms impact decisions about schooling, Applicants must show how education programs would be sensitive and responsive to these traditions, particularly as they relate to girls' education.

Please Note: For the purposes of GPRA, enrollment in a direct educational service is not the sole criterion that defines a child as withdrawn from exploitive child labor. For example, a child who attends a USDOL-supported non-formal education program in the morning and works under hazardous conditions in mining during the afternoon and evening should not be counted as withdrawn or prevented from exploitive child labor. That is, if before program intervention, a child is not going to school and is working in a worst form of child labor, and, after program intervention, the child is now enrolled in school but continues to work in a worst form of child labor, then that child is not, by definition, withdrawn from exploitive child labor and should not be counted in the withdrawn/prevented indicator. The process of withdrawing a child from exploitive child labor may take some time. Children should only be counted as withdrawn at the point at which the child is no longer working in exploitive child labor (this includes no longer working at all or working under improved working conditions such as shorter hours and/or safer conditions) and is benefiting from the education and/or training program(s) provided by the USDOL-funded project. For more information on GPRA, see section I.1 Background: USDOL Support for the Global Elimination of Exploitive Child Labor.

iii. Clear and Specific Outcomes

Within the countries identified in this solicitation, the Applicant must identify the geographic areas and/or sectors of greatest need, and establish (1) the number of children that the project is targeting for withdrawal from exploitive child labor, and (2) the number of children the project is targeting for prevention from exploitive child labor through the provision of direct educational services and other project interventions. Applicants must use the definitions provided in Appendix A when establishing these targets. Applicants' strategies should address the specific and contextual factors that contribute to children engaging in exploitive labor and the barriers to education that they face in target countries. Brief background information on these issues for the target countries is provided in section I.3.B. Country-Specific Requirements. Applicants must be able to identify the specific needs of proposed direct beneficiaries in order to ensure (1) their long-term withdrawal or prevention from exploitive child labor; (2) their involvement in acceptable work—which for direct beneficiaries of legal working age, may be accomplished through a reduction in the number of hours worked and/or improvement(s) in their working conditions in accordance with national labor laws and international standards, such as ILO Conventions 138 and 182; and (3) their enrollment, retention in, and completion of a relevant direct educational service.

Expected outcomes/results of the project include: (1) Reducing the number of children engaged in, or at-risk of entering, exploitive child labor; (2) increasing and/or improving educational opportunities for children who are engaged in, or at-risk of entering, exploitive child labor, particularly the worst forms of child labor; (3) ensuring direct beneficiaries' enrollment, retention in, and completion of direct educational services; (4) facilitating the successful transition of direct beneficiaries from non-formal education programs into formal schools, vocational programs, or acceptable work; and (5) ensuring the sustainable, long-term withdrawal and prevention of direct beneficiaries from exploitive child labor.

iv. Collaboration and Leveraging Resources

Due to the limited resources available under this award, Applicants are expected to implement programs that complement existing efforts and, where appropriate, replicate or enhance successful models to serve a greater number of children and communities. In order to avoid duplication, enhance collaboration, expand impact, and develop synergies, the Grantee must work cooperatively with national stakeholders in developing project interventions, including the Ministries of Labor, Education, and other relevant ministries or government bodies. Applicants are encouraged to work with other key stakeholders, including international organizations; nongovernmental organizations (NGOs); national steering/advisory committees on child labor and education; faith and community-based organizations; trade unions, employers' and teachers' organizations; and children engaged in exploitive child labor and their families. Furthermore, Applicants are strongly encouraged to collaborate with existing projects, particularly those funded by USDOL, including other EI projects, Timebound Projects of Support (TBP) and other projects implemented by ILO-IPEC. For additional information on collaboration, see section VIII.1.

Applicants are encouraged to leverage project resources by collaborating with entities engaged in efforts that could contribute to the elimination of exploitive child labor, including efforts that promote children's access to educational and training opportunities and that address poverty—a major factor that increases the likelihood that children will engage in exploitive child labor. Applicants are also encouraged to secure concrete commitments from business entities and individual business leaders to engage in partnerships to reduce child labor and increase educational opportunities for direct beneficiaries. Ideas for business involvement could include, but are not limited to the following: scholarships, donations of goods, mentoring and volunteering by employees, assistance in awareness raising, provision of internships for children/youth and/or teachers during vacation periods that would help them improve leadership and other skills for implementing programs to address exploitive child labor. Please note that applications that propose non-U.S. Federal Government resources that significantly expand the dollar amount, size, and scope of the project, in the form of matching funds or other cost sharing arrangements, are eligible for up to five (5) extra points, as discussed in section V.1.F. However, Applicants must not duplicate the activities of existing efforts and/or projects and are expected to work within host government child labor and education frameworks and priorities. Applicants are advised that there are specific requirements associated with proposing matching funds and cost sharing arrangements, outlined in section III.3, which do not apply to leveraged resources.

Note to Applicants: USDOL has notified host government ministry officials of the proposed project. During the preparation of an application for this Cooperative Agreement solicitation, Applicants are encouraged to discuss proposed interventions, strategies, and activities with host government officials and other key stakeholders noted above.

v. Sustainability

USDOL considers the issue of sustainability to be of paramount importance and recognizes that questions of sustainability must be addressed at all stages, including project design, implementation, and evaluation. From their inception, project strategies should foster sustainability. To USDOL, sustainability is linked to project impact and the ability of individuals, communities, and a nation to ensure that the activities or changes implemented by a project endure. A project's impact is manifested at the level of individuals, organizations, and systems. For individual children and their families, this would mean a positive and enduring change in their life conditions as a result of project interventions. At the level of organizations and systems, sustained impact would involve continued commitment and ability (including financial commitment and policy change) by project partners to continue the actions generated by the project, including enforcement of existing policies that target child labor and schooling. Applicants are encouraged to develop approaches that support child and youth participation in project efforts to eliminate the worst forms of child labor. Applicants are encouraged to identify local organizations in the target country, including type of local organizations (e.g., NGO, community-based, rural, indigenous), which could potentially implement or contribute to a future project. In addition, as child labor elimination projects tend to be implemented in resource-poor environments where government education and labor inspection systems may be limited, Applicants are encouraged to work with local stakeholders to develop sustainable child labor and education monitoring systems, including community-based systems, that can complement government efforts to monitor children's work and educational status beyond the life of the project and enforce the country's child labor and education laws.

B. Country-Specific Requirements

Combating Exploitive Child Labor Through Education in Bolivia

i. Background

Bolivia is a country with numerous socio-economic disparities and challenges, particularly for members of indigenous groups who, according to the 2001 Census, constitute approximately 62 percent of the population. Bolivia has one of the highest rates of poverty and child labor in the Americas, with over 23 percent of children ages 7 to 14 years working in 2002. Bolivia's socio-economic challenges are made more acute by natural disasters such as the recent severe flooding and resulting humanitarian crisis in the Departments of Santa Cruz, Beni and Cochabamba.

Bolivian children work in agriculture, including in the production of sugar cane and Brazil nuts in Santa Cruz, Beni, and Pando. In cities such as Oruro, Potosi, and La Paz, children are engaged in activities such as begging, street vending, shining shoes, and assisting transport operators. Children work in industry, construction, small businesses, hotels and restaurants, and traditional small-scale mining. In the valleys, children smuggle goods and traffic drugs. The commercial sexual exploitation of children (CSEC) is a problem in Bolivia, particularly in the Chapare region and in urban areas. A study sponsored by the International Organization for Migration (IOM) and the Organization for American States (OAS) of urban centers in Bolivia found commercial sexual exploitation of girls from Argentina, Paraguay, Brazil, Chile, and Colombia. In some cases, indigenous girls are brought or sent by their parents from rural to urban areas to work as domestic servants for higher-income families in exchange for education, clothing, room, and board. These girls often end up in situations that amount to indentured servitude and/or forced labor. Bolivian children are trafficked internally for the purpose of CSEC, agriculture and mining. In the south of Bolivia, child labor has been observed among debt-bonded, landless families living on haciendas (large farms).

In January and February 2007, unprecedented rainfall totals nearing 3 times the annual average resulted in severe flooding of the highlands and the Amazon River, affecting, in particular, the Departments of Santa Cruz, Beni, and Cochabamba. Rural families working in subsistence farming were particularly hard hit, and it is likely that the number of children at-risk of involvement in exploitive child labor has risen in these areas as a result of the flooding. This natural disaster caused extreme damage to houses, crops, roads, and other basic infrastructure including schools, many of which closed down or are being used as shelters for the displaced. The disaster has also affected the national debate on land reform and autonomy at the regional, departmental and municipal levels.

Bolivian law sets the minimum age for employment at 14 years, except in the case of apprenticeships. Children ages 14 to 18 years must have the permission of their parents or of government authorities to work. The law requires employers to grant “adolescent” workers time off to attend school during normal school hours. The 1999 Child and Adolescent Code defines “adolescents” as persons ages 12 to 18 years. The Ministry of Labor is responsible for enforcing child labor provisions in the formal sector, but only employs 15 labor inspectors to work throughout the country to enforce child labor regulations and other labor issues.

ii. Relevant Policies, Programs, and Projects

The Government of Bolivia's policy framework to address child labor is the National Plan for the Progressive Eradication of Child Labor (2000-2010). A three-year sub-plan (2006-2008) to combat child labor prioritizes the elimination of the worst forms of child labor, the development of national policy against child labor, and inter-institutional and inter-ministerial coordination. Although resources for implementation have been limited, the plan focuses on children working in the mining, sugar cane, and urban sectors of the country. A 2003 Domestic Worker's Law addresses some of the abuses committed towards child domestic workers. In 2005, the UN Committee on the Rights of the Child identified hazardous domestic work, the sugar cane and mining industries, CSEC, and the trafficking of children for CSEC and other purposes, as the child labor sectors in Bolivia that are in greatest need of special attention. The Bolivian Congress has approved reforms to address CSEC, and has criminalized and set penalties for all types of trafficking in persons.

Bolivia also faces challenges in providing education to its children and youth under 18, who constitute 45 percent of the country's population. The Constitution of Bolivia establishes free and compulsory primary education for children, yet because of the high rate of child labor and other education and non-education system barriers, many Bolivian children fall behind in their education. In 2002, despite a high rate of enrollment in primary schools, only 81 percent of students were likely to reach grade 5. Although UNESCO estimates a primary to secondary transition rate of 91 percent in Bolivia, UNICEF estimates that only 39 percent of working children continue with their schooling.

In order to facilitate children's access to social services such as health and education, the Government of Bolivia is working with UNICEF to provide free birth and identity documents to the estimated 12 percent of children ages 0-9 years who lack birth certificates. In the past, the government instituted programs to benefit both working children and indigenous children, including the development of a flexible curriculum designed to keep working children and adolescents in school by offering night classes through the Ministry of Education's Vice-Ministry of Alternative Education.

Bolivia's 1994 education reform program led to the creation of special programs to train teachers in bilingual instruction and publication of texts and other teaching materials in indigenous languages. There have been programs, such as those implemented by UNICEF, to improve educational infrastructure and to increase the relevance and learning of indigenous children through intercultural bilingual education. Currently, the Government of Bolivia focuses on universal literacy, improving access to basic education in rural areas, and incorporating indigenous languages and cultures into the school curricula. In the past, the government also supported previous USDOL-funded programs to combat child labor in small-scale traditional mining in the Andean region, and to improve access to and quality of basic education. Given the high rates of poverty and low levels of involvement in schooling, children in Bolivia, particularly indigenous children, have historically been highly vulnerable to exploitive forms of child labor. The Government of Bolivia has identified the importance of addressing the issues of labor exploitation and education reform. The government has recently proposed an education reform law that entails a curriculum change to address historic exclusion and discrimination of indigenous children, embracing the linguistic diversity of Bolivia's Quechua, Aymara, and Spanish-speaking populations.

The enforcement of these plans and laws is challenging because of limited resources, citizens' lack of faith in the justice system, corruption, a slow judiciary system, and political divisions and turmoil. The OAS Justice Center of the Americas notes that those who suffer most from this legal situation are the poor indigenous population and workers in the informal economy.

iii. Scope of Work

Taking into account the challenging implementing environment in Bolivia and the current government's attention and priority to the unmet needs of the most disadvantaged sectors of the population, Applicants must propose a creative and innovative approach to address the challenges of reintegrating and educating children who have been engaged in the worst forms of child labor. Applicants must also take into account any cross-cutting themes (discussed below) that could affect project results in Bolivia and meaningfully incorporate them into the proposed strategy, either to increase opportunities for, or reduce obstacles to, successful implementation.

1. Specific Target Groups, Sectors, and/or Geographic Focus

In support of the National Plan for the Progressive Eradication of Child Labor (2000-2010), Applicants are encouraged to target children working under hazardous and/or exploitive conditions in urban domestic service, agriculture, mining, and CSEC. Applicants should pay special attention to children who may have been trafficked for exploitive labor and/or engaged in forced labor. Applicants may identify other target sectors where children are at-risk or involved in other worst forms of child labor, but should provide a convincing justification for inclusion of such target sectors. Since indigenous children are the largest population involved in the worst forms of child labor, the project should pay special attention to their needs and provide a large share of benefits to these children. Given the recent humanitarian assistance needs in the Departments of Santa Cruz, Beni, and Cochabamba, Applicants may choose to focus on child labor issues that existed prior to, and/or may have been exacerbated by, the severe flooding in these areas.

2. Collaboration With Specific Programs and/or Links to Specific National Policies

Applicants should support the Government of Bolivia's policy framework to address child labor, the National Plan for the Progressive Eradication of Child Labor 2000-2010, and consider the three-year sub-plan (2006-2008) that focuses on children working in the mining, sugar cane, and urban sectors of the country. If focusing on domestic service, or CSEC and trafficking, Applicants should work to strengthen the implementation and enforcement of recent legal reforms in these areas of domestic workers and the commercial sexual exploitation of minors. If working in areas of the recent floods, Applicants should coordinate with other donors providing assistance, and complement rather than duplicate existing efforts.

3. Implementing Environment/Cross-Cutting Themes

Bolivia has experienced recurrent political and economic unrest and instability, which has an impact on the implementation of development projects. The government has committed itself to deep political, economic and social transformations, and the country is engaged in intense debate on themes including cultural identity, education reform, judicial reform, land reform, and decentralization and political autonomy. Furthermore, the severe flooding in January and February 2007 has had a major impact in the highlands and the Amazon River, affecting, in particular, the Departments of Santa Cruz, Beni, and Cochabamba, and rural families working in subsistence farming in these areas. Applicants should consider how these factors might affect the project in the geographic areas where the project would be implemented and propose a design that would contribute to mitigating the effects of these factors.

4. Project-Specific Strategies

Applicants must propose a strategy for strengthening the capacity of Bolivian government and civil society organizations to identify and assist children engaged in or at-risk of exploitive labor, particularly the worst forms of child labor. The complexity of the issue of child labor requires inter-institutional coordination among many public and private agencies and institutions. Applicants should identify how the project will productively engage existing public and private service programs in the intervention area(s) to ensure that project goals will be met, and project efforts will become sustainable. Evaluations of USDOL projects in the Andean region have noted incidents of weak local organizational capacity and recurring social unrest (e.g., strikes, demonstrations, work-stoppages, road closures). Applicants should indicate to what extent these challenges might be significant in the areas where the project would be implemented, how they would be addressed, and how relationships between indigenous and non-indigenous organizations working for the benefit of children, leaders, and groups could be promoted to address the problem of exploitive child labor. Given the current debates in Bolivia on decentralization and autonomy at the regional, departmental and municipal levels, Applicants should also consider how this could lead to changes that might affect implementation of the project, and focus on building capacity to promote sustainability.

Since indigenous children represent the largest population involved in exploitive child labor, it is likely that they will constitute a significant proportion of the direct beneficiaries served by this project. Given the current priorities of the government to provide programs to the benefit of these groups, Applicants should demonstrate considerable knowledge of Bolivian indigenous culture and movements and indigenous values regarding education and child labor. This knowledge should be incorporated into the project design to ensure ownership and involvement of indigenous groups. Applicants must develop a strategy that will increase the relevance of education for indigenous children, their parents, and the urban, rural, and/or peri-urban communities where they live. Applicants should develop a program that can operate in the context of the government's emphasis on the use of indigenous languages and culture as part of the larger education and curricula reform efforts. Applicants should also identify and address additional social, cultural, or other factors that should be taken into account in designing the project. In no way, however, should project strategies exclude or marginalize non-indigenous children who could also qualify as direct beneficiaries of this project.

Combating the Worst Forms of Child Labor in Cambodia

i. Background

After decades of violence and armed conflict, the Government of Cambodia has experienced positive economic growth since 1999 due in large part to its resilient garment export sector and growing tourism industry. The long-term development challenges for Cambodia will be to encourage rural development and build basic infrastructure; bridge the income gap among citizens; improve access to and quality of education; and increase economic growth that spurs job creation, in light of the country's demographic transition. At least 50 percent of the population is under 21 years old, with many children and youth lacking appropriate education and productive skills.

Key to accomplishing Cambodia's development goals will be to remove and prevent children from the worst forms of child labor, especially hazardous work in agriculture. Children begin working at a very young age, some as early as age six, with many dropping out of school to work exclusively. According to the Understanding Children's Work (UCW) Project, approximately 45 percent of children ages 5 to 14 years were found working in 2001. The majority of working children were found in the rural agricultural sector (76.5 percent), followed by services (17.7 percent), manufacturing (4.9 percent) and other sectors (0.9 percent). Economically active children in Cambodia work an average of 22 hours per week, which increases to 31 hours when household chores are taken into account. Non-Khmer children, such as Vietnamese migrant children, are more likely to be working than Khmer children.

Child labor is most prevalent and severe in three provinces: Banteay Meanchey, Prey Veng and Siem Reap. However, other provinces such as Otdar Meanchey Cham, Phnom Penh, Kandal, and Takeo also show high prevalence rates. Working children facing the most obstacles to schooling and greatest risk of dropping out are in Kaoh Long, Mondol Kiri, and Preah Vihear. Children most at-risk of being trafficked to urban areas in Cambodia or outside the country live in the rural districts of Kompong Cham, Battambang, Svey Rieng, Prey Veng, Kandal, and Takeo.

Hazardous work by children occurs in both rural and urban areas, and includes work on commercial rubber plantations, in salt production, fish processing, portering, brick-making, and garbage-picking. Children also work in restaurants and in handicrafts and related industries. Street children engage in scavenging, begging, and shoe polishing. Children, primarily girls, also work in domestic service. Most girls working as child domestic workers are 14 to 17 years of age, though it is not uncommon to find girls as young as 8 or 9 years of age. Many child domestic workers typically work 12 to 16 hours a day, 7 days a week, preventing them from going to school and learning productive skills.

Children are also involved in other worst forms of child labor. Certain provinces of the country have higher incidence of the worst forms of child labor, based on their geographic characteristics, proximity to borders, levels of poverty, etc. Areas designated as Special Economic Zones may attract workers, including child workers, and increase migrant flows and vulnerability. There have been documented patterns of children migrating to large cities for work, only to find themselves in various forms of exploitive or abusive labor. The commercial sexual exploitation of children (CSEC) is a problem in Cambodia. Cambodia is reported to be a country of origin, transit, and destination for trafficking in children for the purposes of CSEC as well as various forms of work, including forced labor and begging. Internationally, Vietnamese children are trafficked into Cambodia for CSEC and forced labor and Cambodian children are trafficked to Thailand and Vietnam.

Although Cambodia abolished school fees in 2001, the prohibitive costs of schooling (i.e., school supplies, uniforms); poor quality and relevance of education (i.e., limited availability of instructional materials, shortage of trained and motivated teachers); and inadequate access to schools (i.e., distance/transportation, primary schools lacking full range of grades, no secondary schools in many communities) contribute to children entering into exploitive labor, particularly in rural areas. School enrollment in the rural areas continues to lag behind urban areas. Only about 20 percent of rural children receive education in grades 7-9, and rural girls are 47 percent less likely to receive an education than boys. As of 2003, 60 percent of children who started primary school were likely to reach grade 5. The situation is compounded by a shortage of non-formal schools and literacy programs in rural areas.

ii. Relevant Policies, Programs, and Projects

A number of efforts are currently being undertaken by the Government of Cambodia, international organizations, and nongovernmental organizations (NGOs) to directly address exploitive child labor in Cambodia, as well as the underlying causes of child labor such as poverty and lack of resources. In 2006, the Government of Cambodia ratified both ILO Convention 182 on the Elimination of the Worst Forms of Child Labor and the United Nations Protocol to Prevent, Suppress and Punish Trafficking in Persons, especially Women and Children. The government has drafted a National Plan of Action for the Elimination of the Worst Forms of Child Labor, and has set time-bound targets for reducing the proportion of children engaging in the worst forms of child labor by 2015. The National Steering Committee on Child Labor was reconstituted in September 2006 to guide the country's efforts toward eliminating child labor under the National Plan of Action for the Elimination of the Worst Forms of Child Labor. Child labor was included as a priority issue in the first two-year Strategic Plan of the Ministry of Labour and Vocational Training for 2007-08. In addition, child labor concerns have been incorporated into the government's major development frameworks, including the National Strategic Development Plan (NSDP) 2006-2010 and the Education Strategic Plan (ESP) 2006-2010.

In addition to the unconditional worst forms of child labor identified under ILO Convention 182, the government has drafted a ministerial order, known as a Prakas, identifying 16 other categories of worst forms of child labor to be targeted for elimination. They are: Portering; domestic service; waste scavenging/rubbish picking; work in rubber and tobacco plantations; fishing; work in agricultural plantations; brick making; salt production; handicrafts; processing sea products; stone and granite breaking; quarrying; coal mining; restaurant work; and begging. The Ministry of Labour and Vocational Training has the primary responsibility for enforcement of child labor laws and regulations. Cambodia's Labor Law defines 15 as the minimum age for work (18 for hazardous work), although children between 12 and 15 may do light, non-hazardous work that does not prevent regular attendance at school or other training programs. Employers who violate the law may be fined 31 to 60 days of the base daily wage. The Labor Law prohibits work that is hazardous to the mental and physical development of children under age 18 and prohibits all forced or compulsory labor, including in agriculture and domestic work. However, the Labor Law currently applies only to the formal sector, while child labor exists mostly in the informal sector.

Addressing trafficking in persons is a priority for the Government of Cambodia, which drafted a National Plan of Action Against Trafficking in Persons and Sexual Exploitation 2005-2009. The National Plan of Action Against Trafficking in Persons and Sexual Exploitation expands the scope of a previous plan to include trafficking for both sexual and labor exploitation purposes. Along with Burma, Laos, the People's Republic of China, Thailand, and Vietnam, Cambodia is signatory to the “Coordinated Mekong Ministerial Initiative against Trafficking (COMMIT).”

Cambodia is currently participating in several USDOL-funded projects designed to combat exploitive child labor and provide educational opportunities for children. The “Support to the Cambodian National Plan of Action on the Elimination of the Worst Forms of Child Labor: A Timebound Approach,” implemented by ILO-IPEC, aims to withdraw 4,260 and prevent 5,650 children from working in exploitive conditions in several sectors: Brick-making (Shanoukville, Siem Riep, Kampong Cham); portering (Banteay Meancheay); rubber-making (Kampong Cham); domestic service (Phnom Penh); salt production (Kampot and Kep); fish processing (Shanoukville, Kampot, Kep); services such as hotel work, restaurant work, and beer promotion (Siem Riep and Phnom Penh); and trafficking (Shanoukville, Banteay Meancheay, Prey Veng). In addition, the project is building a robust enabling environment for the development and implementation of policies and programs on child labor and increasing the knowledge and capacity of the government and stakeholders on child labor.

USDOL is currently funding three child labor and education projects in Cambodia, implemented by Hagar International, World Education, and Winrock International. The Hagar International project assists trafficked women and children by providing temporary shelter, rehabilitative and counseling services, literacy and vocational training classes, and assistance with reintegration into their communities of origin or new communities. The World Education project works in Prey Veng, Kompong Cham, Banteay Meanchay, and Phnom Penh to reduce the number of children trafficked and/or involved in CSEC and domestic labor. As of September 2006, the project had prevented 15,749 children from being trafficked through provision of educational and other services. Cambodia is also part of CIRCLE, a global project implemented by Winrock International and funded by USDOL that aims to reduce the engagement of children in the worst forms of child labor by funding small-scale projects carried out by community-based organizations. CIRCLE project strategies in Cambodia have included awareness-raising among children at high risk of dropping out of school, and strengthening education systems to better serve children who have been trafficked and/or involved in CSEC, out-of-school youth, and child migrants. In addition, external funding to target poverty reduction, increase access to basic services, and strengthen institutions from partners such as the World Bank, the Asian Development Bank, and several other UN agencies continues to support programs in Cambodia.

iii. Scope of Work

Applicants should design a creative project strategy to build partnerships to combat exploitive child labor and improve education for children engaged in, or at-risk of entering, exploitive labor, taking into account the socio-economic conditions in Cambodia. Applicants must also take any cross-cutting themes (discussed below) into account that could affect project results in Cambodia and meaningfully incorporate them into the proposed strategy, either to increase opportunities for, or to reduce obstacles to, successful implementation.

1. Specific Target Groups, Sectors, and/or Geographic Focus

The Government of Cambodia has identified priority sectors for attention under its draft National Plan of Action for the Elimination of the Worst Forms of Child Labor. In line with the draft National Plan of Action for the Elimination of the Worst Forms of Child Labor, USDOL has identified hazardous child labor in agriculture as the primary sector of focus for this project. Specifically, Applicants should prioritize children engaged in hazardous work on commercial farms and subsistence agriculture, where children's work prevents them from going to school, exposes them to harmful chemicals, and places them at risk of injury from heavy loads, agricultural tools, or machinery. Specific sub-sectors within agriculture should be clearly identified by Applicants. Applicants should also propose additional sectors of focus that are in accordance with the draft National Plan of Action for the Elimination of the Worst Forms of Child Labor and can include but are not limited to, mining, CSEC, scavenging/garbage picking, brick making, portering, stone quarrying/breaking, fishing, begging, work in restaurants, hotels, and karaoke bars, and domestic service. A convincing justification must be included for selection of target sectors, and justifications should clearly demonstrate knowledge of existing interventions in those sectors and how the proposed project will build off of or complement existing or past interventions.

In determining provincial targets, Applicants should take into consideration priority areas outlined in the draft National Plan of Action for the Elimination of the Worst Forms of Child Labor, as well as the location of current USDOL-funded activities and ensure that efforts are not duplicated and that efforts/resources are leveraged where possible. At a minimum, Applicants should propose four provinces for project interventions and provide a clear justification for choices. Applicants are encouraged to target populations that are particularly disadvantaged, such as girls.

2. Collaboration With Specific Programs and/or Links to Specific National Policies

Applicants should demonstrate a thorough knowledge of ongoing and previously piloted interventions and good practices to eliminate child labor in Cambodia and the Mekong region, at the local, national and regional levels. Proposals should support and/or build upon the efforts of past and existing projects to withdraw children from, and prevent children from entering, the worst forms of child labor in agricultural and other sectors in rural areas; children's involvement in prostitution and begging in urban areas; as well as the trafficking of children for exploitive labor, without duplicating ongoing or previous efforts. Interventions and activities should support the government's National Plan of Action for the Elimination of the Worst Forms of Child Labor. At minimum, collaborations should take place with the MOLVT; the Ministry of Social Affairs; Veterans and Youth Rehabilitation (MOSAVY); the Ministry of Education, Youth, and Sport (MOEYS); the National Steering Committee; provincial and local-level government officials; ILO-IPEC; World Education; United Nations agencies and other International Organizations working in Cambodia; the Civil Society Network Against Child Labor; and other NGO's and local groups working on child welfare and social service provision.

3. Implementing Environment/Cross-Cutting Themes

Over the past decade, Cambodia's economic growth has improved, but its history of conflict and resulting negative socio-economic effects have left the country with significant development challenges that must be considered when designing project interventions. Applicants should consider the specific challenges of a lack of basic rural infrastructure; low capacity of civil society and governmental institutions; lack of access to quality and relevant education, especially in rural areas; and the lack of a skilled workforce. In addition, Cambodia is a country of origin, transit, and destination for trafficking in persons. Given children's vulnerability to being trafficked due to lack of economic resources, lack of education, and migration patterns in the region, internal and cross-border trafficking of children should be addressed in the application. However, the primary focus of the project should not be on trafficking; rather, trafficking should be addressed within the overall context or as a project component.

4. Project-Specific Strategies

Applicants must propose a strategy that supports the government's National Plan of Action for the Elimination of the Worst Forms of Child Labor and contributes toward Cambodia's targets for reducing the incidence of the worst forms of child labor by 2015. In order to address the inadequacies of the current education system, the proposed strategy should assist in increasing the capacity of the Ministry of Education offices nationally and in target provinces to ensure improved service delivery, increased budgetary commitments and management, and awareness of child labor. Service delivery and management should be further enhanced in both the formal and non-formal system through teacher and administrator trainings and other approaches as proposed by the Applicant. Given the lack of alternatives to formal schooling in rural areas, the Applicant must also design a strategy to assist children who are not able or are unwilling to attend formal school, by providing access to non-formal education and vocational training. If cultural traditions and norms impact decisions about schooling, Applicants must show how education programs would be sensitive and responsive to these traditions, particularly as they relate to girls' education.

Enforcement of existing labor laws is inadequate in Cambodia. To address this issue, Applicants should propose a strategy for increasing the capacity of labor inspectors on enforcement of legal provisions relating to child labor in the formal workplace, and contribute to ongoing efforts to expand legislation to cover children working in the informal sector. This strategy should demonstrate how efforts would be coordinated with, and complementary of, existing efforts of the ILO-IPEC-supported Timebound Program and the government's National Plan of Action for the Elimination of the Worst Forms of Child Labor. In addition, Applicants should design activities to support the government in its review of its current list of hazardous child labor and finalization of the new list, efforts to raise awareness of the list, and improve compliance and enforcement of regulations surrounding the list.

There is a lack of systematic and reliable data on the unconditional worst forms of child labor in Cambodia. These forms of child labor are often culturally sensitive and/or illicit, making information difficult to gather. Applicants are encouraged to conduct small-scale research projects and disseminate findings on the unconditional worst forms of child labor in Cambodia, especially on products made from exploitive child labor or forced labor. This information should also be used in formulating more targeted and coordinated responses.

Project of Support to the Colombia Timebound Program on the Elimination of the Worst Forms of Child Labor

i. Background

In Colombia, 10.4 percent of children ages 5 to 14 years were found working in 2001. The majority of working children were found in the services sector (49.9 percent), followed by agriculture (35.6 percent), and manufacturing (12.6 percent). Approximately 14.1 percent of all boys 5 to 14 were working compared to 6.6 percent of girls in the same age group. Children mine and process emeralds, gold, clay, and coal under dangerous conditions. Some work in aspects of the illegal drug trade, such as harvesting coca. Child labor is also a problem in the informal sector, where children work in agriculture, commerce, industry, and services. Many girls work in domestic service.

Child pornography and commercial sexual exploitation of children (CSEC), including prostitution and sexual tourism, are reported in Cartagena and at resorts on the Caribbean Coast. Colombia is a major source of girls trafficked for the purpose of CSEC. Children are trafficked internally from rural to urban areas for sexual exploitation, and are also trafficked abroad. Children in Colombia are also recruited, sometimes forcibly, by insurgent and paramilitary groups to serve as combatants in the country's ongoing conflict.

ii. Relevant Policies, Programs, and Projects

There are a number of efforts by the Government of Colombia, international organizations, and nongovernmental organizations (NGOs) to address exploitive child labor. The Government of Colombia's policy framework to address child labor has been the National Plan for the Elimination of Child Labor and the Protection of Working Youth (2003-2006). The government and other relevant actors are drafting a new national plan, which has not yet been officially approved.

In November of 2006, a new legal framework was put into effect, the Childhood and Adolescence Code, which replaces most all provisions of the 1989 Minor's Code, and includes provisions related to child labor. The 2006 Code establishes the government's obligation to eliminate the worst forms of child labor. The Ministry of Social Protection (MSP) is responsible for enforcing child labor laws in the formal sector and protecting adolescent workers authorized by the government to work. Labor can only be performed by those under the legal working age of 14 under special circumstances. Various legal provisions regulate the conditions under which minors may work to ensure that their education is not compromised. Employers must enroll 12 to 17 year olds who have not completed basic education in school and allow them sufficient time to pursue their studies. Schools must report cases to authorities in which children are involved in the worst forms of child labor. The National Police is also responsible for detecting and investigating these cases.

Other important policy frameworks and legal instruments that address exploitive child labor in Colombia include the National Plan of Action for the Prevention and Eradication of Commercial Sexual Exploitation of Boys, Girls, and Adolescents Below 18 Years of Age (2006-2011), and Colombia's Ten-Year Plan for Children (2004-2015). A Ministry of Social Protection Resolution prohibiting children under 18 from certain forms of dangerous work was published in December 2005. In compliance with Colombia's ratification in 2005 of ILO Convention 182 on the Worst Forms of Child Labor, the law prohibits those under age 18 from the worst forms of child labor.

The Government of Colombia participates in several programs to eliminate exploitive child labor that are funded by international organizations and foreign governments including the United States. These programs include a USDOL-funded project implemented by World Vision to withdraw and prevent children from exploitive labor in the municipalities of Funza and Madrid. Colombia also participates in a regional project in four South American countries to withdraw and prevent children from CSEC and child domestic labor, and was part of a global project on child soldiers, both funded by USDOL and implemented by ILO-IPEC. Another ILO-IPEC project, funded by the Canadian government, aims to improve national, regional, and municipal government cooperation to address child labor.

Various Colombian government entities carry out activities related to the elimination of exploitive child labor. The Colombian Family Welfare Institute administers programs to provide rehabilitation services to children who have been recruited into armed groups, children engaged in CSEC, and children who live on the streets. The Colombian Institute of Geology and Mining implements a project with the United Nations Development Program to eliminate child labor in the mining sector. Other ministries working in this area are the Ministry of Social Protection, the Ministry of Communication, the Inter-institutional Committee against Trafficking in Persons, and the National Police.

The Government of Colombia supports education and other programs that may indirectly contribute to the elimination of exploitive child labor. The Ministry of Education's Policy Guide for Vulnerable Populations includes strategies to address child labor, and the Ministry of Defense distributes educational kits to schools in areas where children are at-risk for recruitment into armed groups. Through World Bank loans, the Government of Colombia is working to improve education in rural areas, and funds a “Families in Action” conditional cash transfer program to encourage school attendance. The government assists needy families to pay for education costs including books, supplies, transportation, and other fees. The World Food Program and the Colombian government also operate a primary school feeding program. The government participates in, and makes financial contributions to, a project implemented by the International Organization for Migration that provides services to vulnerable groups, including education and job-training for displaced youth. This project is funded by the United States Agency for International Development and Italy. All of these programs help to promote the retention of children to grade 5 and beyond, since education is compulsory in Colombia to age 15. As of 2003, however, only 77 percent of students were likely to reach grade 5.

iii. Scope of Work

1. Specific Target Groups, Sectors, and/or Geographic Focus

Applicants should identify target sectors and specific beneficiary groups in line with Colombia's new National Plan for the Elimination of Child Labor and the Protection of Working Youth, with a particular focus on sectors that the government has identified as a priority under a Timebound Program as part of its commitment to implement ILO Convention 182. Applicants may, however, identify other sectors where children are at-risk or involved in other worst forms of child labor, but must present a compelling reason for such a choice. Since many Colombian children are affected or displaced by conflict, the project should pay special attention to their needs.

2. Collaboration With Specific Programs and/or Links to Specific National Policies

Applicants should support Colombia's new National Plan for the Elimination of Child Labor and the Protection of Working Youth and sectors that the government has identified as a priority under a Timebound Program. Since a Timebound Program is complex, in addition to the Ministry of Labor, the project should include coordination with other ministries working in areas related to combating exploitive child labor and child protection, including the Ministry of Social Protection, the Ministry of Communication, the Inter-institutional Committee against Trafficking in Persons, the Colombian Family Welfare Institute, and the National Police.

3. Implementing Environment/Cross-Cutting Themes

Colombia has endured more than 35 years of conflict by rival armed groups. This conflict affects the implementing environment in areas such as security and the existence of a high number of internally displaced persons with reduced access to health care, education, or employment. Displaced persons are particularly vulnerable to labor abuse and exploitation, including the worst forms of child labor. Armed groups also recruit and use children as soldiers, and there has been a high degree of violence against organized labor. Applicants should consider to what extent these challenges might affect the project's implementation. Project strategies should account for the continued conflict, and the relationship between the armed conflict and exploitive child labor. Changes in the political environment, including those at the national, regional, and local level, may also affect project implementation. These changes may be a result of elections or also of changes in policy and personnel in cooperating government agencies. Applicants should design strategies that minimize disruptions when such events occur.

4. Project-Specific Strategies

Applicants must propose approaches that assist Colombia in developing and implementing a Timebound Program to eliminate the worst forms of child labor. This program will assist the Government of Colombia in fulfilling its obligations under Articles 1 and 7 of ILO Convention 182. Specifically, the Applicant's strategy should strengthen the capacity of the Colombian government and civil society organizations to take immediate, effective, and timebound measures to: (a) Prevent the engagement of children in the worst forms of child labor; (b) provide the necessary and appropriate direct assistance for the withdrawal of children from the worst forms of child labor and for their rehabilitation and social integration; (c) ensure access to free basic education, and, wherever possible and appropriate, vocational training, for all children removed from the worst forms of child labor; (d) identify and reach out to children at special risk; and (e) take account of the special situation of girls. In support of a Timebound Program to Eliminate the Worst Forms of Child Labor, the Applicant's proposal must focus both on withdrawing and preventing children from exploitive child labor through the provision of direct educational services, as well as improving country capacity to address child labor, including the policies and capacities of relevant government and civil society institutions. Timebound Programs to Eliminate the Worst Forms of Child Labor have been implemented in several countries around the world. Lessons learned from these Timebound Programs should be used to improve the design of a Timebound Program in Colombia.

Applicants must also propose a strategy to strengthen the ability of Colombian government and civil society organizations to improve relevant policies and institutional capacity to eliminate the worst forms of child labor. In addition, Applicants should seek to strengthen the capacity for inter-institutional coordination given that the complexity of child labor issues requires the collaboration of many public and private institutions in what are currently often disparate programs. Applicants' proposals should clearly identify the institutions with which they intend to conduct capacity-building activities; each organization's specific role in relation to the project's strategy of support to the Timebound Program; the expected result of technical assistance to be provided by the Applicant; and the means through which the organizations will receive technical assistance (i.e., specified number of trainings or consultancies). These efforts could involve building organizational capacity in the following areas: To withdraw children from, and prevent children from entering, exploitive child labor; to plan, implement, and monitor activities to eliminate exploitive child labor; and to identify and effectively respond to cases of the worst forms of child labor. They could also include improvements to laws and law enforcement in an environment of constrained resources and ongoing armed conflict; to education policies; to quality of service provision to children and social support for families; and to awareness raising. Applicants should identify how the project will productively engage existing institutions such as Inter-institutional Committee for the Eradication of Child Labor and the Protection of Young Workers and the Inter-institutional Committee against Trafficking in Persons in the intervention area(s) to ensure that project goals will be met and project efforts will become sustainable.

In their proposed strategy, Applicants should demonstrate a thorough knowledge of previous and on-going interventions and good practices to eliminate child labor in Colombia, including those funded by USDOL, those occurring as part of National Plans for the Elimination of Child Labor and the Protection of Working Youth, and the National Plan of Action for the Prevention and Eradication of Commercial Sexual Exploitation of Boys, Girls, and Adolescents Less than 18 Years of age. The proposal should build upon the efforts of past and current efforts to withdraw and prevent children from engaging in exploitive labor. Education strategies should take into account successful existing Colombian educational programs including Accelerated Learning and New Schools (Escuela Nueva). When appropriate, Applicants should identify intervention strategies that link direct beneficiaries to these educational services.

Promoting Education and Appropriate Youth Employment in the Dominican Republic Through Public-Private Partnerships

i. Background

An economic crisis in 2003 led to increased poverty rates throughout the Dominican Republic, which has disproportionately affected the poorest segments of society, including children and youth. In 2000, approximately 14.5 percent of children between the ages of 5 and 14 years were working in the country, as compared to 5.9 percent in Costa Rica, 9.2 percent in Honduras, 10.2 percent in El Salvador, 10.9 percent in Nicaragua, and 16.1 percent in Guatemala. In the Dominican Republic, approximately 21.6 percent were boys ages 5 to 14 were working as compared to 7.3 percent of girls in the same age group. The Government of the Dominican Republic estimates that 41 percent of working children ages 5 to 17 work in services, 21 percent in commerce, 19 percent in agriculture, and 11 percent in manufacturing industries. Most work performed by children takes place in the informal sector. In urban areas children work in the streets, markets, garbage dumps, and repair shops. They wash cars, shine shoes, and carry heavy loads. Many urban child workers are migrants from other regions. Children also work as domestic servants in third-party homes. In rural areas, children work mostly in agriculture and services, and most child agricultural workers are boys. Haitian and Dominican children plant and cut sugar cane. Child labor has been found to be a problem in Haitian sugar cane worker villages, or “bateyes” that lack basic services such as water, electricity, and schools.

The Dominican Republic is also a source, transit, and destination country for children trafficked for the purposes of commercial sexual exploitation (CSEC) and forced labor. Children are trafficked internally from rural to urban and tourist areas where CSEC is a problem, especially in Boca Chica, Puerto Plata, and Sosúa. Haitian children are trafficked to the Dominican Republic for work in the streets, in agriculture, and also for the purpose of CSEC. Children, particularly Haitian children, are sometimes “adopted” by families who register the child as their own and provide some form of payment to the birthparents. Such children are often exploited as domestic workers or as workers in family businesses.

Although education is free and compulsory to age 14, nearly half of all Dominican children do not complete school through the primary level, and at the secondary level, 50 percent of students are over age, and up to 20 percent are 3 or more years behind their cohorts. High repetition rates contribute to school abandonment and, in rural areas, barely 50 percent of schools go beyond the fourth grade. More than 50 percent of rural schools operate on a multi-grade system.

The Government of the Dominican Republic defines “youth” as individuals between the ages of 15 and 35 years. Article 15 of the General Youth Law focuses on promoting the successful integration of youth into the job market and the Ministry of youth, under the direction of the Administrative Secretariat of the Presidency, works to promote the development and societal integration of Dominican youth to allow them to contribute to national welfare. The economic crisis has contributed to increased school drop-out rates, an increase in the number of youth who resort to crime, violence, and gang activity, and high rates of youth under- and unemployment. The unemployment rate for youth ages 15 through 24 years is 31 percent, nearly double that of the average population (17 percent). Many adolescents of legal working age (14 years) with low school attainment and few marketable skills find work in the informal sector and work under hazardous conditions, receiving much lower pay than work in the formal sector would offer.

In addition, the traditional vocational and skills training institutions have only been partially accessible to low-skilled youth with low levels of education, and a significant number of youth who do not have official identity documentation are not allowed to participate in national training programs. Many of these youth lack the information necessary to help them obtain the required documentation.

ii. Relevant Policies, Programs, and Projects

In 2005, the Dominican Congress signed the Central American Free Trade Agreement (CAFTA) which commits the government to labor provisions, including the elimination of the worst forms of child labor. In 2006, the government launched a National Plan to Eliminate the Worst Forms of Child Labor (2006-2016). The Secretariat of Labor (SET), in coordination with the National Council for Children and Adolescents (CONANI), is responsible for protecting minors against labor exploitation. The SET operates provincial and municipal committees on child labor. The government has been working to increase its efforts to protect children from exploitive child labor, such as by making monthly labor inspections to sugar cane worker villages. It has effectively enforced child labor laws in the formal sector; however, has been less successful in the informal sector. Also, the legal requirement that CONANI receive a minimum of two percent of the national budget is not being met.

Dominican law sets the minimum age for employment at 14 years and provides guidelines for acceptable work practices for minors between the ages of 14 and 18. Employers of minors are required to pay them at least the legal minimum wage. Fines have been established for violations of legal provisions involving child labor. National laws establish penalties of imprisonment and fines for assisting in or the trafficking of minors for the purposes of forced labor; CSEC, including prostitution and pornography, or other degrading activities in exchange for compensation; and the making, distributing, or publishing of pornographic photographs of children is also punishable by incarceration and fines. Laws are also in place that prohibit forced labor and the use of children in drug trafficking.

The government is implementing an Action Plan for the Eradication of Abuse and Commercial Sexual Exploitation of Boys, Girls, and Adolescents. The Armed Forces provides educational and recreational programs for working and at-risk children and runs a shelter for such children. The government also supports several child labor, trafficking, and CSEC awareness campaigns, workshops, and trainings, and provides funding to nongovernmental organizations (NGOs) that work with trafficking victims. The anti-trafficking unit of the Office of the Attorney General investigates and prosecutes trafficking crimes. The government has shut down several businesses involved with CSEC, rescued children, and obtained related convictions. However, according to the U.S. Department of State, the Dominican Republic lacks effective trafficking law enforcement and victim protection programs, due in part to a lack of resources. The border with Haiti is not sufficiently monitored, according to the U.S. Department of State. The Technical Institute for Professional Development provides training to individuals who have been trafficked and to children at risk of being trafficked, especially those in the Boca Chica area. The Tourism Police provides counseling services to abused children, including trafficked children. CONANI operates a referral center for children in Boca Chica who have been involved in CSEC, and runs seven shelters for children.

The Government of the Dominican Republic also supports education and other programs that may indirectly contribute to children's withdrawal from, or prevention from entering, exploitive labor. In 2005, the government developed an inter-ministerial social sector policy that focuses resources for the poor. The Secretariat of Education (SEE) provides some stipends for poor families who keep their children in school and out of exploitive work. A World Bank USD 23 million loan will be used to expand a SET program that provides job training and internships to individuals age 16 and above, as well as to expand an SEE program that provides school deserters with the opportunity to complete their education.

Several projects funded by USDOL have supported the government's Timebound Program to eliminate the worst forms of child labor and were designed to remove or prevent over 22,000 children from exploitive work in agriculture, urban work, CSEC, and trafficking. These projects, implemented by the ILO-IPEC and DevTech Systems, Inc., have several interesting components that include the development of a community-based child labor monitoring system (CLMS) and the engagement of the academic and business sectors, including the Dominican foundation EDUCA (previously the recipient of USAID assistance to develop business-education partnerships). These efforts aim to combat child labor and promote better educational opportunities for children involved in child labor. The Office of the First Lady also administers a program to provide income generating opportunities to families of children at-risk for CSEC, including beneficiaries of ILO-implemented projects. The government has participated in a USDOL-funded regional project implemented by ILO-IPEC to eliminate CSEC and hazardous agricultural child labor in Central America and the Dominican Republic, and a USDOL-funded regional project implemented by CARE to strengthen government and civil society's capacity to address the educational needs of working children, and improve the quality of, and access to, basic education.

iii. Scope of Work

Applicants will design a project strategy that involves social partners such as, but not limited to, employers, industry organizations, worker organization, NGOs, community-based organizations (CBOs), and academia, to combat exploitive child labor and improve education for children engaged in, or at-risk of entering, exploitive labor. The project should take into account the socio-economic conditions in the Dominican Republic that include inter-generational poverty; early school desertion, and premature employment by children in the non-formal labor sectors, including in the worst forms of child labor; and under- or unemployment of youth in the formal sectors of the economy.

1. Specific Target Groups, Sectors, and/or Geographic Focus

The project should target children engaged in, or at-risk of entering, exploitive child labor, including the worst forms of child labor, and taking into account the priorities identified by the Government of the Dominican Republic in its 2006 National Plan to Eliminate the worst forms of child labor. Applicants will identify priority geographical areas and primary target groups of children: (1) Children under age 14, and (2) youth between the ages of 14 and up to 18. Applicants will design different but complementary programs for each target group, providing equal opportunities for both males and females. Each program's design should be developed in part by those who will benefit from its services in the targeted regions.

2. Collaboration With Specific Programs and/or Links to Specific National Policies

The project should support the Dominican Republic's National Plan to Eliminate the worst forms of child labor and build upon other USDOL-funded efforts and projects supporting the Dominican Republic's Timebound Program to Eliminate the worst forms of child labor. It should build links with Secretariat of Education programs to improve the quality of basic education. It should also coordinate with the World Bank-financed youth job training and internship project, taking into account the spirit and provisions of the country's General Youth Law. The project's job/vocational training component targeted to the older age group should support national policies, but should also be adapted to the specific characteristics of the project's regions.

3. Implementing Environment/Cross-Cutting Themes

Exploitive child labor in the Dominican Republic is both a consequence and cause of recurring poverty, which is exacerbated by a low-quality education system. While the rate of child labor for children under 15 is higher in the Dominican Republic than in Central America, the unemployment rate for individuals ages 15 through 24 years is 31 percent, nearly double that of the average population (17 percent). Thus, paradoxically, premature child labor and school desertion, and high “youth” unemployment represent two sides of the same coin; the challenge of overcoming economic and social inequalities and of accessing high quality education and employment opportunities.

In addition, the traditional vocational and skills training institutions have only been partially accessible to low-skilled “youth” with low levels of education. National training programs also have not necessarily taken into account the specific social and productive contexts in which the knowledge transferred would be applied. The country's opening up to trade and flow of people migrating and returning provide many opportunities to make reforms. The country also has an engaged business and academic sector eager to address these challenges, and is ripe for the development of such social partnerships.

4. Project-Specific Strategies

This project should focus on strengthening sustainable networks, consortiums, or working groups composed of both public and private sector entities in order to implement actions to eliminate exploitive child labor in the Dominican Republic. These actions should also promote educational and training opportunities, particularly those leading to improved future employability for youth in jobs that are more likely to combat the cycle of poverty that often results in exploitive child labor. The project should pay special attention to promoting corporate social responsibility, developing codes of conduct in specific sectors targeted (e.g., agriculture, tourism, or other proposed sectors of project focus), and expanding the emerging role of the business sector in combating exploitive child labor.

Applicants should propose demonstration projects that develop partnerships with social partners such as, but not limited to, the following: employers, industry organizations, worker organization, NGOs, CBOs, and academia to (1) improve the quality of basic education for target children under age 14, and (2) enhance educational, vocational and job training and job placement opportunities for target youth between the ages of 14 and up to 18 years. Each of the two demonstration projects should forge links between education and practical experience, and promote leadership, entrepreneurship, and citizenship relevant to the Dominican context.

Activities of these partnerships may include, but are not limited to, the following: action research designed to inform demonstration projects and proposed policies that would benefit children involved in exploitive child labor in the Dominican Republic. These activities would center on expanding awareness of public and private sector entities regarding exploitive child labor, improving coordination between the public and private sector to combat exploitive child labor, and the adoption of policies and practices by both public and private organizations to improve educational and employment opportunities for youth that have low income and low levels of schooling, no technical training, and work experience only in exploitive child labor.

The project may also focus on increasing the number and quality of individual private sector initiatives to eliminate and prevent exploitive child labor. Examples of these types of initiatives include the provision of direct educational services to children, the adoption of policies or development of innovative initiatives by programs by private sector organizations to combat or monitor exploitive child labor, and the development of private sector mechanisms to detect and respond to cases of exploitive child labor.

Preventing Exploitive Child Labor and Reintegrating War-Affected Children in the Democratic Republic of the Congo

i. Background

The Democratic Republic of the Congo (DRC) concluded a brutal civil war in 2003 that lasted 5 years and took the lives of nearly 4 million people. In 2006, for the first time in more than 40 years, the government held parliamentary and presidential elections. Despite these achievements, armed groups operate outside of the government's control, and fighting continues in different regions of the country, particularly in Ituri District, North and South Kivu, and northern Katanga. Violent conflict, widespread poverty, and a lack of basic services contribute to the exploitation of children.

In the DRC, children work in the informal sector and in subsistence agriculture, which constitute the largest parts of the economy. Some parents make their children hunt, fish, engage in prostitution, or beg in the streets to support their families instead of attending school. Children also work in the extraction of natural resources. In Katanga province, children reportedly dig holes and wash, sift, and transport minerals to pay school fees and support their families. While recent child labor statistics are unavailable, the Understanding Children's Work (UCW) Project, an interagency collaboration among the ILO, UNICEF, and World Bank, estimates that approximately 39.8 percent of children ages 5-14 years were found working in 2000. At the height of the 5-year civil war, an estimated 30,000 children were fighting or living with armed groups. While there are no official statistics, reports indicate that 3,000 to 11,000 children still need to be demobilized. Amnesty International (AI) notes that, while girls represent 40 percent of child soldiers, they only represent two percent of the children released by armed groups in some areas of the country. According to AI, this discrepancy has occurred because service providers falsely assume that female child soldiers are the “wives” of adult fighters. Armed groups in the DRC continue to abduct and recruit children to support violent conflict. Children associated with armed groups are used as combatants, laborers, and sexual slaves or forced to mine natural resources. Many children remain vulnerable to recruitment or re-recruitment due to a lack of economic alternatives and inadequate community support.

Children are trafficked within the DRC for forced labor and sexual exploitation. Most trafficking occurs within the eastern provinces of the country where government control is weak and armed groups continue to abduct and forcibly recruit children.

In October 2005, the UN Office for the Coordination of Humanitarian Affairs (OCHA) reported that 1.6 million people remained displaced due to violence and instability. According to UNICEF, displaced children are frequently separated from their parents, removed from school, and exposed to disease and malnutrition.

The HIV/AIDS epidemic is a significant problem in the DRC for all children and their families. According to UNAIDS, there are approximately 120,000 children living with HIV/AIDS and an estimated 680,000 children who have been orphaned by AIDS in the DRC. The HIV/AIDS prevalence rate ranges from 1.7 to 7.6 percent, but it is thought to be as high as 20 percent among women in conflict areas due to widespread sexual abuse and violence.

ii. Relevant Policies, Programs, and Projects

There are a number of current efforts by the Government of the Democratic Republic of the Congo, international organizations, and NGOs to combat exploitive child labor, including child soldiering, and address the country's lack of resources. With the support of the World Bank, the government is implementing a national plan for the disarmament, demobilization and reintegration (DDR) of adult and child ex-combatants. In 2006, the government created a national committee to combat the worst forms of child labor, adopted the National Plan for the Protection of Children, and finalized a poverty reduction strategy paper that addresses the problem of child labor. In collaboration with UN agencies, the World Bank, the European Commission, and other donors, the government also finalized a Country Assistance Framework (CAF) to coordinate strategies for the reform, reconstruction, and development in the DRC from 2007 to 2010.

The government participates in a 4-year, global project, funded by USDOL and implemented by ILO-IPEC to reintegrate war-affected children. Ending in May 2007, this project aimed to withdraw 2,000 children and prevent another 2,000 children in the DRC from child soldiering and other forms of exploitive labor. With government support, UNICEF disarms and reintegrates child soldiers, rehabilitates classrooms, trains teachers, and distributes school supplies. USAID promotes community infrastructure projects and micro-credit schemes to facilitate the reintegration of ex-combatants. USAID is also partnering with select international mining firms to reduce the number of child miners in Katanga province.

The Ministry of Labor is responsible for implementing and enforcing child labor laws and regulations. The law provides for legal sanctions against employers who actively recruit children under the age of 15, and employers who are found employing children under 15 may be punished with a fine. Legal remedies to enforce child labor laws include criminal penalties, civil fines, and withdrawal or suspension of one or more civil, national, or family rights, including denial of legal residence in the country for a period of 5 to 10 years. The law also enables inspectors and the police to bring charges against employers of children under age 15 in all sectors, including apprenticed children and family businesses.

iii. Scope of Work

Applicants must take into account cross-cutting themes (discussed below) that could affect project results in the DRC and meaningfully incorporate them into the proposed strategy, either to increase opportunities for, or reduce obstacles to, successful implementation. In the DRC, specific considerations for project strategies and program activities should include the following components:

1. Specific Target Groups, Sectors, and/or Geographic Focus

The proposal should target children who are engaged in exploitive child labor, with a focus on children who have been affected by armed conflict. Applicants are encouraged to include war-affected children compelled to work in mining, mining-related activities, or exploitive labor in mining areas as a target group of the project. Applicants are also encouraged to identify target other groups for intervention, but must provide convincing reasons as to why they merit funding.

2. Collaboration With Specific Programs and/or Links to Specific National Policies

Applicants must demonstrate that the proposed project activities support the National Plan for DDR and the National Plan for the Protection of Children, and complement existing policies and programs that address the underlying causes of poverty. At a minimum, collaborations should take place with the Ministry of Labor and Social Security; the Ministry of Primary, Secondary, and Professional Education; the Ministry of Mines; the National Commission for Disarmament, Demobilization and Reintegration; ILO-IPEC; and UNICEF. Applicants must also demonstrate that the project will work collaboratively with local, regional, and national institutions and organizations already engaged in addressing exploitive child labor and education issues in the DRC. Applicants should also support the efforts begun under the USDOL-funded, ILO-IPEC Child Soldiers project to withdraw children from, and prevent them from entering, exploitive labor in the DRC. In addition, the project should also collaborate and coordinate with the projects reintegrating ex-child combatants being implemented by USAID and UNICEF, as well as the USAID-funded mining project in Katanga province.

3. Implementing Environment/Cross-Cutting Themes

USDOL seeks to fund a sustainable project that provides for the emerging educational needs of war-affected children at-risk of, or engaged in, exploitive child labor in the DRC as the country demobilizes. Applicants should take into consideration the fluidity and constantly changing nature of the security situation in the DRC and related migrations flows. Applicants must also address the cross-cutting theme of HIV/AIDS.

4. Project-Specific Strategies

In developing the project strategy, Applicants must provide a definition of “war-affected children” that will be used in identifying potential direct beneficiaries under the project and should account for the demographic and social characteristics of such children and youth. Applicants should keep in mind interventions for hazardous work, particularly for children between 15 and up to 18 years who meet the minimum age requirements for work. If Applicants propose to target children working in agriculture, they must demonstrate knowledge of injury prevention strategies for children who continue to work under the supervision of their parents. In addition, Applicants should incorporate HIV/AIDS awareness activities into their proposed strategy to withdraw children from, and prevent them from entering, exploitive labor.

Project of Support to the Indonesian Timebound Program on the Elimination of the Worst Forms of Child Labor

i. Background

Indonesia is the world's fourth most populous country, with an approximate population of 245 million, and has the world's largest Islamic population. Indonesia's economy is still recovering from the effects of the 1997-98 Asian financial crisis and the December 2004 earthquake and tsunami, but has regained macroeconomic stability and is achieving modest progress in pursuing poverty reduction and growth strategies. Major development challenges include improving access, efficiency, and quality in the delivery of education and basic social services; strengthening democratic reform after the country's first direct Presidential elections in 2004; increasing the capacity and resources of recently decentralized government agencies; and accelerating employment opportunities for the estimated 2.5 million new entrants into the workforce each year. In addition, Indonesia continues to battle periodic natural disasters, such as the 2004 earthquake and tsunami.

Key to accomplishing Indonesia's development goals will be to remove and prevent children from the worst forms of child labor. Based on a review of available survey information, in 2002 the ILO estimated that 7.5 percent of children age 10 to 14 years, or 1.6 million children, were working in Indonesia. It was also estimated that 3.4 million children age 15-17 were working, for a total of 4.87 million working children in the country. In both age groups, boys represented approximately 60 percent of working children, while girls represented 40 percent. Localized studies and unofficial estimates put the number of working children much higher.

The majority of child work in Indonesia occurs in rural areas. Children work under hazardous conditions in agriculture on palm oil, cacao, tobacco, and sugar plantations. Children also work in fishing, construction, manufacturing, footwear production, food processing, and the small-scale mining sector. Other children work in the informal sector selling newspapers, shining shoes, street vending, scavenging, and working beside their parents in family businesses or cottage industries. There are also large numbers of street children in urban centers. Children, primarily females, are also exploited in domestic service, often under conditions resembling forced labor. Within Indonesia, girls typically enter domestic service between the ages of 12 and 15 and typically work 14 to 18 hours a day, 7 days a week. They do not have access to education, and often employers forbid them from leaving their workplaces or withhold their wages. In addition, in an attempt to migrate to Malaysia and the Middle East to work as domestic servants, many girls end up being trafficked or exploited in a system of debt bondage by traffickers and recruiting agencies. Easy access to illegal documents and poor regulation of employment recruiting agencies exacerbate the problem.

Indonesia is a source, transit, and destination country for individuals trafficked internationally and internally, including children. Children, primarily girls, are trafficked both internally and internationally for commercial sexual exploitation (CSEC) and domestic service. There are also increasing reports of children being trafficked to work in organized begging rings. In addition, children are exploited in the production of pornography and in the international sex industry. Children are also known to be involved in the production, trafficking, and/or sale of drugs. Indonesia's decentralization policy has placed primary responsibility for provision of education services at the district level. This has contributed to the decline in education standards, especially at the secondary levels, as district governments are ill-prepared to manage the decentralized education systems. There are shortages of teachers in many areas, existing teachers are often poorly trained, and school curricula do not include relevant vocational training. Public funding for education in Indonesia is one of the lowest in South East Asia. By law, education is compulsory and free for nine years in Indonesia. Children are required to attend school until age 15. The law provides for government provision of education services, but also stipulates that families are expected to provide financial contributions supporting educational programs, with the exception of children meeting the “impoverished” guidelines determined by district regulations. For both the impoverished children who receive a government education subsidy and the other children, the additional fees and informal levies, plus the cost of books and uniforms, are often more than families can afford. In addition, transportation costs are many times prohibitive for poor families. USAID estimates that only 40 percent of children who enroll in primary school complete 9 years of basic education. The lack of access to schools beyond the primary level contributes to low transition rates to, and high drop-out rates from, junior secondary schools. Children, especially girls, in this grade level and age group are particularly vulnerable to dropping out of school and entering the worst forms of child labor. For children who drop out of school, the re-entry to the formal school system can be difficult due to the psychological and emotional trauma that children involved in the worst forms of child labor have suffered.

ii. Relevant Policies, Programs, and Projects

There are a number of current efforts by the Government of Indonesia, international organizations, and NGOs to address exploitive child labor in Indonesia and also the underlying causes of poverty and lack of resources. Recent reform efforts and statements by the government reflect an increased willingness to openly acknowledge and fiscally support programs to tackle child labor. The government is in the process of completing its first phase of activities under its 20-year National Plan of Action to Eliminate the Worst Forms of Child Labor, which focuses on five sectors including fishing, mining, footwear production, trafficking, and the drug trade. The government, coordinated through the National Steering Committee on Child Labor, is reviewing progress of the National Plan of Action to Eliminate the Worst Forms of Child Labor to identify priority sectors and activities for the second phase. The State Planning Board, with support from the World Bank, is currently piloting a Conditional Cash Transfer program in six provinces with reduction of child labor as one of the targets for the program. The National Plan of Action to Combat the Trafficking of Women and Children and the National Plan of Action to Combat Commercial Sexual Exploitation are in place, aimed at reducing child trafficking and CSEC. In addition, the Government of Indonesia has incorporated eliminating child labor into its national development policy, including child labor-specific targets and goals in its National Medium Term Development Plan (2004-2009), the Poverty Reduction Strategy (2005-2009), and the National Plan of Action of Human Rights in Indonesia (2004-2009).

The law sets the minimum age for work at 15. Employing and involving children under the age of 18 in the worst forms of child labor are prohibited under the law and failure to comply can result in criminal sanctions of two to five years imprisonment. The law defines the worst forms of child labor as slavery; use of children in prostitution, pornography and gambling; use of children for alcohol, narcotic, and addictive substance production and trade; and all types of work harmful to the health, safety and morals of the child. The law identifies a list of such harmful activities and provides detailed descriptions and examples of these activities, including jobs requiring children to work with machines; jobs where physical, chemical, or biological hazards are present; jobs with inherent hazards such as construction, offshore fishing, and lifting heavy loads; and jobs that harm the morals of the child including in bars, massage parlors, discotheques, or in the promotion of alcohol or drugs. The law contains an exception for employing children ages 13 to 15 years in light work that does not harm their physical, mental, and social development. A set of requirements is outlined for employment of children in this age range, including a maximum of three hours of work per day, parental permission, and no disruption of schooling.

Additional legal sanctions are laid out for the offenses of CSEC, child trafficking, involving children in the production or distribution of alcohol or narcotics, and involving children in armed conflict. A newly passed anti-trafficking bill criminalizes all types of human trafficking domestically and internationally, prescribes harsh penalties for violators of the bill, and mandates victim services and compensation.

The Government of Indonesia is participating in a USD 4.1 million USDOL-funded ILO-IPEC project in support of the National Plan of Action to Eliminate the Worst Forms of Child Labor and Timebound Program to progressively eliminate the worst forms of child labor, as well as a USD 1.4 million addendum to address vulnerable children in tsunami-stricken areas. In support of the national Timebound Program, USDOL also funds a USD 6 million Child Labor Education Initiative project implemented by Save the Children to combat child trafficking in Indonesia, and a USD 2.5 million project implemented by Save the Children to prevent children from entering exploitive labor in tsunami-affected areas. In 2006, the Government of Indonesia also participated in a regional USDOL-funded anti-trafficking project and a regional awareness-raising project to eliminate the worst forms of child labor. In addition, in 2006 a Netherlands-supported USD 1.2 million project to eliminate exploitive child domestic work in Indonesia and 7 other countries in the region was completed. Sweden continues to support a project on child labor and youth employment in Indonesia, Pakistan, Tanzania, Egypt, and Guatemala.

iii. Scope of Work

Applicants must propose a creative and innovative approach to address the challenges of educating and assisting children engaged in, or at-risk of entering, the worst forms of child labor. Strategies must be in alignment with the government's current efforts to design and implement the second phase of its National Plan of Action to Eliminate the Worst Forms of Child Labor, and must also build on efforts initiated under the first phase. Applicants must demonstrate knowledge of Phase I National Plan of Action to Eliminate the Worst Forms of Child Labor activities and, where applicable, propose strategies to continue or build off those efforts. Applicants must take into account cross-cutting themes (discussed below), specific considerations, and additional activities that could affect project results in Indonesia, and meaningfully incorporate them into the proposed strategy, either to increase opportunities or reduce obstacles to successful implementation.

1. Specific Target Groups, Sectors, and/or Geographic Focus

Proposed direct beneficiaries should be children working in sectors identified by the government as priority areas within Phase II of the National Plan of Action to Eliminate the Worst Forms of Child Labor. Applicants do not need to propose direct beneficiaries for all sectors identified in the National Plan of Action to Eliminate the Worst Forms of Child Labor, but at a minimum, children working in domestic service, on plantations, and trafficked for CSEC should be included in the project's target groups. Applicants should also propose strategies for assisting urban street children, as a high risk group for trafficking and involvement in the drug trade. Applicants may identify other sectors where children are engaged in, or at-risk of engaging in other worst forms of child labor, but should present a compelling reason for this choice. Geographic target areas should also be consistent with Phase II of the National Plan of Action to Eliminate the Worst Forms of Child Labor and take into account previous activities or new areas that need urgent attention. Given the recent humanitarian assistance needs as a result of the natural disasters on Java and Sumatra islands, Applicants may choose to focus on child labor issues that already existed or may have been exacerbated in these areas.

2. Collaboration With Specific Programs and/or Links to Specific National Policies

Applicants should support the Government of Indonesia's Timebound Program to Eliminate the Worst Forms of Child Labor and its efforts under Phase II of the National Plan of Action to Eliminate the Worst Forms of Child Labor. In particular, at the national level, close collaboration with the National Action Committee on Child Labor, chaired by the Ministry of Manpower and Transmigration, is necessary. Since a Timebound Program is complex, in addition to the Ministry of Manpower, the project should include other ministries working in the area of child labor and protection including, but not limited to, the following: The Ministry of National Education, Ministry of Social Affairs, Ministry of Health, Ministry for Women's Empowerment, the National Development Planning Agency (BAPPENAS), and the National Police. Applicants should also collaborate with other national and international institutions carrying out child labor projects including ILO-IPEC, Save the Children, IOM, and UNICEF. Additionally, due to Indonesia's policy of decentralization, strong collaboration with relevant ministries and action committees at the provincial and district levels is imperative. Applicants should also be involved in the government's efforts to implement the Conditional Cash Transfer program. If working in areas of the recent natural disaster, Applicants should coordinate with other donors providing assistance, and complement rather than duplicate existing efforts. Applicants are also encouraged to demonstrate how their organization's previous efforts to combat child labor or promote education have led to the mainstreaming and sustainability of project initiatives.

3. Implementing Environment/Cross-Cutting Themes

Since the late 1990's, Indonesia has undergone recurrent political and economic unrest and instability, which has an impact on overall country development. The country held its first direct presidential elections in 2004 and recently, the government has committed itself to political, economic and social transformations. The country is engaged in debate on development themes including education reform; economic growth and employment creation; good governance and democracy; and continued strengthening of decentralization. Policy decisions in these areas directly affect many of the factors that lead children to enter exploitive child labor. Indonesia is the world's largest Muslim country and while the government is secular, religious traditions, organizations and institutions play an important part in the cultural, political, and societal environment in Indonesia. In addition to Islam, there are a multitude of minority religions and ethnic groups existing within the country and in some areas, there are inter-religious/ethnic conflict and tension.

Furthermore, over the past 3 years, Indonesia has been plagued by a series of large-scale natural disasters in both rural and urban areas, including the December 2004 tsunami, the May 2006 earthquake in central Java, the 2007 earthquake in Yogyakarta and flooding in Jakarta, as well as a series of more localized, small-scale disasters. Indonesia continues to be at high risk for future natural disasters due to its location and geography. The past disasters have caused extreme damage or destruction of houses, livelihood equipment, crops, roads and other basic infrastructure including schools. Due to families' loss of income, destruction of homes, and deprivation of education opportunities, children in disaster-stricken areas are more vulnerable and at-risk of entering the worst forms of child labor. Applicants should consider how the above factors of political and economic instability, religion, and natural disasters might affect the project in the geographic areas where the project would be implemented. Applicants should propose a design that would contribute to lessening the effect of macro level instability, minimize disruptions when such events occur, and address responses in any project sites affected by disaster.

4. Project-Specific Strategies

Applicants must propose a strategy to assist the Government of Indonesia to implement Phase II of the National Plan of Action to Eliminate the Worst Forms of Child Labor to eliminate the worst forms of child labor. Specifically, the Applicant's strategy should strengthen the capacity of the Indonesian government, civil society, employers, and trade unions to take immediate, effective, and time-bound measures to: (a) Provide the necessary and appropriate direct assistance for the withdrawal of children from the worst forms of child labor and for their rehabilitation and social integration; (b) provide the necessary and appropriate direct assistance for prevention of the worst forms of child labor; (c) ensure access to free basic education, and, wherever possible and appropriate, to non-formal and vocational training, for all children withdrawn from, or at-risk of entering, exploitive child labor; (d) identify and reach out to children at special risk; (e) improve design and implementation of relevant policies and programs to exploitive child labor; and (f) raise awareness on the dangers of exploitive child labor and the importance of education.

In addition to prioritizing provision of direct educational services to children engaged in, and at-risk of entering, exploitive child labor, the proposed strategy should have a strong focus on upstream policy-level work, supporting the appropriate government and non-government agencies in implementing Phase II of the National Plan of Action to Eliminate the Worst Forms of Child Labor. Applicants must demonstrate their existing linkages and relationships with the relevant agencies and organizations, or demonstrate how these linkages will be quickly formed, to ensure a smooth transition of activities from Phase I to Phase II of the National Plan of Action to Eliminate the Worst Forms of Child Labor. Specific proposed activities can include, but are not limited to, the following: technical support and guidance to the National Action Committee on the elimination of the worst forms of child labor; support in the formation and functioning of provincial and district action committees on the elimination of the worst forms of child labor; assistance in raising awareness on and implementing the provisions of the new anti-trafficking bill as it relates to children; developing legislation and policy related to child domestic workers; technical assistance in data collection and mapping of worst forms of child labor; development of a national or provincial level child labor monitoring system (CLMS); increased coordination and involvement of civil society, employers, and trade unions with government efforts to eliminate exploitive child labor; capacity building for labor inspectors and law enforcement to improve enforcement of existing law and regulations on child labor; and technical guidance to BAPPENAS as it undertakes the implementation of the conditional cash transfer program to ensure continued attention to child labor concerns.

The lingering effects of the financial crisis and decentralization of education services have caused deterioration in the education system. The proposed strategy should increase the capacity of the local Ministry of Education offices in target district and provinces to ensure improved service delivery, increased budgetary commitments and management, and awareness of exploitive child labor. Service delivery and management should be further enhanced in both the formal and non-formal system through teacher and administrator trainings and other approaches. Applicants must also develop a strategy that will improve the relevance of, and access to, education, especially at the junior secondary levels. Applicants must also design a strategy to assist child laborers who are unable or unwilling to attend formal school, by providing access to non-formal education and vocational training through community learning centers or other appropriate service providers.

Applicants should exhibit an understanding of existing efforts to promote youth employment in Indonesia and in the South East Asia region and design interventions to support public/private partnerships to promote job training programs and youth employment for children of legal working age. Applicants are encouraged to propose interventions to increase vocational training opportunities for youth and support alternative income generating activities for parents to reduce their reliance on their children's labor to supplement family income and to encourage school enrollment. Where such programs already exist and are functioning, Applicants are encouraged to demonstrate existing linkages to implementing agencies and to propose strategies for collaboration and coordination of efforts.

Migration of families and individual children for work in Malaysia and the Middle East, as well as within Indonesia, has led to increased levels of child trafficking, debt bondage and other forms of forced labor, and vulnerability to additional types of exploitation. Lack of access to education, non-relevant and low quality curriculum content, lack of employment opportunities, poor regulation of employment recruiting agencies, and easy access to false passports and identity papers have all exacerbated this phenomenon and increased children's vulnerability for ending up exploited by the worst forms of child labor. The proposed project strategy should incorporate this phenomenon into its education services design, as well as propose activities to increase awareness on safe migration and reduce the risk of being trafficked.

Applicants are encouraged to work with the government to improve labor data collection to include child labor, as well as conduct rapid assessments and disseminate findings on exploitive child labor in Indonesia, especially in sectors identified by the National Plan of Action to Eliminate the Worst Forms of Child Labor and where data has not been systematically collected and is lacking. In sectors selected for research, attention should be given to the characteristics of hazardous work in each selected sector, steps to reduce or eliminate the hazards, and recommendations for government action.

Combating the Worst Forms of Child Labor in Morocco

i. Background

Morocco continues to face a variety of challenges as it seeks to improve education and basic social services, provide economic opportunities for its citizens in both rural and urban areas, and incorporate its large youth population into educational systems and the job market. While recent statistics are unavailable, the Understanding Children's Work (UCW) Project, an interagency collaboration among the ILO, UNICEF, and World Bank, estimates that approximately 13 percent of children ages 7-14 years were found working in 1998-1999. Children are found working in a variety of sectors, including agriculture, manufacturing, trade, and service establishments. The majority of working children were found in rural areas (87 percent), where they work to supplement family earnings. In fact, children in rural areas are six times more likely to be working than those in urban areas. Many parents of rural children did not receive an education, and therefore, often do not value sending their children to school. Eighty-four percent of children who work do so in the agricultural sector, most in subsistence agriculture, which includes preparing fields, planting, tending crops, harvesting, herding livestock, and other activities. Most of these children do not attend school, in part because of living long distances from school facilities. Most work for their families, but a small percentage also works on commercial farms. Whether in subsistence agriculture, medium-scale enterprises, or commercial farms, children are vulnerable to hazardous environments and unhealthy working conditions. The Moroccan government has designated several forms of agricultural work as hazardous for children, including the application of pesticides; operation of farm machinery and dangerous tools; tending herds near areas of heavy traffic; agricultural production line work; working at heights such as in olive harvesting; and work in slaughterhouses.

Children work in industrial and artisan sectors in the production of textiles and carpets, and other light manufacturing activities. A large number of children work as junior artisans in the handicraft industry, many of them working as apprentices before they reach 12 years of age and under substandard health and safety conditions. Boys are also recruited to work as apprentice mechanics in urban areas with little supervision or instruction.

Children also work in construction, food production, and in the hospitality industry. In urban areas, many girls working as “petites bonnes,” or domestic servants, can be found in situations of unregulated “adoptive servitude,” in which girls from rural areas are “sold” by their parents, trafficked, and “adopted” by wealthy urban families to work in their homes. Although awareness raising programs have targeted urban centers, this practice is still commonly accepted. Children are also “rented” out by their parents and other relatives to beg.

Also in urban areas, thousands of street children work in the informal sector. Street children engage in diverse forms of work, including selling cigarettes, begging, shining shoes, and washing and polishing cars. While most street children are boys, an increasing number of girls are now seen on the street as well. Many of these girls had worked as household maids before fleeing from abusive employers. Street children are vulnerable to sexual and physical abuse and substance abuse. Many are forced into illicit activities such as prostitution, drug-selling and theft as means for collecting money for gang leaders.

The commercial sexual exploitation of children (CSEC) in Morocco involves both boys and girls. There are official reports of child prostitution in the cities of Agadir, Casablanca, Meknès, Tangier, and Marrakech. Morocco is a country of destination for children trafficked from sub-Saharan Africa, North Africa, and Asia and serves as a transit and origin point for children trafficked to Europe for the purposes of forced labor, drug trafficking, and CSEC. Children are also trafficked internally for exploitation as child domestic workers and beggars, and for prostitution. A growing number of girls are trafficked to El-Hajeb in the Middle Atlas mountains, where they are forced into prostitution.

ii. Relevant Policies, Programs, and Projects

There are a number of current efforts by the Government of Morocco, international organizations, and nongovernmental organizations (NGOs) to address exploitive child labor in Morocco and underlying causes related to poverty. The Government of Morocco has put in place a number of programs that contribute to achieving its National Action Plan to Eliminate Child Labor (2005-2015). The National Action Plan to Eliminate Child Labor focuses on improving implementation of child labor laws, raising awareness of these laws, and improving basic education. Sectoral plans target children in agriculture and herding, the industrial sector (carpets and stitching), metal and auto work, construction, the hospitality industry, and food production, as well as children working in the informal sector, such as street children and children engaged in CSEC.

The Government of Morocco's major development challenges include achieving sustainable macroeconomic growth; accelerating employment opportunities for the adult and youth labor market; improving access, efficiency, and quality in the delivery of education and basic social services; and reducing poverty and inequalities in rural areas and among poor, marginalized groups by raising living standards. Since the 1990s, the Moroccan government has emphasized addressing social and economic issues to reduce poverty and the development gap between the rural and urban areas. Some of these efforts have included the increase in development of rural infrastructure (roads, electricity, potable water), education reform, emergency programs for rural areas, and extension of medical services to the poor. The government has also established key measures to improve labor conditions and boost job prospects. A new Moroccan Labor code instituting reforms in the country's labor laws was enacted in 2003, and the government signed a Free Trade Agreement with the United States in 2004, which came into effect on January 1, 2006.

The minimum age for employment in Morocco is 15 years. The Ministry of Employment and Vocational Training (MEVT) is responsible for implementing and enforcing child labor laws and regulations. In February 2006, the MEVT created a Child Labor Unit. Morocco's laws provide for legal sanctions against employers who actively recruit children under the age of 15. Employers who are found employing children under age 15 may be punished with a fine. Legal remedies to enforce child labor laws include criminal penalties, civil fines, and withdrawal or suspension of one or more civil, national, or family rights, including denial of legal residence in the country for a period of 5 to 10 years. The law also enables inspectors and the police to bring charges against employers of children under age 15 in all sectors, including apprenticed children and children working in family businesses. The government's National Observatory for Children's Rights, a multi-sectoral body chaired by Princess Lalla Meriem, held its eleventh conference in June 2006 where the National Plan for the Protection of Children was adopted and emphasis was placed on implementation achievements and problems.

The Government of Morocco is participating in two USDOL-funded projects to eliminate child labor by providing educational opportunities for children engaged in or at risk of engaging in exploitive child labor. In 2003, USDOL funded a 4-year, USD 3 million Child Labor Education Initiative project implemented by Management Systems International (MSI). The MSI project, “ADROS”, aims to eliminate the practice of selling and hiring child domestic workers by creating educational opportunities for those vulnerable to, or working in, domestic servitude. As of March 2007, the program had withdrawn 9,862 children from exploitive labor in domestic service and placed them in training and educational programs. USDOL funded another 4-year project in 2003, which is being implemented by ILO-IPEC. This USD 2.25 million project aims to strengthen national efforts against the worst forms of child labor in Morocco and, as of March 2007, has withdrawn or prevented 9,222 children from work, primarily in the agricultural sectors of the Gharb and Taroudat regions.

iii. Scope of Work

Applicants must take into account cross-cutting themes (discussed below), specific considerations, and additional activities that could affect project results in Morocco, and meaningfully incorporate them into the proposed strategy, either to increase opportunities for, or reduce obstacles to, successful implementation. Proposed strategies must address mechanisms for withdrawal of children from, and prevention of children from entering, exploitive labor and development of educational or training programs for children under 18 years. Proposed strategies should enable children to enroll in appropriate educational programs and successfully transition them into the formal education system or into vocational or other training that will allow them to improve the livelihood of their families and themselves.

1. Specific Target Groups, Sectors, and/or Geographic Focus

Applicants must focus their proposals on combating exploitive child labor in both rural and urban areas, and must propose specific efforts to address CSEC, trafficking of children for exploitive labor, domestic servitude, and exploitive child labor and hazardous work in agriculture. Where applicable, Applicants should specify how direct interventions for children below the minimum age of employment (14 and under) and children of employable age (15-17 years) differ. In rural areas, Applicants should specifically target exploitive child labor in agriculture, especially on commercial farms, where children's work prevents them from going to school and they are exposed to harmful chemicals, are forced to carry heavy loads, and may be injured by agricultural tools or machinery. In urban areas, Applicants should target children (mostly girls) sent from rural areas to work as domestic servants, and children working in formal enterprises such as factories and workshops. Consideration may also be given to street children engaged in, or at-risk of entering, the worst forms of child labor. Applicants are also encouraged to identify other areas/sectors for intervention, but must provide convincing reasons why the targeted sector merits funding.

2. Collaboration With Specific Programs and/or Links to Specific National Policies

Interventions and activities should support the Government of Morocco's 2005-2015 National Action Plan to Eliminate Child Labor. At minimum, collaborations should take place with the Ministry of National Education, Higher Education, Staff Training, and Scientific Research; the MEVT, including the Office for Vocational Training and Employment Promotion; the Ministry of Social Development, Family, & Solidarity; other government agencies overseeing vocational and apprenticeship programs relevant; ILO-IPEC; MSI; and relevant NGOs. Where applicable, Applicants are also encouraged to collaborate with the Ministry of Agriculture, Rural Development, and Sea Fisheries.

3. Implementing Environment/Cross-Cutting Themes

Applicants must propose a design that would take into consideration Morocco's major development challenges described in section (i). Background, of this portion of this solicitation. The strategy proposed by Applicants must reflect a strong understanding of Morocco's new Labor code and take advantage of macro-level trends and events such as those related to the Free Trade Agreement signed with the United States in 2004. Applicants should support government efforts to provide economic opportunity to the poor and rural groups, as well as efforts to enhance educational services and decent employment prospects for the country's growing youth population.

4. Project-Specific Strategies

Applicants must propose a strategy that supports the government's National Action Plan to Eliminate Child Labor (2005-2015). The project should support the broad objectives of the National Action Plan to Eliminate Child Labor: (a) Ensuring conformity of national child labor laws with international conventions and promoting their application through enforcement mechanisms and awareness raising activities, (b) expanding and strengthening of education and vocational training, and (c) development and strengthening of social protection mechanisms. Applicants' proposals must also support at least one of the government's sectoral action plans targeting children in agriculture and herding, the industrial sector (carpets and stitching), metal and auto work, construction, the hospitality industry, food production, street work, and CSEC.

In addition, Applicants should propose to strengthen the capacity of the Moroccan government and civil society organizations to identify and assist children engaged in, or at-risk of entering, the worst forms of child labor. Applicant should propose ways to improve the capacity of the Moroccan government to enforce existing labor laws. To address this issue, Applicants may propose activities to strengthen the Ministry of Social Development, Solidarity, and Labor's Child Labor Unit, improve the capacity of Morocco's labor inspectorate to identify cases of exploitive child labor and enforce the labor code, and expand piloted systems to monitor and identify child laborers and link them with social protection services.

Applicants should address low rates of school enrollment, high drop-out rates, and limited availability of schools, especially in rural areas where the majority of working children live and school attendance is the lowest. Projects may support professional training for teachers and implement capacity-building activities for Ministry of Education offices nationally and in targeted provinces to ensure improved service delivery, increased budgetary commitments and management, and awareness of exploitive child labor. Strategies may also include the direct provision of support costs to children, such as books and uniforms, in-school feeding programs, school supplies, and transportation assistance to remove educational barriers. Applicants are encouraged to develop creative solutions for education delivery, such as non-formal schools, including multi-grade programs in rural areas where formal schools may be unavailable, especially at the secondary level.

Applicants must develop a strategy that will increase the perceived relevance of education and training for children engaged in, or at-risk of engaging in, exploitive labor, their families and their communities with an aim toward increasing school enrollment. Applicants must show how education programs and awareness raising campaigns will be sensitive to, and respond to, cultural traditions that have led to lower school enrollment rates in rural areas of Morocco. Strategies should support government efforts to remove barriers that lead to gender disparities in enrollment, whether these are physical barriers, such as transportation obstacles, or attitudinal barriers, such as a perceived lower value amongst parents and communities of educating girls. Applicants may provide, as appropriate, support services such as psychosocial counseling and health care to direct beneficiaries and implement awareness-raising activities that highlight the hazards of exploitive child labor and the benefits of education for children.

Applicants should exhibit an understanding of current efforts to promote youth employment in Morocco and design interventions to strengthen the education system and support public/private partnerships to promote job training programs and youth employment. Applicants are encouraged to propose interventions to increase vocational training opportunities for youth of legal working age and support alternative income generating activities or skills training for parents to reduce their reliance on their children's labor to supplement family income and to encourage school enrollment.

Applicants are encouraged to conduct small-scale research projects and disseminate findings on the unconditional worst forms of child labor in Morocco. Reports suggests that the trafficking, commercial sexual exploitation of children, and other worst forms of child labor, do exist in the country, but more systematic information is needed. In considering projects in hazardous sectors, Applicants are encouraged to undertake action research on improving the occupational safety and health situation and developing injury prevention strategies to promote safe, acceptable work for children ages 15-17 years.

Applicants are also encouraged to demonstrate how previous child labor or education efforts of their organization have led to the mainstreaming and sustainability of project initiatives.

Support for the Philippine Timebound Program To Eliminate the Worst Forms of Child Labor

i. Background

The Republic of the Philippines has experienced positive acceleration and sustained Gross Domestic Product (GDP) growth in recent years. Yet, in light of a worsening poverty situation, the government faces tremendous fiscal constraints in its ability to finance poverty alleviation programs and provide for the most basic social services for its citizens. Rapid population growth and unequal income distributions continue to exacerbate the number of families and children living below the poverty line, and the increase in the incidence of children working in exploitive forms of work. The Philippines National Statistics Office estimated that approximately 4 million children 5 to 17 years, or 16.2 percent, were economically active in 2001. This represents a 12 percent increase in the number of working children since 1995.

An estimated 70 percent of working children are found in the rural economy. Approximately 53 percent of working children in rural areas are engaged in agriculture, hunting, and forestry. Children work as “sakadas” or farm workers on plantations or subsistence agriculture, and in both crop and livestock production while being exposed to various occupational safety and health hazards. Children are found working in variety of agricultural sectors: Coconut, corn, flower, livestock, pearl, rice, rubber, sugar, tobacco, and other fruit and vegetable farms. Many children are also involved in forestry-related activities, such as hunting and logging. Children involved in crop cultivation work under extreme heat; suffer from farm injuries caused by the use of sharp knives, “bolos” (machetes), sickles, and grain threshers; and are exposed to chemical, biological, and other agents found on the farm.

Children are also found working in a variety of industrial sectors and occupational activities, with many working under hazardous conditions. Some of the worst forms of child labor in the Philippines include the forced and bonded labor of children; the use of children in local drug trades; the commercial sexual exploitation of children (CSEC), including prostitution; the recruitment and use of children as soldiers in armed opposition groups; and the use of children in hazardous work in the agricultural industry, especially in growing sugar cane. Children in the commercial sex industry are used in the production of pornography and are exploited by sex tourists. Children are also found working in pyrotechnics production, deep-sea fishing, mining, and quarrying. Children living on the streets engage in informal labor activities such as scavenging or begging. Child domestic workers, primarily girls, or “kasambahays” are the backbone of many Filipino households working an average of 15 hours a day and on-call 24 hours a day, 7 days a week. Children are reportedly trafficked internally from rural areas to major cities, such as Bacolod, Cebu, and Metro Manila, and abroad to work in prostitution, domestic service, and other areas of the informal sector.

The Asian Development Bank has identified increases in disability in the general population as a contributing factor to poverty in the Philippines. Research on injuries among adults and children in the country's general population shows that injury fatality rates have increased 196 percent in the Philippines over a 35 year period (1960-1995). The Government of the Philippines, in consultation with Safe Kids Worldwide, has revealed that fatal and non-fatal injuries are among the leading causes of morbidity and mortality in Filipino children below the age of 15 years. In the last 30 years, childhood fatality rates attributed to injuries increased threefold in the country. In 2003 alone, approximately 420,000 Filipino children experienced an injury. At least 24 percent of economically active children 5-17 years working in the Philippines experienced a work-related injury in 2001. Children living in urban slum communities and distant rural villages have the highest prevalence of disabilities, which is compounded by limited access to health care services and unsanitary living conditions.

In rural areas, limited employment opportunities and low wage jobs for adults lead many children to work to supplement family income. Parents who perceive the education available to their children to be of low quality or lacking relevance for their children's future are more likely to opt that their children enter the workforce early. Also problematic is the lack of secondary schools in remote parts of the Philippines, leaving numerous children, especially girls, unable to continue their education past the primary school level and forcing them to seek early employment. Regrettably, this is the case for many girls from poor rural and farming communities in the Visaya and Mindanao regions who migrate or are trafficked from rural to urban areas for the purposes of domestic service or commercial sexual exploitation. In addition, rural to urban migration has increased the number of urban poor families and children contributing to high numbers of children working on the streets and scavenging.

ii. Relevant Policies, Programs, and Projects

Even prior to its ratification of the UN Convention on the Rights of the Child (CRC) and ILO Conventions 138 and 182, the Government of the Philippines began efforts to combat child labor in earnest around the mid-1980s. The Government of the Philippines intensified actions against child labor by entering into a partnership with UNICEF in 1988; creating a National Child Labor Program Committee in 1992; joining ILO-IPEC in 1994; conducting the first national child labor survey in 1995; launching the historic Global March Against Child Labor in 1998; and collaborating on three sub-regional programs of child labor in the fishing, footwear, and mining industries.

These efforts continue today, where the Philippine National Strategic Framework for Plan Development for Children, 2000-2025, also known as “Child 21,” and the National Program Against Child Labor (NPACL) Framework serve as the primary government policy instruments for the development, implementation, monitoring, and evaluation of programs designed to prevent and eliminate child labor in the Philippines. Child 21 sets out broad goals to achieve quality of life for Filipino children by 2025, and the NPACL lays out the blueprint for reducing the incidence of child labor by 75 percent by 2015.

The NPACL has a committee chaired by the Department of Labor and Employment (DOLE) with assistance from ILO-IPEC and UNICEF. Other major partners involved in fulfilling the mission of NPACL include government agencies, workers' groups, employer organizations, nongovernmental allies, and international development institutions. To carry out NPACL objectives in communities, Regional Child Labor Committees (RCLC), Program Implementation Committees Child (PIC) and Barangay Councils for the Protection of Children (BCPC) have been established at the regional, local, and village levels. Child labor concerns have also been mainstreamed into the following key policy documents: Medium Term Philippine Development Plan (2004-2010), National Plan of Action for Decent Work (2005-2007); and Education for All National Plan (2004-2015).

On June 28, 2002, the Government of the Philippines became the first country in Southeast Asia and fourth country in the world to launch a Timebound Program to eliminate the worst forms of child labor in targeted sectors over a specified period of time. The Philippine Timebound Program (PTBP) embodies the strategic framework and implementation plans of the NPACL. The initial phase of PTBP seeks to prevent or withdraw 40,000 children from exploitive work in 6 sectors and in 6 regions spanning a total of 8 provinces. The priority sectors include children working in (1) deep-sea fishing, (2) mining/quarrying, (3) pyrotechnics production, (4) sugar cane farming, (5) domestic work, and (6) commercial sexual exploitation. Initial target areas were located in Bulacan, Metro Manila, Camarines Norte, Iloilo, Negros Occidental, Negros Oriental, Cebu, and Davao. USDOL has provided USD 10.7 million in funding for projects in support of the PTBP, which are being implemented through ILO-IPEC, World Vision, and Winrock International. In addition, the Philippines was part of an ILO-IPEC inter-regional project to prevent and reintegrate children involved in armed conflict, with a geographic focus in Mindanao.

The NPACL is currently undertaking an assessment of the PTBP, which will inform the target sectors for Phase II of the PTBP. The new phase will likely expand existing sectors and identify new sectors where children are working in exploitive conditions for priority elimination. Based on their initial research, partners of the NPACL have proposed to expand agricultural sectors to possibly include children working on rubber farms. In addition, scavenging and waste recycling have been recommended as future sectors for consideration. Finally, an increase in the trafficking of children for domestic labor and prostitution has received attention as possible future sectors for interventions. Additional sectors in agriculture where children are also involved in hazardous work and are at risk for occupational injuries include forestry and logging activities, livestock and hog farming, and other crop-related activities.

The Government of the Philippines and its nongovernmental partners have demonstrated commitment to children by ratifying key UN conventions on children's welfare; passing national legislation against the worst forms of child labor; and implementing programs to prevent and remove children from hazardous and exploitive work. However, government resources available for programs to combat exploitive child labor are modest in comparison to the magnitude of the problem.

The Government of the Philippines continues to run its flagship program through DOLE, “Sagip Batang Manggagawa” (SBM—Rescue the Child Laborers). SBM uses community-based mechanisms for detecting, monitoring, and reporting children working in abusive and hazardous situations; provides immediate relief through search and rescue operations through Quick Action Teams (QAT); offers legal, health, and psychosocial services to children rescued from exploitive labor and sexual exploitation; and facilitates the reintegration of children into their communities of origin.

The Government of the Philippines also has a long history of instituting legislative reforms to protect the welfare of children and regulate the employment of minors. The Labor Code of the Philippines and Republic Act (R.A.) 7658 of 1993 sets the basic minimum age for employment at 15 years, with the exception that a child may be permitted to work under the supervision of a parent or legal guardian as long as the work does not interfere with school or place the child's life, safety, health, morals, or normal development in danger. In accordance with R.A. 7658 and the Labor Code, DOLE Order No. 4 of 1999 outlines major areas of work and related occupations regarded as hazardous for children.

R.A. No. 9231 of 2003, An Act Providing for the Elimination of the Worst Forms of Child Labor and Affording Stronger Protection for the Working Child, codified into domestic law the worst forms of child labor as specified in ILO Convention 182. The Act also regulates hours of work; delineates the management and disbursement of the working child's income; guarantees access to education, health, and legal services; and includes more stringent penalties for those in violation of the law.

To address issues of trafficking in persons, the Government of the Philippines passed R.A. 9208 of 2003, Anti-Trafficking in Persons Act of 2003, which criminalizes and establishes penalties for the trafficking of children and adults for the purposes of exploitation, including trafficking for adoption, sex tourism, prostitution, pornography, the recruitment of children into armed conflict, or under the guise of arranged marriage.

iii. Scope of Work

Taking into account the challenging implementing environment in the Philippines and the current government's attention and priority to the unmet needs of the most disadvantaged sectors of the population, Applicants must propose a creative and innovative approach that addresses the challenges of reintegrating and educating children who are in the worst forms of child labor. The application must also take any cross-cutting themes (discussed below) into account that could affect project results in the Philippines and meaningfully incorporate them into the proposed strategy, either to increase opportunities for, or to reduce obstacles to, successful implementation.

1. Specific Target Groups, Sectors, and/or Geographic Focus

Applicants must focus their proposals on combating prostitution of children, exploitive child labor in agriculture, especially in the sugar cane industry, and exploitive labor in domestic service. Children trafficked from their home communities for domestic service or prostitution should be given priority consideration. Applicants should make the withdrawal and prevention of children 15 years and under from exploitive labor a priority. In determining other target sectors and geographic areas for priority elimination, Applicants should consult with NPACL and provide a justification for the proposed sectors and geographic areas. At minimum, Applicants must target four sectors and work in at least five regions. In instances in which proposed sectors or geographic areas may fall outside the priority areas of the NPACL, Applicants must offer a convincing justification for this choice. Project interventions may be carried out in both urban and rural areas, however, the geographic focus of the project should be on regions where there is a high incidence of exploitive child labor. In considering the distribution of children for target sectors and geographic areas, Applicants should take into account that a majority of working children in the Philippines is in rural areas and in agriculture.

2. Collaboration With Specific Programs and/or Links to Specific National Policies

Applicants should propose a strategy to collaborate with the NPACL and ensure the effective enforcement of recent legal reforms through the proposed project of support to the PTBP. In developing its approach to strengthen the national policy framework on child labor and integrate strategies into already existing government programs, Applicants should coordinate with key government agencies, such as the DOLE; Department of Education (DepEd); Department of Social Welfare and Development (DSWD); Department of Agrarian Reform (DAR); and the Department of Health (DOH). Within the DOLE, Applicants should specifically coordinate with the Bureau of Women and Young Workers (BWYW) and Occupational Safety and Health Center (OSHC), and the Work Improvement in Neighborhood Development program. In addition to government agencies, Applicants should collaborate with key stakeholders working to fulfill the mission of the NPACL (i.e., relevant nongovernmental organization, employers' and workers' groups, and international institutions).

Applicants should also build upon and not duplicate activities from the first phase of the PTBP and ensure the sustainability of effective project strategies by previously funded USDOL projects to support the PTBP.

3. Implementing Environment/Cross-Cutting Themes

The Philippines' longstanding macroeconomic policies have resulted in large budget deficits with debt interest payments as a percentage of the national budget increasing from 19.5 percent in 1998 to a high of 27.4 percent in 2003. In order for the Government of the Philippines to see sustained improvements in the economic forecast and achieve its 2015 goal to substantially decrease the number of children in hazardous occupations, poverty alleviation and child labor elimination strategies must take into account (1) slow economic development, especially in the agricultural sector; (2) unequal distribution of incomes among citizens; (3) high unemployment, elevated underemployment, and low wage rates for adult workers; (4) rapid population growth; (5) reduction of the federal deficit and improved governance; (6) lack of resources and access to education and basic social services; and (7) political instability and armed conflict, particularly in Mindanao.

Applicants should consider how the macroeconomic factors might affect the project in the geographic areas where the project would be implemented and propose a design that would contribute to addressing the implementing environment. In addition, Applicants should propose a strategy that addresses the hazardous labor conditions that lead to injuries among working children, especially those working in agriculture (see information on injury and disabilities among children in the Philippines in section (i) Background).

4. Project-Specific Strategies

Applicants must propose a strategy to support the Government of the Philippines in fulfilling its goals under Phase II of the PTBP within the NPACL framework. Applicants must work with NPACL's following programmatic areas: (1) Action research; (2) advocacy and mobilization; (3) children's participation; (4) community organization and empowerment; (5) law and policy; (6) surveillance and rescue; (7) workplace monitoring and inspection; (8) capability building; (9) documentation, monitoring and evaluation; (10) direct services; and (11) institutionalization.

At the policy level, Applicants must demonstrate how its approach carries out the strategic framework and implementation plans of the NPACL to reduce the number of children in the worst forms of child labor, especially hazardous occupations, by 75 percent by 2015. Applicants should demonstrate how it intends to effectively support implementation and enforcement of R.A. No. 9231, An Act Providing for the Elimination of the Worst Forms of Child Labor and Affording Stronger Protection for the Working Child and R.A. 9208, Anti-Trafficking in Persons Act of 2003. In addressing the hazardous work activities for children, Applicants should support the NPACL efforts to update DOLE Order No. 4 of 1999, Hazardous Work List. Applicants should also consider how to further the enactment of the “Batas Kasambahay” or Domestic Workers Bill. Finally, Applicants should develop a strategy that addresses the broader development goals eliminating child labor as specified in the following key policy documents: Medium Term Philippine Development Plan (2004-2010), National Plan of Action for Decent Work (2005-2007); and Education for All National Plan (2004-2015). In carrying out the project to withdraw children from, and prevent children from entering, exploitive child labor through direct action, Applicants should develop a strategy that builds the capacity and reflects the institutional organization at the NPACL at the regional, provincial and village levels. Applicants should work with implementing agencies to reach the community through RCLC, PIC and BCPC.

Applicants must develop a strategy that addresses the opportunity costs of schooling for parents in the Philippines that currently sway them to allow children to enter the workforce prematurely, especially when they weigh the expense of schooling, access to schools, and the perceived irrelevance of education. Applicants should coordinate with the DepEd to prioritize regions and ensure that primary schools (formal or non-formal), secondary schools, and vocational training centers offer quality, relevant instruction. The establishment of alternative educational delivery mechanisms is also encouraged, such as multi-grade schools in remote rural areas are also encouraged, especially in farm communities with high pockets of child labor. Furthermore, Applicants should ensure the effective decentralization of educational administration and policies, such as the no-fee policy, in a way that supports the integration of current or former working children.

Finally, in considering projects in the sugar cane industry or other agricultural sectors, Applicants are encouraged to undertake action research on improving the occupational safety and health situation and developing injury prevention strategies to promote safe, acceptable work for children 15-17 years, building on the efforts of the USDOL-funded ILO-IPEC, World Vision, and Winrock projects of support to the PTBP that worked to eliminate hazardous work for children in the sugar cane industry.

Combating Exploitive Child Labor in Togo Through Education

i. Background

An estimated 64.5 percent of children ages 5 to 14 were found working in Togo in 2000, according to the Understanding Children's Work (UCW) Project. Children work in both rural and urban areas, especially in family-based farming and small-scale trading. Children are also found working in factories, as domestic servants, and in commercial sexual exploitation (CSEC).

Togo is a country of origin, destination, and transit for children trafficked for the purposes of domestic labor, sexual exploitation and agricultural work. Trafficked children also work as produce porters and roadside sellers. Four primary routes for child trafficking in Togo have been documented: (1) The domestic trafficking of Togolese girls, particularly to the capital city of Lomé; (2) the trafficking of Togolese girls to Gabon, Benin, Niger, and Nigeria; (3) the trafficking of girls from Benin, Nigeria, and Ghana to Lomé; and (4) the trafficking of boys to Nigeria, Benin, and Côte d'Ivoire. There are also reports of children being trafficked to Lebanon, Saudi Arabia, and Europe. Children represent a majority of those trafficked, and children of Kotocoli, Tchamba, Ewe, Kabye, and Akposso ethnicities are particularly at-risk of being trafficked. Most of these children come from poor rural areas, primarily the Maritime, Plateau, and Central regions.

HIV/AIDS is a factor that may contribute to the incidence of exploitive child labor in Togo, including the worst forms of child labor. According to UNICEF, some 88,000 children have been orphaned in Togo due to HIV/AIDS.

By law, education is free and compulsory in Togo until age 15. However, parents are increasingly responsible for both direct and indirect costs of education, and secondary education is not affordable for many families. School fees ranging from 4,000 to 13,000 CFA (USD 7 to 24) are often required, though the fees for girls and economically disadvantaged children may be reduced or waived entirely. Togolese schools are overcrowded, have crumbling infrastructures, and lack basic supplies. Teachers are poorly trained, and the government has difficulty in paying teachers' salaries, resulting in a shortage of teachers in Togo. Other deficiencies in the education system include low educational quality in rural areas, high repetition and drop-out rates, and sexual harassment of female students by male teachers.

ii. Relevant Programs, Policies, and Projects

The Ministry of Labor and the Ministry of Population, Social Affairs, and Promotion of Women have primary responsibility for enforcing the country's child labor laws. These ministries and the Ministries of Justice, Health, and Security, including Togo's police, army, and customs units, are involved in anti-trafficking efforts. In addition, the Ministry of Tourism is working to combat sexual tourism, including CSEC. The government has taken initial steps to combat the worst forms of child labor.

Togolese law sets the minimum employment age in any enterprise at 15 years, unless an exemption is granted by the Ministry of Labor after consulting with the National Council on Work. Children, however, may not begin apprenticeships before completing the mandatory level of education, or before the age of 15. In 2006, Togo's National Assembly adopted a new Labor Code, which includes provisions on child labor, including the worst forms of child labor. Under the new law, the “worst forms of child labor,” parallel the definition from ILO Convention 182, and exposing a child to a worst form of child labor is punishable by imprisonment. The government also is implementing a National Plan of Action on Child Abuse, Child Labor, and Child Trafficking that includes activities such as strengthening border controls, awareness-raising campaigns, and establishing community structures for prevention of child trafficking and reintegration of trafficked children.

In 2005, the government passed a law prohibiting child trafficking, with a penalty of up to 10 years in prison for traffickers, though inconsistencies in the law have made implementation and prosecution difficult. In 2006, Togo was 1 of 24 countries to adopt the Multilateral Cooperative Agreement to Combat Trafficking in Persons, especially Women and Children, in West and Central Africa and the Joint Plan of Action against Trafficking in Persons, especially Women and Children in the West and Central African Regions. As part of the Multilateral Cooperative Agreement, the governments of West Africa agreed to put into place a child trafficking monitoring system; to ensure that birth certificates and travel identity documents cannot easily be falsified or altered; to provide assistance to each other in the investigation, arrest and prosecution of trafficking offenders; to protect, rehabilitate and reintegrate trafficked children; and to improve educational systems, vocational training and apprenticeships.

In recent years, the Government of Togo has supported two USDOL-funded projects to eliminate exploitive child labor and provide educational opportunities for these children. Since 2001, the government has actively participated in a USD 9 million regional project, funded by USDOL and implemented by ILO-IPEC, to combat trafficking in children for labor exploitation in West and Central Africa, known as “LUTRENA”. Ending in June 2007, the LUTRENA project has created a network of local vigilance committees to monitor and prevent child trafficking in communities throughout Togo and has launched a central database on trafficked children, which includes information from the government (customs, police, etc.), NGOs, and the community. From 2002-2006, CARE Togo implemented a USD 2 million project funded by USDOL to combat child trafficking through education, directly serving over 6,000 children who were withdrawn or prevented from being trafficked. The project targeted 6 prefectures and 60 villages in the Maritime and Central regions, based on the high incidence of child trafficking and poor provision of educational services in these regions. Interventions included mobilizing and empowering communities to protect children from being trafficked, awareness-raising campaigns through radio broadcasts and door-to-door sensitization efforts, involvement of parents and communities in school management, support to reintegration centers, and improvements to school infrastructure.

Togo also participates in an ILO-IPEC project to combat child labor in Francophone Africa, funded by France, and an ILO-IPEC project concerning the social reintegration of minors involved in illicit activities, which is funded by the Italian government. The Government of Togo also works in partnership with UNICEF, Terre des Hommes, Plan International, and other NGOs on child labor and trafficking issues.

iii. Scope of Work

Applicants must take into account cross-cutting themes (discussed below) and specific considerations that could affect project results in Togo, and meaningfully incorporate them into the proposed strategy, either to increase opportunities for, or reduce obstacles to, successful implementation. In Togo, specific considerations for project strategies and program activities should include the following components:

1. Specific Target Groups, Sectors, and/or Geographic Focus

The project should focus direct interventions on withdrawing children from, and preventing children from entering, exploitive child labor, including trafficking in persons.

2. Collaboration With Specific Programs and/or Links to Specific National Policies

Applicants must demonstrate that the proposed project activities support the Government of Togo's National Plan of Action on child abuse, child labor, and child trafficking. The project must also assist government efforts to implement the Multilateral Cooperative Agreement to Combat Trafficking in Persons, especially Women and Children, in West and Central Africa and the Joint Plan of Action against Trafficking in Persons, especially Women and Children in the West and Central African Regions. Collaborations should take place with the Ministry of Labor; the Ministry of Population, Social Affairs, and Promotion of Women; the Ministry of Education; the Ministry of Justice; the Ministry of Security; the Ministry of Health; the ILO; and UNICEF. Applicants should have a thorough knowledge of the USDOL-funded anti-trafficking project implemented by CARE in 2002-2006 and must collaborate with the USDOL-funded, ILO-IPEC LUTRENA project in addressing of trafficking in children in Togo. The proposal must also demonstrate that the project will work collaboratively with local and regional institutions and organizations already engaged in child labor and education issues in Togo.

3. Implementing Environment/Cross-Cutting Themes

Applicants must propose strategies that address issues related to trafficking of children for exploitive child labor and the impact of HIV/AIDS in increasing the number of children engaged in, or at-risk of entering, exploitive child labor.

4. Project-Specific Strategies

Applicants should demonstrate an understanding of the underlying sensitivities involved in returning children trafficked, sold, or abducted for exploitive child labor, or withdrawing children from CSEC, and propose strategies for addressing these situations, which may include the provision of psychosocial counseling. Applicants should also consider and seek to address the increased incidence among, and apparent vulnerability of, certain ethnic groups to child trafficking.

Combating Exploitive Child Labor Amongst War-Affected Children in Northern Uganda

i. Background

Child labor is common in Uganda, especially in the informal sector. Children sell small items on the streets, work in shops, beg for money, and are involved in the commercial sex industry. Children also work in agriculture, brickmaking, charcoal burning, quarrying, and construction. An ILO-IPEC report based on the 2000-2001 Uganda Demographic and Health Survey estimated the total number of working children aged 5 to 17 years in the country at 2.9 million, accounting for 34.2 percent of all children in this age group.

HIV/AIDS is a significant factor contributing to the incidence of exploitive child labor, including the worst forms of child labor in Uganda. According to UNICEF, almost two million children have been orphaned in Uganda, primarily due to HIV/AIDS.

In northern Uganda, there are enormous barriers that prevent children from accessing and completing a quality education. Since 1986, the Lord's Resistance Army (LRA) has abducted approximately 25,000 children from Uganda and southern Sudan to serve as porters and soldiers. Abducted girls often suffer the added trauma of rape, and are frequently given to rebel commanders as sexual slaves. Twenty years of war between the government and the LRA has forced approximately 1.6 million people (a majority of whom are women and children) to seek refuge in Internally Displaced Persons' (IDP) camps or, alternatively, in the towns of Gulu and Kitgum. With the signing of a peace agreement between the government and the LRA in August 2006, some families have left the IDP camps to return to their land. In the Karamoja region, drought and ethnic conflict over cattle has put thousands of people at risk. The government's forced disarmament program has also led to violent clashes between the Ugandan military and the agro-pastoralist Karimojong people, particularly young men.

Children in northern Uganda face an increase in stress from war, violence, and displacement. Displaced and formerly abducted children must cope with the psychological effects of this trauma. Moreover, in many cases, they return to school after a long absence to find themselves in the difficult position of being older than their classmates and having missed years of schooling. Formerly abducted girls have additional challenges as they often return from captivity as new mothers of young children.

Despite government incentives to local teachers and a teacher training college located in Gulu, northern Uganda is suffering from a shortage of educators. The teachers are often unequipped to accommodate the special needs of students adversely affected by conflict in the region and/or impacted by HIV/AIDS. Furthermore, for many children, the financial costs of attending school in northern Uganda are too great. In 1997, the Ministry of Education instituted a policy of Universal Primary Education (UPE) to make formal schooling more affordable and thus more available to students in Uganda; however, families must pay for school materials, uniforms, Parent Teacher Association (PTA) fees, and lunch and building fees. At the secondary education level, families are also required to pay tuition. Although some youth have an interest in learning skills or a trade, most technical training colleges require a level of academic achievement that former child soldiers and other war-affected youth have not attained.

ii. Relevant Policies, Programs, and Projects

The Ministry of Gender, Labor, and Social Development (MGLSD), charged with enforcing Uganda's child labor laws, investigates child labor complaints through district labor officers. The MGLSD houses a Child Labor Unit and implements the government's 2006 National Child Labor Policy and National Plan of Action to Eliminate Child Labor. The MGLSD also coordinates Uganda's Orphans and Vulnerable Children Policy, which extends social services to groups that include children who participate in the worst forms of child labor. In addition to the MGLSD, local governments are empowered to investigate child labor complaints. The National Council of Children, the Family Protection Unit in the police department, and the Uganda Human Rights Commission gather and act upon reports of child abuse.

The Ministry of Education and Sports has developed strategies for working with children living in areas of conflict in a Basic Education Policy and Costed Framework for Educationally Disadvantaged Children. The policy aims to increase community participation in education, strengthen linkages between formal and non-formal education, improve education quality by ensuring appropriate infrastructure and curriculum content and methodology, and provide appropriate learning materials. The Ministry of Education and Sports and the MGLSD have established a multi-agency working group to address the needs of children who have suffered from armed conflict.

The law sets the minimum age for employment at 14 years and prohibits persons below the age of 18 from engaging in hazardous labor. The Constitution of Uganda states that children under 16 years have the right to be protected from social and economic exploitation and should not be employed in hazardous work; work that would otherwise endanger their health, physical, mental, spiritual, moral, or social development; or work that would interfere with their education. The law prohibits compulsory and forced labor. While trafficking in persons is not a specific violation under Ugandan law, related offenses cover detaining a person with sexual intent, which is punishable up to 7 years of imprisonment; trading in slaves, which is punishable by up to 10 years of imprisonment; and “defilement,” defined as having sex with a minor, which is a punishable offense with a range of sentences leading up to the death penalty.

The Government of Uganda supports three USDOL-funded projects to eliminate child labor and provide educational opportunities for children engaged in or at risk of engaging in exploitive labor. The government is participating in the USD 3 million “Opportunities for Reducing Adolescent and Child Labor through Education (ORACLE)” project funded by USDOL and implemented by the International Rescue Committee and the Italian Association for Volunteers in International Service. Ending in September 2007, the ORACLE project contributes to the prevention and elimination of the worst forms of child labor amongst conflict-affected children in northern Uganda through the provision of transitional and non-formal education and family-based poverty reduction strategies. As of September 2006, the project has withdrawn or prevented 4,047 children from exploitive labor in Kitgum and Pader, updated the skills of 716 teachers, and conducted public awareness campaigns on the problems of child labor and the value of education. The government is also participating in a USD 3 million USDOL-funded, ILO-IPEC regional project to combat and prevent HIV/AIDS-induced child labor in Uganda and Zambia. To reduce vulnerability to participation in child labor, this project provides vocational and basic education, psychosocial rehabilitation and social protection to children orphaned by HIV/AIDS. The “Kenya, Uganda, Rwanda, and Ethiopia Together” (KURET) Project is also being implemented in Uganda by World Vision, in collaboration with the International Rescue Committee and the Academy for Educational Development. This USD 14.5 million project, funded by USDOL, provides educational alternatives to children living in HIV/AIDS-affected areas who are especially vulnerable to engaging in the exploitive child labor, and has activities in the northern Uganda districts of Arua, Lira, and Gulu.

In collaboration with the government, UNICEF provides funding for early childhood development, girls' education initiatives, and infrastructure improvements. USAID supports training for School Management Committees, develops HIV/AIDS education for primary school students, and promotes teacher training. Several NGOs have also developed programs focusing on the rehabilitation and reintegration of former child soldiers and war-affected children, as well as HIV/AIDS-affected children.

iii. Scope of Work

Applicants must take into account cross-cutting themes (described below), specific considerations, and additional activities that could affect project results in northern Uganda, and meaningfully incorporate them into the proposed strategy, either to increase opportunities for, or reduce obstacles to, successful implementation. In northern Uganda, specific considerations for project strategies and program activities should include the following components:

1. Specific Target Groups, Sectors, and/or Geographic Focus

The project should focus direct interventions on withdrawing and preventing war-affected children and youth from exploitive child labor, with particular emphasis on the worst forms of child labor, in northern Uganda, including the Karamoja region.

2. Collaboration With Specific Programs and/or Links to Specific National Policies

Applicants must demonstrate that the proposed project activities support the Government of Uganda's National Policy on Elimination of Child Labor and National Plan of Action on Elimination of Child Labor. Collaborations should take place with the MGLSD and the Ministry of Education and Sports, and the Applicants must also demonstrate that the project will work collaboratively with local and regional institutions and organizations already engaged in child labor and education issues in northern Uganda. The proposal should support the efforts begun under the USDOL-funded ORACLE project to withdraw and prevent children from engaging in exploitive labor in northern Uganda. Applicants should also demonstrate collaboration and coordination with the USDOL-funded KURET and ILO-IPEC Regional HIV/AIDS projects in addressing the cross-cutting theme of HIV/AIDS in Uganda. Given the complex social situation of children in northern Uganda, Applicants are also encouraged to collaborate with other existing programs working on issues of poverty, health and nutrition, community development, reintegration, and conflict resolution.

3. Implementing Environment/Cross-Cutting Themes

USDOL seeks to fund a sustainable program that provides for the emerging educational needs of war-affected children engaged in, or at risk of engaging in, exploitive child labor as northern Uganda transitions towards peace. Applicants should take into consideration the fluidity and constantly changing nature of the security situation in northern Uganda and related migrations flows. Applicants must also incorporate the cross-cutting theme of HIV/AIDS into the project strategy.

4. Project-Specific Strategies

In developing the project strategy, Applicants must provide a working definition of “war-affected children/youth” that will be used in identifying potential direct beneficiaries under the project and should account for the demographic and social characteristics of such children and youth. Applicants should also exhibit an understanding of current efforts to promote youth employment in northern Uganda.

II. Award Information

Type of assistance instrument for projects to be awarded under this solicitation: Cooperative Agreement. USDOL's involvement in project implementation and oversight is outlined in section VI.2. The duration of the project(s) funded by this solicitation is three to four (4) years. The start date of project activities will be negotiated upon awarding of the Cooperative Agreement, but will be no later than September 30, 2007.

Up to USD 46.494 million will be awarded under this solicitation. USDOL may award 10 or more Cooperative Agreements to one or more organizations and/or Associations that may apply to implement projects to combat exploitive child labor in the following 10 countries: Bolivia (up to $3.344 million), Cambodia (up to $4 million), Colombia (up to $5.1 million), Democratic Republic of the Congo (up to $5.5 million), the Dominican Republic (up to $4 million), Indonesia (up to $5.55 million), Morocco (up to $3 million), the Philippines (up to $5.5 million), Togo (up to $5 million), and Uganda (up to $5.5 million). The Grantee may not subgrant any of the funds obligated under these Cooperative Agreements, but may use subcontracts. See section IV.5.E for further information on subcontracts and Appendix D for additional clarification on the differences between subgrants and subcontracts.

III. Eligibility Information

1. Eligible Applicants

Any commercial, international, educational, or non-profit organization(s), including any faith-based, community-based, or public international organization(s) capable of successfully developing and implementing educational programs that aim to withdraw children from, or prevent children from entering, exploitive child labor in the target country is eligible to apply. However, the Grantee (or Lead Grantee, in the case of an Association) is not allowed to charge a fee (profit). Neutral, non-religious criteria that neither favor nor disfavor religion will be employed in the selection of Cooperative Agreement recipients. Applications from foreign governments and entities that are agencies of, or operated by or for, a foreign state or government will not be considered. An Applicant must demonstrate a country presence, independently or through a relationship with another organization(s) with country presence, which gives it the ability to initiate program activities upon award of the Cooperative Agreement (see section V.1.C.ii). Please Note: Applicants may apply for more than one Cooperative Agreement under this solicitation; however, separate applications must be submitted for each country. If applications for more than one Cooperative Agreement are combined, they will not be considered.

If it is deemed the most effective and efficient strategy for achieving the goals outlined in the Scope of Work, USDOL may award one or more Cooperative Agreements to an Association, which is a partnership of more than one organization(s). Any such Association must submit to USDOL, as an attachment to the application, an Association agreement, reflecting an appropriate joint venture, partnership, or other contractual agreement and outlining the deliverables, activities, and corresponding timeline for which each Associate will be responsible. Copies of such agreements will not count toward the page limit.

If any entity identified in the application as an Associate does not sign the Cooperative Agreement, the Lead Grantee must provide, within 60 days of award, either a written subcontract agreement with such entity, acceptable to USDOL, or an explanation as to why that entity will not be participating in the Cooperative Agreement. USDOL reserves the right to re-evaluate the award of the Cooperative Agreement in light of any such change in an entity's status and may terminate the award if USDOL deems it appropriate.

For the purposes of this proposal and the Cooperative Agreement award, the Lead Grantee will be: (1) The primary point of contact with USDOL to receive and respond to all inquiries, communications and orders under the project; (2) the only entity with authority to withdraw or draw down funds through the Department of Health and Human Services—Payment Management System (HHS-PMS); (3) responsible for submitting to USDOL all deliverables, including all technical and financial reports related to the project, regardless of which Associate performed the work; (4) the sole entity that may request or agree to a revision or amendment of the award or the Project Document; and (5) responsible for working with USDOL to close out the project. Note, however, that each Associate is ultimately responsible for overall project performance, regardless of any assignment of specific tasks, but Associates may agree, among themselves only, to apportion the liability for such performance. Each Associate must comply with all applicable federal regulations and is individually subject to audit.

In accordance with 29 Code of Federal Regulations (CFR) part 98, entities that are debarred or suspended from receiving federal contracts or grants shall be excluded from Federal financial assistance and are ineligible to receive funding under this solicitation.

2. Other Eligibility Requirements

Applicants must include their Dun and Bradstreet Number (DUNS) in the organizational unit section of Block 8 of the SF 424. For Associations, Block 8 of the SF 424 should contain the DUNS number of the proposed Lead Grantee, and a list of the DUNS number(s) of all proposed members of the Association should be included as an attachment to the SF 424. DUNS is an acronym which stands for “Data Universal Numbering System,” and a DUNS number is a unique nine-digit number used to identify a business. Beginning October 1, 2003, all Applicants for Federal grant funding opportunities are required to include a DUNS number with their application per the Office of Management and Budget Notice of Final Policy Issuance, 68 Federal Register 38402 (June 27, 2003). The DUNS number is a nine-digit identification number that uniquely identifies business entities. There is no charge for obtaining a DUNS number. To obtain a DUNS number call 1-866-705-5711 or access the following Web site: http://www.dnb.com/us/.

Requests for exemption from the DUNS number requirement must be made to the Office of Management and Budget (OMB), Office of Federal Financial Management at 202-395-3993. If no DUNS number is provided in the application, and the Applicant does not provide evidence of an OMB exemption from the DUNS number requirement, then the application will be considered non-responsive.

After receiving a DUNS number, Applicants must also register as a vendor with the Central Contractor Registration through the following Web site: http://www.ccr.gov or by phone at 1-888-227-2423. Central Contractor Registration (CCR) should become active within 24 hours of completion. For any questions regarding registration, please contact the CCR Assistance Center at 1-888-227-2423.

After registration, Applicants will receive a confirmation number. The Point of Contact listed by the organization will receive a Trader Partnership Identification Number (TPIN) via mail. The TPIN is, and should remain, a confidential password.

3. Cost Sharing or Matching Funds

This solicitation does not require Applicants to share costs or provide matching funds; however, Applicants are encouraged to do so, and this is a rating criteria worth up to five (5) additional points (see section V.1.F.). Applicants who propose matching funds, in-kind contributions, and other forms of cost sharing must indicate their estimated dollar value in the Standard Form (SF) 424 and SF 424A submitted as part of the application. Grantees should note that they will be responsible for reporting on these funds quarterly in financial reports (SF 269s) and are liable for meeting the full amount of these costs during the life of the Cooperative Agreement.

IV. Application and Submission Information

1. Application Package

This solicitation contains all of the necessary information, including information on required forms, needed to apply for Cooperative Agreement funding. This solicitation is published as part of this Federal Register notice. Additional copies of the Federal Register may be obtained from your nearest U.S. Government office or public library or online at: http://www.archives.gov/federal_register/index.html.

2. Content and Form of Application Submission

Applications may be submitted to USDOL in hard copy or electronically at http://www.grants.gov. Applicants electing to submit hard copies must submit one (1) blue ink-signed original, complete application, plus three (3) copies of the application. Applicants may submit applications for one or more countries. However, Applicants applying for a Cooperative Agreement for more than one target country must submit a separate application for each country. The application must consist of two (2) separate parts, (1) a cost proposal and (2) a technical proposal, as described below. Applicants should number all pages of the application. All parts of the application must be written in English, in 10-12 pitch font size.

Part I of the application, the cost proposal, must contain the SF 424, Application for Federal Assistance, and Sections A-F of the Budget Information Form SF 424A. Applicants are also required to submit a detailed outputs-based budget that links costs to project design and an accompanying budget narrative. The SF 424, SF 424A, and a sample outputs-based budget are available from ILAB's Web site at http://www.dol.gov/ilab/grants/bkgrd.htm. The individual signing the SF 424 on behalf of the Applicant must be authorized to bind the Applicant.

The cost proposal must contain information on the Applicant's indirect costs, using the form provided on ILAB's Web site at http://www.dol.gov/ilab/grants/bkgrd.htm. Applicants should note all instructions outlined on this form and include one of the following supporting documents, as applicable, in their application: (1) A current, approved Cost Allocation Plan (CAP); (2) a current Negotiated Indirect Cost Rate Agreement (NICRA); or (3) a Certificate of Direct Costs. In the case of Associations, each member of the Association must submit a copy of the aforementioned documents.

All Applicants are requested to complete the Survey on Ensuring Equal Opportunity for Applicants (OMB No. 1890-0014), which has been provided in Appendix D.

Part II, the technical proposal, demonstrates the Applicant's capabilities to plan and implement the proposed project in accordance with the provisions of this solicitation. The Technical Proposal must not exceed 45 single-sided (8½″ × 11″), double-spaced pages with 1-inch margins. The technical application must identify how Applicants will carry out the Scope of Work in section I.3. of this solicitation. The following information is required:

• A two-page abstract summarizing the proposed project and Applicant profile information including: Applicant name, contact information of the key contact person at the Applicant's organization in case questions should arise (including name, address, telephone and fax numbers, and e-mail address, if applicable), project title, Association members and/or subcontractors (if applicable), proposed project activities, funding level requested and the amount of leveraged resources, if applicable;

• A table of contents listing the application sections;

• A project design description as specified in the Application Evaluation Criteria found in section V.1.A. of this solicitation (maximum 45 pages) and a corresponding Logical Framework matrix as described in section V.1.A;

• A Sustainability Plan

• A Work Plan identifying major project activities, deadlines for completing the activities and person(s) or institution(s) responsible for completing these activities that is linked to the Logical Framework matrix.

Please note that the abstract, table of contents, Logical Framework matrix, Sustainability Plan, and Work Plan are not included in the 45-page limit for the project design description.

Any applications that do not consist of the above-mentioned parts and conform to these standards will be deemed unresponsive to this solicitation and may be rejected. Any additional information not required under this solicitation will not be considered.

3. Submission Dates, Times, and Address

Applications must be delivered (by hand, mail, or electronically through www.grants.gov) by 4:45 p.m., Eastern Time, July 25, 2007 to: U.S. Department of Labor, Procurement Services Center, 200 Constitution Avenue, NW., Room S-4307, Washington, DC 20210, Attention: Ms. Lisa Harvey, Reference: Solicitation 07-10. Applications sent by e-mail, telegram, or facsimile (FAX) will not be accepted. Applications sent by non-Postal Service delivery services, such as Federal Express or UPS, will be accepted; however, Applicants bear the responsibility for timely submission. The application package must be received at the designated place by the date and time specified or it will be considered unresponsive and will be rejected. Any application received at the Procurement Services Center after the deadline will not be considered unless it is received before the award is made and:

A. It is determined by the Government that the late receipt was due solely to mishandling by the Government after receipt at USDOL at the address indicated; and/or

B. It was sent by registered or certified mail not later than the fifth calendar day before the deadline; or

C. It was sent by U.S. Postal Service Express Mail Next Day Service-Post Office to Addressee, not later than 5 p.m. at the place of mailing two (2) working days, excluding weekends and Federal holidays, prior to the deadline.

The only acceptable evidence to establish the date of mailing of a late application sent by registered or certified mail is the U.S. Postal Service postmark on the envelope or wrapper and on the original receipt from the U.S. Postal Service. The only acceptable evidence to establish the date of mailing of a late application sent by U.S. Postal Service Express Mail Next Day Service-Post Office to Addressee is the date entered by the Post Office clerk on the “Express Mail Next Day Service-Post Office to Addressee” label and the postmark on the envelope or wrapper on the original receipt from the U.S. Postal Service.

If the postmark is not legible, an application received after the above closing time and date shall be processed as if mailed late. “Postmark” means a printed, stamped, or otherwise placed impression (not a postage meter machine impression) that is readily identifiable without further action as having been applied and affixed by an employee of the U.S. Postal Service on the date of mailing. Therefore, Applicants should request that the postal clerk place a legible hand cancellation “bull's-eye” postmark on both the receipt and the envelope or wrapper.

The only acceptable evidence to establish the time of receipt at USDOL is the date/time stamp of the Procurement Service Center on the application wrapper or other documentary evidence of receipt maintained by that office. Confirmation of receipt can be obtained from Ms. Lisa Harvey (see section VII. for contact information).

Please Note: All Applicants are advised that U.S. mail delivery in the Washington DC area can be slow and erratic due to concerns involving contamination. All Applicants must take this into consideration when preparing to meet the application deadline.

Applicants may also apply online at http://www.grants.gov. Applicants submitting proposals online are requested to refrain from mailing a hard copy application as well. It is strongly recommended that Applicants using http://www.grants.gov immediately initiate and complete the “Get Registered” registration steps at http://www.grants.gov/applicants/get_registered.jsp. These steps may take multiple days to complete, and this time should be factored into plans for electronic submission in order to avoid facing unexpected delays that could result in the rejection of an application. It is also recommended that Applicants using http://www.grants.gov consult the Grants.gov Web site's Frequently Asked Questions and Applicant User Guide, which are available at http://www.grants.gov/help/faq.jsp, and http://www.grants.gov/assets/UserGuide_Applicant.pdf, respectively.

If submitting electronically through http://www.grants.gov, Applicants must save the application document as a .doc, .pdf, .txt or .xls file. Any application received on http://www.grants.gov after the deadline will be considered as non-responsive and will not be evaluated.

4. Intergovernmental Review

This funding opportunity is not subject to Executive Order 12372, “Intergovernmental Review of Federal Programs.”

5. Restrictions, Unallowable Activities, and Specific Prohibitions

USDOL-ILAB would like to highlight the following restrictions, unallowable activities, and specific prohibitions, as identified in OMB Circular A-122, 29 CFR Part 95, 29 CFR Part 98, and other USDOL policy, for all USDOL-funded child labor technical cooperation projects. If any Grantee has questions regarding these or other restrictions, consultation with USDOL-ILAB is recommended.

A. Pre-Award Costs

Pre-award costs, including costs associated with the preparation of an application submitted in response to this solicitation, are not reimbursable under the Cooperative Agreement (see also section VI.2.E).

B. Alternative Income-Generating Activities

USDOL funds awarded under all USDOL-OCFT Cooperative Agreements may not be used to provide micro-credits, revolving funds, or loan guarantees. Permissible costs related to alternative income-generating activities for parents and children may include, but are not limited to, vocational or skills training, incidental tools and equipment, guides, manuals, and market feasibility studies. USDOL reserves the right to negotiate the exact nature, form, or scope of alternative income-generating activities and to approve or disapprove these activities at any time after award of the Cooperative Agreement.

C. Direct Cash Transfers to Communities, Parents, or Children

As a matter of policy, USDOL does not allow for direct cash transfers to target beneficiaries. Therefore, Grantees may not provide direct cash transfers to communities, parents, or children. USDOL, however, would support the purchase of incidental items in the nature of “participant support costs,” as defined in OMB Circular A-122, Attachment B, No. 34, which are necessary to ensure that proposed direct beneficiaries are no longer working in exploitive child labor and that these children have access to schooling, as part of the overall strategy to withdraw children from, and prevent children from entering, exploitive labor. Participant support costs are direct costs that may include such items as uniforms, school supplies, books, provision of tuition (i.e., in the form of stipends), and transportation costs. If approved by USDOL, these items are expected to be purchased or paid for directly by the Grantee or its subcontractor(s) in the form of vouchers, or payment to the service provider, as opposed to handing cash directly to children or other individuals. This insures that the money goes for its intended purpose and is not diverted or lost.

If Applicants propose the provision of participant support costs, they must specify: (1) Why these activities and interventions are necessary, and how they will contribute to the overall project goals; and (2) how the disbursement of funds will be administered in order to maximize efficiency and minimize the risk of misuse. The application must also address how participant support costs will be made sustainable once the project is completed.

D. Construction

Construction with funds under the Cooperative Agreement is subject to USDOL approval and ordinarily should not exceed 10 percent of the project budget's direct costs and is expected to be limited to improving existing school infrastructure and facilities in the project's targeted communities. USDOL encourages Applicants to cost-share and/or leverage funds or in-kind contributions from communities and local organizations when proposing construction activities in order to ensure sustainability.

E. Subgrants

The funding for this program does not include authority for subgrants. Therefore, the Grantee may not subgrant any of the funds obligated under the Cooperative Agreement. Subgranting may not be included in the budget as a line item or in the text of the application. However, subcontracting may be included as a budget line item. Subcontracts must be awarded in accordance with 29 CFR 95.40-48 and are subject to audit, in accordance with the requirements of 29 CFR 95.26(d). Subcontracts awarded after the Cooperative Agreement is signed, and not proposed in the application, must be awarded through a formal competitive bidding process, unless prior written approval is obtained from USDOL.

The determination of whether a Grantee's relationship with a subrecipient would constitute a subgrant or subcontract is determined primarily with reference to an agreement's general purpose, programmatic functions, and responsibilities given to the subrecipient. These three elements should be closely examined, together with the usual characteristics (terms and performance standards, scope of work, etc.). In case of doubt, consultations are expected to be held between USDOL and the Grantee with a view to ensuring proper determination of the particular agreement. As a reference tool in determining whether an agreement is a subgrant or a subcontract, see Appendix D. The table in Appendix D is for reference only and does not create any legally binding obligation.

See also section IV. I-K for related references on Grantee and subcontractor prohibitions related to Prostitution, Inherently Religious Activities, and Terrorism. In addition, the debarment and suspension rule, as outlined in 29 CFR 95.13 and 29 CFR 98, applies to all subcontracts issued under the Cooperative Agreement. Grantees are responsible for ensuring that all subcontractors meet this requirement. More detailed information on subcontracts may be requested by USDOL during the Best and Final Offer (BAFO) process.

F. Lobbying and Intent To Influence

Funds provided by USDOL for project expenditures under Cooperative Agreements may not be used with the intent to influence a member of the U.S. Congress, a member of any U.S. Congressional staff, or any official of any Federal, State, or Local Government in the United States (hereinafter “government official(s)”), to favor, adopt, or oppose, by vote or otherwise, any U.S. legislation, law, ratification, policy, or appropriation, or to influence in any way the outcome of a political election in the United States, or to contribute to any political party or campaign in the United States, or for activities carried on for the purpose of supporting or knowingly preparing for such efforts. This includes awareness raising and advocacy activities that include fund-raising or lobbying of U.S. Federal, State, or Local Governments. (See OMB Circular A-122). This does not include communications for the purpose of providing information about the Grantees and their programs or activities, in response to a request by any government official, or for consideration or action on the merits of a federally-sponsored agreement or relevant regulatory matter by a government official.

COOPERATIVE AGREEMENT APPLICANTS CLASSIFIED UNDER THE INTERNAL REVENUE CODE AS A 501(c)(4) ENTITY (see 26 U.S.C. 501(c)(4)), MAY NOT ENGAGE IN ANY LOBBYING ACTIVITIES. According to the Lobbying Disclosure Act of 1995, as codified at 2 U.S.C. 1611, an organization, as described in Section 501(c)(4) of the Internal Revenue Code of 1986, that engages in lobbying activities directed toward the U.S. Government is not eligible for the receipt of Federal funds constituting an award, grant, Cooperative Agreement, or loan.

G. Funds To Host Country Governments

USDOL funds awarded under Cooperative Agreements are not intended to duplicate existing foreign government efforts or substitute for activities that are the responsibility of such governments. Therefore, in general, Grantees may not provide any of the funds obligated under a Cooperative Agreement to a foreign government or entities that are agencies of, or operated by of for, a foreign state or government, ministries, officials, or political parties. However, subcontracts with foreign government agencies or entities that are agencies of, or operated by or for, a foreign state or government may be awarded to provide direct services or undertake project activities subject to applicable laws, but only after a competitive procurement process has been conducted and the Grantee has determined that no other entity in the country is able to provide these services. In such cases, Grantees must receive prior USDOL approval before awarding the subcontract.

H. Miscellaneous Prohibitions

In addition, USDOL funds may not be used to provide for:

• The purchase of land;

• The procurement of goods or services used for private purposes by the Grantee's employees;

• Entertainment, including amusement, diversion, and social activities and any costs directly associated with entertainment (such as tickets, meals, lodging, rentals, transportation, and gratuities). Costs of training or meetings and conferences, when the primary purpose is the dissemination of technical information, are allowable. This includes reasonable costs of meals and refreshments, transportation, rental of facilities and other items incidental to such meetings and conferences. Costs related to child labor educational activities, such as street plays and theater, are allowable; and

• Alcoholic beverages.

I. Prostitution

The U.S. Government is opposed to prostitution and related activities which are inherently harmful and dehumanizing and contribute to the phenomenon of trafficking in persons. U.S. nongovernmental organizations (NGOs), and their subcontractors, cannot use funds provided by USDOL to lobby for, promote or advocate the legalization or regulation of prostitution as a legitimate form of work. Foreign-based NGOs, and their subcontractors, that receive funds provided by USDOL for projects to combat trafficking in persons cannot lobby for, promote or advocate the legalization or regulation of prostitution as a legitimate form of work while acting as a subcontractor on a USDOL-funded project. It is the responsibility of the Grantee to ensure its subcontractors meet these criteria, and this provision must be included in any applicable subcontract that the Grantee awards using USDOL funds and the Grantee will obtain a written declaration to that effect from the subcontractor concerned.

J. Inherently Religious Activities

The U.S. Government is generally prohibited from providing direct financial assistance for inherently religious activities. The Grantee and/or its Associates may work with and subcontract with religious institutions; however, Federal funds provided under a USDOL-awarded Cooperative Agreement may not be used for religious instruction, worship, prayer, proselytizing, other inherently religious activities, or the purchase of religious materials. Neutral, non-religious criteria that neither favor nor disfavor religion will be employed in the selection of Grantees and must be employed by the Grantee and/or its Associates in the selection of subcontractors. This provision must be included in all subcontracts issued under the Cooperative Agreement. Any inherently religious activities conducted by the Grantee must be clearly separated in time or physical space from activities funded by USDOL. Additionally, direct beneficiaries of the project must have a clear understanding that their enrollment in a USDOL-funded project is not conditioned on their participation in any religious activities and a decision to not participate in any inherently religious activity will in no way impact, or result in any negative consequences to, their project standing. For additional guidance, please consult USDOL's Center for Faith-Based and Community Initiatives' Web site at http://www.dol.gov/cfbci. In addition, for any matters of uncertainty, USDOL should always be consulted for prior approval.

K. Terrorism

Applicants are reminded that U.S. Executive Orders and U.S. law prohibit transactions with, and the provision of resources and support to, individuals and organizations associated with terrorism. It is the legal responsibility of the Grantee to ensure compliance with these Executive Orders and laws. It is the policy of USDOL to seek to ensure that none of its funds are used, directly or indirectly, to provide support to individuals or entities associated with terrorism. Applicants responding to this solicitation and Grantees subsequently awarded funding by USDOL under this solicitation must check the following Web sites to assess available information on parties that are excluded from receiving Federal financial and nonfinancial assistance and benefits, pursuant to the provisions of 31 U.S.C. 6101, note, E.O. 12549, E.O. 12689, 48 CFR 9.404: http://www.epls.gov/ and http://www.treas.gov/offices/enforcement/ofac/sdn/t11sdn.pdf.

This provision must be included in all applicable subcontracts issued under the Cooperative Agreement.

V. Application Review Information

1. Application Evaluation Criteria

This section identifies and describes the criteria that will be used to evaluate applications submitted in response to this Solicitation for Cooperative Agreement Applications. Applications will be evaluated on a 100 point scale. Applicants are required to address all of the following rating factors in their technical proposal: Project Design/Budget Cost-Effectiveness (40 points), Sustainability Plan (15 points), Organizational Capacity (25 points), and Key Personnel/Management Plan/Staffing (20 points). Applicants should note that additional points may be given to applications feasibly proposing: (a) To withdraw or prevent more than 200 children from exploitive child labor through the provision of direct educational services and other project interventions for every $100,000 in project funding awarded (Additional Direct Beneficiaries 5 points) and (b) To include committed non-Federal resources as described below in sections V.1.E. and V.1.F (Cost Sharing 5 points).

Please note that all information and requirements presented in section I.(3) Scope of Work and Appendix A: USDOL's Definitions of Key Terms will be taken into consideration when evaluating applications on the basis of the technical rating criteria outlined in this section. Applicants' cost proposals will be considered when evaluating the rating criteria Project Design/Budget Cost-Effectiveness/Budget Cost-Efficiency (see section V.A.iv. for further information on requirements related to Budget Cost-Effectiveness). When preparing the technical proposal, applicants must follow the outline provided in Appendix B and ensure that the technical proposal does not exceed the maximum length of 45 pages.

Project Design/Budget Cost-Effectiveness/Budget Cost-Efficiency | 40 points.
Sustainability Plan | 15 points.
Organizational Capacity | 25 points.
Key Personnel/Management Plan/Staffing | 20 points.
Additional Direct Beneficiaries | 5 extra points.
Cost Sharing | 5 extra points.

A. Project Design/Budget Cost-Effectiveness/Budget Cost-Efficiency (40 Points)

This part of the technical proposal constitutes the “preliminary project design document” and serves as the basis of the final Project Document to be submitted and approved by USDOL after Cooperative Agreement award. The Applicant's preliminary project design document must describe in detail the proposed approach to comply with the requirements listed below and be linked to a supporting Logical Framework matrix. The supporting Logical Framework matrix will not count in the 45-page limit, but should be included as an annex to the preliminary project design document. To guide Applicants, a sample Logical Framework matrix for a hypothetical USDOL child labor elimination project is available at: http://www.dol.gov/ilab/grants/bkgrd.htm.

i. Background and Justification

Applicants will be rated based on their knowledge and understanding of: (a) The child labor and education context in the country(ies) of interest and in the targeted sectors; (b) the issues, barriers, and challenges involved in providing education to children engaged in, or at-risk of engaging in exploitive child labor, as a strategy for ensuring their long-term withdrawal or prevention from such labor; (c) best-practice solutions to address their needs; and (d) the policy and implementing environment in the selected country (ies).

Additional factors for consideration include:

• Assessment of the incidence and nature of exploitive child labor, particularly the worst forms of child labor, in geographic area and/or sector(s) targeted, including hours of work, conditions of work, age and sex distribution of the target group, educational performance relative to other children, and if available, any research or data that might indicate correlations between educational performance and child labor;

• Identification of the sources of the relevant literature and documents used to analyze the child labor and educational context;

• Demonstrated familiarity with existing child labor, education and social welfare policies, plans and projects and the sector in which the children work, which Applicants are using to inform project design for proposed direct beneficiaries; and

• Demonstrated knowledge of other relevant programs as they pertain to child labor or education of proposed direct beneficiaries in Bolivia, Cambodia, Colombia, Democratic Republic of the Congo, the Dominican Republic, Indonesia, Morocco, the Philippines, Togo, and Uganda.

ii. Proposed Strategy

Applicants must discuss their proposed strategy to address the five goals of USDOL-funded child labor elimination projects outlined in section I.1, as well as their proposed strategy for ensuring direct beneficiaries' enrollment, retention in, and completion of, project-supported direct educational services. Applicants will be rated based on the quality and relevance of their proposed strategies.

The proposal must: (1) Identify how many children the Applicant expects to withdraw from exploitive child labor and prevent from entering exploitive child labor through the provision of direct educational services and other project interventions. Based on the specific cost-efficiency measures USDOL-OCFT has established with OMB, a minimum of 172 direct beneficiaries must be served for each $100,000 of project funding. Applications that propose to serve less than 172 direct beneficiaries per $100,000 of project funds will be considered non-responsive; (2) describe the specific gaps/educational needs of the children targeted by the project and explain how the project will address those gaps/needs/barriers of the children targeted; (3) provide detailed information on the forms of direct educational services that will be provided to the proposed direct beneficiaries, including the type(s) of educational and/or training programs in which the children will be enrolled, as well as the types of training opportunities and technical assistance that will be provided to project staff, host country nationals, community groups, and other stakeholders involved in the project; and (4) provide a detailed Work Plan that identifies major project activities, deadlines for completing these activities, and person(s) or institution(s) responsible for completing these activities. (The Work Plan may vary depending on what is the most logical form. It may, for example, be divided by project component, country, or region.)

Please Note: The number of children targeted for withdrawal from exploitive child labor and the number of children targeted for prevention from exploitive child labor should be reported separately. Applicants are strongly encouraged to propose a balanced number of children targeted for withdrawal from exploitive child labor with the number of children targeted for prevention from exploitive child labor. Detailed information on the proposed direct beneficiaries, including demographics, sectors of work, geographical location, type(s) of educational activities to be provided, type(s) of other project interventions to be provided, and other relevant characteristics and strategies must be provided. Applicants are strongly encouraged to begin providing direct educational services to at least one-quarter of the children being targeted for withdrawal or prevention (i.e. direct beneficiaries) during the first year of project implementation. Applicants should also provide information on how many children are expected to be indirect beneficiaries of the project (i.e., children benefiting solely from project interventions other than direct educational services).

To support their strategies, Applicants are encouraged to leverage project resources by collaborating with entities engaged in efforts that could contribute to the elimination of exploitive child labor, including efforts that promote children's access to educational and training opportunities and that address poverty—a major factor that increases the likelihood that children will engage in exploitive child labor. Applicants are also encouraged to include concrete commitments from business entities and individual business leaders to engage in partnerships to reduce child labor and increase educational opportunities for direct beneficiaries. Ideas for business involvement could include, but are not limited to the following: scholarships, donations of goods, mentoring and volunteering by employees, assistance in awareness raising, provision of internships for children/youth and/or teachers during vacation periods that would help them improve leadership, skills, and efficiency for implementing programs for children engaged in exploitive child labor.

Additional factors that will be considered include:

• Demonstrated knowledge of the school calendar and the requirements of basic, non-formal and vocational education systems to develop an approach that successfully enrolls children in educational programs with the shortest delay without missing an academic year or program cycle;

• The extent to which country-specific issues that could affect project results, including those outlined in section I.3., were meaningfully incorporated into the proposed strategy, either to increase opportunities for, or reduce obstacles to, successful implementation;

• Incorporation of the economic and social context of the target country in the proposed strategy, recognizing that approaches applicable in one target country may not be relevant to others;

• The creative and innovative nature of the Applicant's approach to promote policies and services that will enhance the provision of educational opportunities for children engaged in, or at-risk of entering, exploitive child labor;

• The extent to which the number of children targeted by the project is commensurate with the need in the geographical area and/or sector(s) where the project will be implemented, and how this number relates to the project's goals for broader impact in the country and/or sector(s);

• The feasibility and sensibility of the timeframes for the accomplishment of tasks and the proposed outcomes;

• The clarity and quality of the information provided in the Work Plan; and

• The extent to which the proposed approach will build upon existing activities, government policies, and plans, thereby avoiding needless duplication.

iii. Project Monitoring and Evaluation

Applicants must describe how management will ensure that: (1) All goals, objectives and deliverables of the project will be met; (2) information and data will be collected and used to demonstrate the impacts of the project; and (3) self-assessment, evaluation, and continuous improvement will occur (including a description of the systems that will be put in place for this purpose).

Applicants must design and implement a project monitoring system that allows for the monitoring of direct beneficiaries' work and educational status throughout the period of service provision (including type of work; working conditions, such as hours of work and hazardous conditions; and school attendance). Applications should describe in detail the methodology that will be used to monitor the above for all direct beneficiaries of the project. The proposal should identify who will be responsible for monitoring the children (i.e., teachers, project staff, community members, parents, employers), what data will be used (i.e., school attendance records, work attendance records, counseling information), and at what frequency (i.e., weekly, monthly, quarterly, semi-annually). Proposals must also describe the Grantee's quality control procedures, including how the Grantee will ensure that all implementers use the same definitions and reporting procedures and how the Grantee will conduct validation checks (i.e., sample-based checks, school and workplace site visits). In an effort to avoid duplication, build on existing synergies, and increase sustainability, projects should, to the extent possible, coordinate their direct beneficiary monitoring system with existing ILO-IPEC or other country-level monitoring systems. In cases where direct beneficiaries will complete their direct educational service(s) prior to the end of the project period, Applicants are encouraged to monitor and report on the work and education status of these direct beneficiaries beyond the period of service provision and ideally through the end of the project.

As project funds are often limited, the Grantee will need to identify the criteria that they intend to use to determine which children will receive direct educational services from the project. In addition, the Grantee will need to determine at what point in the provision of such services the project can reasonably and with confidence count a child as withdrawn or prevented from exploitive labor.

USDOL-OCFT has developed common indicators related to its child labor elimination projects: (1) The number of children withdrawn or prevented from exploitive child labor and provided education and/or training opportunities; (2) the number of countries with improved capacity to address child labor; and direct beneficiaries' (3) retention in and (4) completion of an education and/or training program. The first two indicators, as noted in section I.1., represent GPRA indicators for USDOL international child labor programming.

Further guidance on USDOL-OCFT's common indicators will be provided after award; thus, Applicants should focus their program management and performance assessment responses toward the development of their project's monitoring strategy to ensure children are: (a) Withdrawn or prevented from exploitive child labor; (b) provided a direct educational service(s); (c) able to be retained in and complete their direct educational service(s); and (d) able to remain out of exploitive labor. Due to the potentially significant links between hours worked, working conditions, and school performance, Grantees must collect information to track this correlation among its direct beneficiaries.

Applicants should describe their proposed internal project monitoring strategies for measuring their performance in meeting the five goals of USDOL's child labor elimination projects outlined in section I.1. and assessing the impact of proposed direct educational services on direct beneficiaries and other project interventions on indirect beneficiaries, including a limited number of additional key indicators of project performance. These indicators will serve as a basis for Grantees' Draft Performance Monitoring Plan (see section VI.4.E.).

Additional factors for consideration in the monitoring strategy include:

• The Applicant's plan for collecting baseline data; and

• The Applicant's proposed methodologies for evaluating the correlation between the type of work and conditions of work (including hours of work and workplace conditions) of direct beneficiaries and their school attendance and performance.

iv. Budget Cost-Effectiveness

This section will be evaluated on the basis of information contained in Applicants' cost proposals in accordance with applicable Federal laws and regulations. The budget must comply with Federal cost principles (which can be found in the applicable OMB Circulars). The requirements for cost proposals, including an outputs-based budget, are listed in section IV.2. A budget summary must be included in the application and must include a detailed breakdown of the Applicant's cost. In the detailed budget, Applicants must (a) show how the budget reflects program goals and design in a cost-effective way and (b) link the budget to the activities and outputs of the Work Plan discussed above. USDOL will evaluate Applicants on the degree to which the cost of activities will lead to the outputs they have identified. Consequently, Applicants should carefully construct their outputs-based budget to ensure that costs are both realistic and reasonable to achieve the results they propose. The evaluation of this section will focus on budget-performance integration, including the extent to which the budget supports a cost-effective plan for providing direct educational services. The link between the allocation of resources in the budget and the project's strategy should be evident.

The largest proportion of project resources should be allocated to direct educational services and activities aimed at targeted children, rather than direct and indirect administrative costs. Higher ratings may be given to Applicants with low administrative costs and with a budget breakdown that provides a larger amount of resources to project activities. All projected costs should be reported, as they will become part of the Cooperative Agreement upon award. In their cost proposal (Part I of the application), Applicants must provide a breakdown of the total administrative costs into direct administrative costs and indirect administrative costs. The Grant Officer reserves the right to negotiate administrative cost levels prior to award.

In addition to calculating the number of direct beneficiaries that a project will serve per $100,000 of project funding, Applicants must also identify the cost per direct beneficiary for withdrawal or prevention from exploitive child labor based on the Applicant's package of direct educational services and other project interventions, as well as the monitoring of direct beneficiaries' work and educational status. In addition to providing the cost per direct beneficiary, Applicants must also provide an explanation of how such costs were calculated, and how they compare to the costs of similar services in the target country. When developing this calculation, Applicants should refer to the definitions of key terms presented in Appendix A.

This section of the application must explain the costs for performing all of the requirements presented in this solicitation and for producing all required reports and other deliverables (see section VI.4.). The project budget must therefore include funds to plan, implement, monitor, report on, and evaluate programs and activities (including mid-term and final evaluations and annual single audits or attestation engagements, as applicable); conduct studies pertinent to project implementation, including baseline studies; and finance travel by field staff and key personnel to meet annually with USDOL officials in Washington, DC or within the project's region (e.g., Africa, Asia/Pacific, Latin America, Caribbean, and Middle East and North Africa). Applicants based both within and outside the United States should budget for travel by field staff and other key personnel to Washington, DC at the beginning of the project for a post-award meeting with USDOL.

Applicants should set aside a total of at least USD 70,000 in the proposed budget to cover the costs of a mid-term and a final evaluation, including: (1) Labor costs, particularly those associated with hiring an independent external evaluator and other staff time; (2) costs associated with conducting a stakeholders' meeting, including meeting facilities, interpreters (if necessary) and travel costs of meeting participants; and (3) site visits including travel to and within the country (airfare, ground transportation, meals and lodging, interpreters (if necessary), etc.).

Applications are expected to allocate sufficient resources to proposed studies, assessments, surveys, and monitoring and evaluation activities, including costs associated with data collection. This includes but is not limited to costs associated with meeting the reporting requirements discussed in section V.1.A.iii., including collecting and reporting on the common indicators (the number of children withdrawn or prevented from exploitive child labor and provided education and/or training opportunities, countries with improved capacity to address child labor, direct beneficiaries' retention in and completion of an education and/or training program), data management, and assessing the impact of direct educational services and other project interventions on proposed direct beneficiaries and the impact of other project interventions on indirect beneficiaries.

In addition, the budget should include a contingency provision, calculated at five percent of the project's total direct costs. USDOL will not provide additional funding to cover unanticipated costs. USDOL has determined that the use of contingency provision funds for USDOL-funded projects is essential to address circumstances affecting specific budget lines that relate to one or more of the following: (1) Inflation affecting specific project costs; (2) UN System or foreign government-mandated salary scale or benefits revisions; and (3) exchange rate fluctuations. USDOL also recognizes that certain extraordinary and unforeseen circumstances may arise that will lead to a need for exceptions to the aforementioned uses of contingency provision funds, related to the need for modifications to budgets or time extensions. These include but are not limited to the following: (1) Changes in a country's security environment; (2) natural disasters, (3) civil or political unrest/upheavals or government transitions; or (4) delays related to loss of or damage to project property.

Applicants are also instructed that the project budget submitted with the application must include all necessary and sufficient funds, without reliance on other contracts, grants, or awards, to implement the Applicant's proposed project activities and to achieve proposed project goals and objectives under this solicitation. If anticipated funding from another contract, grant, or award fails to materialize, USDOL will not provide additional funding to cover these costs.

Additional factors that will be considered in evaluating the proposed project budget include:

• The reasonableness and realism of prices/costs suggested in the budget;

• The extent to which the proposed budget takes into account the type of work in which the proposed direct beneficiaries are currently engaged;

• Demonstration, to the extent possible, that the proposed cost-efficiencies are designed to withdraw or prevent as many children from exploitive child labor as possible through direct educational services that support their enrollment in educational activities.

Applicants are encouraged to discuss the possibility of exemption from customs and Value Added Tax (VAT) with host government officials during the preparation of an application for this Cooperative Agreement. While USDOL encourages host governments to not apply customs or VAT taxes to USDOL-funded programs, some host governments may nevertheless choose to assess such taxes. USDOL may not be able to provide assistance in this regard. Applicants should take into account such costs in budget preparation. If major costs are omitted, a Grantee may not be allowed to include them later.

Note to Applicants: After award, Grantees must obtain prior approval from USDOL before using unobligated contingency or evaluation funds. Twelve months before the project ends, after calculating the amounts needed for cost increases in the remaining life of the project, forecasted remaining funds in the contingency provision funds may be used to augment the number of beneficiaries or increase the provision of services to existing direct beneficiaries (under the age of 18). Increased services must be provided if they relate directly to retention in and completion of a direct educational service, to an improvement in academic performance, and/or the job placement of direct beneficiaries of legal employment age who are involved in vocational or skills training programs.

B. Sustainability Plan (15 Points)

USDOL considers the issue of sustainability to be of paramount importance and recognizes that questions of sustainability must be addressed at all stages, including Project Design, implementation, and evaluation. To USDOL, sustainability is linked to project impact and the ability of individuals, communities, and a nation to ensure that the activities or changes implemented by a project endure. A project's impact is manifested at the level of individuals, organizations, and systems. For individual children and their families, this would mean a positive and enduring change in their life conditions as a result of project interventions. At the level of organizations and systems, sustained impact would involve continued commitment and ability (including financial commitment and policy change) by project partners to continue the actions generated by the project, including enforcement of existing policies that target child labor and schooling. The issue of sustainability is extremely complex and challenging. It demands careful definition in each project, according to the objectives to be attained. Distinctions are expected to be made between different types of sustainability (e.g., institutional and financial) and it is recognized that these differences may affect the likelihood of sustaining project improvements (e.g., legislative and policy oriented projects, as well as those focusing on institutional strengthening, have a greater potential for achieving sustainability than other types of projects).

Applicants must discuss a proposed plan for sustainability of project efforts, taking into account the definition of Sustainability Plan provided in Appendix A. Applicants must also identify local organizations in the target country, including type (e.g., NGO, community-based, rural, indigenous), which could potentially implement or contribute to a future project. In addition to the above factors, Applicants will be rated based on the pertinence and appropriateness of the proposed Sustainability Plan. A sample Sustainability Plan/Matrix is available from USDOL-ILAB's Web site at http://www.dol.gov/ilab/grants/bkgrd.htm.

C. Organizational Capacity (25 Points)

Under this criterion, Applicants must present the qualifications of the organization(s) implementing the project. The evaluation criteria in this category are as follows:

i. International and U.S. Government Grant Experience

Applicants must have international experience implementing basic, transitional, non-formal, or vocational education programs that aim to withdraw or prevent children from exploitive labor and address issues of educational access, quality, and policy reform for vulnerable children, preferably in the country of interest.

The application must include information on the Applicant's previous and current grants, Cooperative Agreements, or contracts with USDOL and other Federal agencies that are relevant to this solicitation, including:

1. The organizations for which the work was done;

2. A contact person in that organization with his/her current phone number;

3. The dollar value of the grant, contract, or Cooperative Agreement for the project;

4. The time frame and professional effort involved in the project;

5. A brief summary of the work performed; and

6. A brief summary of accomplishments.

This information on previous grants, Cooperative Agreements, and contracts held by the Applicant must be provided in appendices and will not count against the maximum page requirement. USDOL reserves the right to contact the organizations listed and use the information provided in evaluating applications.

Note to All Applicants: In judging organizational capacity, USDOL will take into account not only information provided by an Applicant, but also information from USDOL and others regarding past performance of organizations implementing USDOL-funded child labor and EI projects, or activities for USDOL and others. Past performance will be rated by such factors as the timeliness of deliverables and the responsiveness of the organization and its staff to USDOL or grantor communications regarding deliverables and Cooperative Agreement or contractual requirements. In addition, the performance of the organization's key personnel on existing projects with USDOL or other entities, whether the organization has a history of replacing key personnel with similarly qualified staff, and the timeliness of replacing key personnel, will also be taken into consideration when rating past performance. Lack of past experience with USDOL projects, Cooperative Agreements, grants, or contracts is not a bar to eligibility or selection under this solicitation.

ii. Country Presence and Host Government Support

Given the need to provide children engaged in exploitive labor, particularly the worst forms of child labor, with immediate assistance in accessing educational and training opportunities, Applicants will be evaluated on their ability to start up project activities soon after signing a Cooperative Agreement. Having country presence, or partnering with in-country organizations, represents the best chance of expediting the delivery of services to children engaged in, or at-risk of entering, exploitive child labor. In their application, Applicants must address their organization's country presence; ability to work directly with government and NGOs, including local and community-based organizations; and ability to start up project activities in a timely fashion. Applicants may submit supporting documentation with their application demonstrating country presence and/or outreach to host government ministries and nongovernmental organizations in the country. These attachments will not count toward the page limit.

Within 60 days of award, a Grantee, either independently or through a relationship with another organization(s) with country presence (i.e., an Association member or subcontractor), must be formally recognized by the host government(s) using the appropriate mechanism, i.e., Memorandum of Understanding or local registration of the organization.

iii. Fiscal Oversight

Applicants will be evaluated on their ability to provide evidence that the organization has a sound financial system in place. If the Applicant is a U.S.-based, non-profit organization already subject to the single audit requirements, the Applicant's most recent single audit, as submitted to the Federal Audit Clearinghouse, must accompany the application as an attachment. In addition, applications must show that the Applicant has complied with report submission timeframes established in OMB Circular A-133. If an Applicant is not in compliance with the requirements for completing their single audit, the application will be considered unresponsive and will be rejected. If the Applicant is a for-profit or foreign-based organization, a copy of its most current independent financial audit must accompany the application as an attachment.

Applicants should also submit a copy of the most recent single audit report for all proposed U.S.-based, non-profit partners, Associates and subcontractors that are subject to the Single Audit Act. If the proposed Associate(s) or partner(s) is a for-profit or foreign-based organization, a copy of its most current independent financial audit should accompany the application as an attachment.

If the audit submitted by the Applicant reflects any adverse opinions, the application will not be further considered by the technical review panel and will be rejected. USDOL reserves the right to ask further questions on any audit report submitted as part of an application. USDOL also reserves the right to place special conditions on Grantees if concerns are raised in their audit reports.

In order to expedite the screening of applications and to ensure that the appropriate audits are attached to the proposals, Applicants must provide a cover sheet to the audit attachments listing all proposed Associates and subcontractors. These attachments will not count toward the application page limit.

D. Key Personnel/Management Plan/Staffing (20 Points)

Successful performance of the proposed work depends heavily on the management skills and qualifications of the individuals committed to the project. Accordingly, in its evaluation of each application, USDOL will place emphasis on the Applicant's management approach and commitment of personnel qualified for the work involved in accomplishing the assigned tasks. This section of the application must include sufficient information to judge management and staffing plans, and the experience and competence of program staff proposed for the project to ensure that they meet the required qualifications.

Management and professional technical staff members comprising the Applicant's proposed team should be individuals who have prior experience with organizations working in similar efforts, and who are fully qualified to perform the work specified in the Scope of Work. Where Associations, subcontractors or outside assistance are proposed, organizational lines of authority and responsibility should be clearly delineated to ensure effective implementation and responsiveness to the needs of USDOL.

In order to promote and increase national and local capacity, USDOL encourages the hiring of qualified national experts. USDOL also encourages Applicants to consider staffing strategies that aim to develop capacity of national staff over the course of the project as part of a contribution to the development of national capacity for combating exploitive child labor. Preference may be given to Applicants who propose such strategies which are determined to be effective.

i. Key Personnel

Applicants must identify all key personnel candidates proposed to carry out the requirements of this solicitation. “Key personnel” are staff (Project Director, Education Specialist, and Monitoring and Evaluation Officer) that are essential to the successful operation of the project and completion of the proposed work.

(1) The Project Director will be responsible for overall project management, supervision, administration, and implementation of the requirements of the Cooperative Agreement. The Project Director will establish and maintain systems for project operations; ensure that all Cooperative Agreement deadlines are met and targets are achieved; maintain working relationships with project stakeholders and partners; and oversee the preparation and submission of progress and financial reports. The Project Director must have a minimum of three years of professional experience in a leadership role in implementation of child labor and complex basic education projects in developing countries in areas such as: education policy; improving educational quality and access; educational assessment of disadvantaged students; development of community participation in the improvement of basic education for disadvantaged children; and monitoring and evaluation of basic education projects. Additional consideration will be given to candidates with additional years of experience including experience working with officials of ministries of labor and/or education. Preferred candidates must also have knowledge of exploitive child labor issues, and experience in the development of transitional, formal, and vocational education programs for children removed from exploitive child labor. Fluency in English is required and working knowledge of at least one of the official languages of the target country is strongly suggested.

(2) The Education Specialist will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with exploitive child labor/education policy and monitoring and evaluation is an asset. A working knowledge of English is preferred, as is a similar knowledge of the official language(s) spoken in the target country.

(3) The Monitoring and Evaluation Officer who will oversee the implementation of the project's monitoring and evaluation strategies and requirements. This person should have at least three years progressively responsible experience in the monitoring and evaluation of international development projects, preferably in education and training or a related field. Related experience can include strategic planning and performance measurement, indicator selection, quantitative and qualitative data collection and analysis methodologies, database management, and knowledge of the GPRA. Individuals with a demonstrated ability to build capacity of the project team and partners in these domains will be given special consideration.

The application must include a résumé, as well as a description of the roles and responsibilities of all key and other professional personnel (as described below) being proposed by the Applicant. At a minimum, each résumé must include the following:

• The educational background and previous work experience for each key and other professional personnel to be assigned to the project, including position title, duties, dates, employing organizations, and clearly defined duties;

• The special capabilities of key personnel that demonstrate prior experience in organizing, managing and performing similar efforts; and

• The current employment status of key personnel and availability for this project.

Applicants must also indicate whether the proposed work will be performed by persons currently employed by the applying organization(s), and if so, for how long, or is dependent upon planned recruitment or subcontracting.

Applicants must also include a completed salary history form SF 1420 for each key personnel candidate in their application. This form is available from the U.S. Agency for International Development's Web site at: http://www.usaid.gov/forms/AID1420-17.doc. A link to this form is also available on USDOL's Web site: http://www.dol.gov/ilab/grants/bkgrd.htm.

All key personnel must allocate 100 percent of their time to the project and live in the target country. Key personnel positions must not be combined. Proposed key personnel candidates must sign letters of agreement to serve on the project and indicate their availability to commence work within 30 calendar days of the Cooperative Agreement award. In addition, if either the Education Specialist or Monitoring and Evaluation Officer are not fluent in English, the project must assume responsibility for ensuring that key personnel have a clear understanding of USDOL policies and procedures and that all documents produced by key staff for submission to USDOL are in fluent English.

Please Note: If key personnel candidates are not designated, or if letters of agreement to serve on the project or résumés are not submitted as part of the application for each key personnel candidate, the application will be considered unresponsive and will be rejected.

The letters of agreement, résumés, and salary history forms (SF 1420) must be submitted as attachments to the application and will not count toward the page limit.

Key personnel must be employed by the Grantee, not a subcontractor. In the case of an Association, the project director must be employed by the Lead Grantee. In cases of Associations where Applicants propose that key personnel would not all be employed by the Lead Grantee, a clear indication of the following must be provided in the application: the rationale for dividing key personnel among the Association members, lines of authority among key personnel and other staff, the process of supervision and evaluation of personnel who are not members of the same organization, the process by which all parties would come to agreement on key implementation issues, and mechanisms of conflict resolution should the need arise

ii. Other Professional Personnel

Applicants must identify other program personnel deemed necessary for carrying out the requirements of this solicitation. Applicants must also indicate whether the proposed work by other professional personnel will be performed by persons currently employed by the organization(s) or is dependent upon planned recruitment or subcontracting.

iii. Management Plan

Applicants will be rated based on the clarity and quality of the information provided in the management plan. The plan must include: (a) A description of the functional relationship between elements of the project's management structure; and (b) the responsibilities of project staff and management and the lines of authority between project staff and other elements of the project.

iv. Staff Loading Plan

The staff loading plan must identify all key tasks and the person-days required to complete each task. Labor estimated for each task must be broken down by individuals assigned to the task, including Association member staff, subcontractors, and consultants. All key tasks should be charted to show the time required to perform them by months or weeks.

E. Additional Direct Beneficiaries (5 Extra Points)

As noted above, Applicants are required to serve a minimum of 172 direct beneficiaries for each $100,000 of project funding, in line with the specific cost-efficiency measures USDOL-OCFT has established with OMB.

Applicants may receive up to 5 additional rating points by proposing to effectively serve more than 200 direct beneficiaries per $100,000 of project funding. Please note that the proposed strategy must reflect appropriate services and monitoring mechanisms to ensure children are withdrawn from, or prevented from entering, exploitive child labor and are benefiting from a direct educational service provided by the project.

F. Cost Sharing (5 Extra Points)

USDOL will give up to five (5) additional rating points to applications that include committed non-U.S. Federal Government resources that significantly expand the dollar amount, size and scope of the project. In awarding points, USDOL will determine whether the Applicant's proposal to share costs or provide matching funds is allowable and realistic within the context of proposed strategy. These programs or activities must complement and enhance project objectives. To be eligible for the additional points, Applicants must list the source(s) of funds, the nature, and possible activities anticipated with these resources under this Cooperative Agreement. For additional information on requirements associated with this rating criteria, see section III.3.

1. Review and Selection Process

The Office of Procurement Services at USDOL will screen all applications to determine whether all required elements, as identified in section IV.2. above, are present and clearly identifiable. If an application does not include all of the required elements, including required attachments, it will be considered unresponsive and will be rejected. Once an application is deemed unresponsive, the Office of Procurement Services will send a letter to the Applicant, which will state that the application was incomplete, indicate which document was missing from the application, and explain that the technical review panel will be unable to rate the application.

The following documents must be included in the application package in order for the application to be deemed complete and responsive:

1. A cost proposal;

2. A technical proposal, including the Logical Framework and Work Plan;

3. The Applicant's most recent audit report, and those of any proposed Associates or subcontractors (as applicable);

4. Résumés of all key personnel and other professional personnel;

5. Signed letters of agreement to serve on the project from all key personnel candidates;

6. Information on the Applicant's previous and current grants, Cooperative Agreements, or contracts with USDOL and other Federal agencies that are relevant to this solicitation; and

7. Signed Association agreement(s), if applicable.

Each complete and responsive application will be objectively rated by a technical review panel against the criteria described in this solicitation. Applicants are advised that panel recommendations to the Grant Officer are advisory in nature. The Grant Officer may elect to select a Grantee on the basis of the initial application submission or the Grant Officer may establish a competitive or technically acceptable range from which qualified Applicants will be selected. If deemed appropriate, the Grant Officer may call for the preparation and receipt of final revisions of applications, following which the evaluation process described above may be repeated, in whole or in part, to consider such revisions. The Grant Officer will make final selection determinations based on panel findings and consideration of factors that represent the greatest advantage to the government, such as cost, the availability of funds, and other factors. If USDOL does not receive technically acceptable applications in response to this solicitation, USDOL reserves the right to terminate the competition and not make any award. The Grant Officer's determinations for awards under this solicitation are final.

Note to All Applicants: Selection of an organization as a potential Cooperative Agreement recipient does not constitute approval of the Cooperative Agreement application as submitted. Before the actual Cooperative Agreement is awarded, USDOL may enter into negotiations about such items as program components, funding levels, and administrative systems in place to support Cooperative Agreement implementation. If the negotiations do not result in an acceptable submission, the Grant Officer reserves the right to terminate the negotiation and decline to fund the application. In addition, USDOL reserves the right to negotiate program components further after award, during the project design consolidation phase and Project Document submission and review process. See section VI.4.A.

Award of a Cooperative Agreement under this solicitation may also be contingent upon an exchange of project support letters between USDOL and the relevant ministries in the target country.

2. Anticipated Announcement and Award Dates

Designation decisions will be made, where possible, within 45 days after the deadline for submission of proposals. USDOL is not obligated to make any awards as a result of this solicitation, and only the Grant Officer can bind USDOL to the provision of funds under this solicitation. Unless specifically provided in the Cooperative Agreement, USDOL's acceptance of a proposal and/or award of Federal funds does not waive any Cooperative Agreement requirements and/or procedures.

VI. Award Administration Information

1. Award Notices

The Grant Officer will notify Applicants of designation results as follows:

Designation Letter: The designation letter signed by the Grant Officer will serve as official notice of an organization's designation. The designation letter will be accompanied by a Cooperative Agreement and USDOL-OCFT's 2007 Management Procedures and Guidelines (MPG).

Non-Designation Letter: Any organization not designated will be notified formally of the non-designation. However, organizations not designated must formally request a debriefing in order to be provided with the basic reasons for the determination.

Notification of designation by a person or entity other than the Grant Officer is not valid.

2. Roles and Responsibilities of USDOL and Grantees

After award, USDOL's involvement in a project focuses on working with the Grantee in order to refine the Project Design/Project Document and its corresponding budget; to identify project performance indicators and develop a Performance Monitoring Plan (PMP); to monitor implementation through technical and financial progress reports; and to oversee the process of mid-term and final project evaluations. USDOL involvement is generally characterized by written comments and oral feedback tied to the approval of deliverables outlined in the Cooperative Agreement. USDOL staff may also conduct field visits to the project.

Applicable provisions, including those provided for in the USDOL Cooperative Agreement with the Grantee, apply to subcontracts entered into under USDOL-funded projects.

3. Administrative and National Policy Requirements

A. General

Grantees are subject to applicable U.S. Federal laws (including provisions of appropriations laws) and regulations, Executive Orders, applicable OMB Circulars, and USDOL policies. If during project implementation a Grantee is found in violation of U.S. Government laws and regulations, the terms of the Cooperative Agreement awarded under this solicitation may be modified by USDOL; costs may be disallowed and recovered; the Cooperative Agreement may be terminated; and USDOL may take other action permitted by law. Determinations of allowable costs will be made in accordance with the applicable U.S. Federal cost principles.

B. Project Audits and External Auditing Arrangements

Applicants are reminded to budget for compliance with annual single audits or attestation engagements as applicable (see below). Costs for these audits or attestation engagements must be included in direct or indirect costs, whichever is appropriate, in accordance with the cost allocation procedures approved by the U.S. Federal cognizant agency. Please note the following requirements:

i. U.S.-based non-profit Grantees whose total annual expenditure of Federal awards is more than $300,000 (more than $500,000 for fiscal years ending after December 31, 2003) must have an organization-wide audit conducted in accordance with 29 CFR parts 96 and 99, which codify the requirements of the Single Audit Act and OMB Circular A-133, and must comply with the timeframes established in those regulations for the submission of their audits to the Federal Audit Clearinghouse. Grantees must send a copy of their single audit to their assigned USDOL Grant Officer's Technical Representative (GOTR) at the time it is submitted to the Federal Audit Clearinghouse.

Please Note: USDOL generally allows the costs to be allocated based on the following (applicable to U.S.-based agencies only): (1) A-133 “single audit” costs as part of the indirect cost rate/pool for organizations with more than one Federal source of funding. Organizations with only one Federal source could charge the A-133 single audit cost as direct costs; (2) A-133 “compliance supplement” costs—as direct costs for Federal sources only through a cost allocation methodology approved by the Federal cognizant agency; or (3) A-133 program specific audits as direct costs. Any deviations from the above must be explained and justified in the application.

ii. Foreign-based Grantees and private for-profit Grantees that are awarded a Cooperative Agreement under this solicitation must arrange for the annual performance of an attestation engagement, conducted in accordance with U.S. Government Auditing Standards, which includes auditor's opinions on (1) compliance with USDOL regulations and the provisions of the Cooperative Agreement, and (2) the reliability of the Grantee's financial and performance reports. USDOL will provide an examination guide to be used by the auditor selected by the Grantee to perform the attestation engagement and will provide assistance in the event a Grantee is unable to identify an audit firm qualified to perform an attestation engagement in accordance with U.S. Government Auditing Standards. The Grantee's contract with the auditor to conduct the attestation engagement must include provisions granting access to the auditor's documentation (work papers) to representatives of USDOL, including the Grant Officer, the GOTR, and USDOL's Office of the Inspector General. The reports for these engagements are to be submitted to the Grant Officer with a copy to the GOTR: (1) 30 days after receipt of the auditor's report, or (2) nine months after the end of the Grantee's fiscal year, whichever occurs sooner. Please note that the attestation engagement should be allocated as a direct cost to the project.

In accordance with 29 CFR parts 96 and 99, USDOL has also contracted with an independent external auditor to conduct project-specific attestation engagements at USDOL's expense to supplement the coverage provided by the audits/engagements that Grantees must arrange. Grantees scheduled for examination by USDOL's contractor shall be notified approximately two to four weeks prior to the start of the engagement.

C. Administrative Standards and Provisions

Cooperative Agreements awarded under this solicitation are subject to the following administrative standards and provisions outlined in the CFR that pertain to USDOL, and any other applicable standards that come into effect during the term of the Cooperative Agreement, if applicable to a particular Grantee:

i. 29 CFR Part 2 Subpart D—Equal Treatment in Department of Labor Programs for Religious Organizations; Protection of Religious Liberty of Department of Labor Social Service Providers and Beneficiaries.

ii. 29 CFR Part 31—Nondiscrimination in Federally Assisted Programs of the Department of Labor—Effectuation of Title VI of the Civil Rights Act of 1964.

iii. 29 CFR Part 32—Nondiscrimination on the Basis of Handicap in Programs and Activities Receiving or Benefiting from Federal Financial Assistance.

iv. 29 CFR Part 33—Enforcement of Nondiscrimination on the Basis of Handicap in Programs or Activities Conducted by the Department of Labor.

v. 29 CFR Part 35—Nondiscrimination on the Basis of Age in Programs or Activities Receiving Federal Financial Assistance from the Department of Labor.

vi. 29 CFR Part 36—Federal Standards for Nondiscrimination on the Basis of Sex in Education Programs or Activities Receiving Federal Financial Assistance.

vii. 29 CFR Part 93—New Restrictions on Lobbying.

viii. 29 CFR Part 95—Uniform Administrative Requirements for Grants and Agreements with Institutions of Higher Education, Hospitals and Other Non-Profit Organizations, and with Commercial Organizations, Foreign Governments, Organizations Under the Jurisdiction of Foreign Governments and International Organizations.

ix. 29 CFR Part 96—Federal Standards for Audit of Federally Funded Grants, Contracts and Agreements.

x. 29 CFR Part 98—Federal Standards for Government-wide Debarment and Suspension (Nonprocurement) and Government-wide Requirements for Drug-Free Workplace (Grants).

xi. 29 CFR Part 99—Federal Standards for Audits of States, Local Governments, and Non-Profit Organizations.

Copies of all regulations referenced in this solicitation are available at no cost, online, at http://www.dol.gov. A copy of Title 29 of the CFR referenced in this solicitation is available at no cost, online, at http://www.dol.gov/dol/allcfr/Title_29/toc.htm.

Grantees should be aware that terms outlined in this solicitation, the Cooperative Agreement, and the MPGs are all applicable to the implementation of projects awarded under this solicitation.

D. Key Personnel

As noted in section V.1.D., Applicants must list all Key Personnel candidates. The Grantee must inform the GOTR in the event that key personnel cannot continue to work on the project as planned. The Grantee is expected to nominate, through the submission of a formal project revision, new personnel. (Further information on project revisions will be provided to Grantees after award). However, the Grantee must obtain approval from the Grant Officer before any change to key personnel is formalized. If the Grant Officer is unable to approve the personnel change, s/he reserves the right to terminate the Cooperative Agreement or disallow costs.

E. Encumbrance of Cooperative Agreement Funds

Cooperative Agreement funds may not be encumbered/obligated by a Grantee before or after the period of performance. Encumbrances/obligations outstanding as of the end of the Cooperative Agreement period may be liquidated (paid out) after the end of the Cooperative Agreement period. Such encumbrances/obligations may involve only specified commitments for which a need existed during the Cooperative Agreement period and that are supported by approved contracts, purchase orders, requisitions, invoices, bills, or other evidence of liability consistent with a Grantee's purchasing procedures and incurred within the Cooperative Agreement period. All encumbrances/obligations incurred during the Cooperative Agreement period must be liquidated within 90 calendar days after the end of the Cooperative Agreement period, unless a longer period of time is granted by USDOL.

Federal Regulations require Grantees to submit annually an inventory listing of federally-owned property in their custody to USDOL. See 29 CFR 95.33(a). Such property must be inventoried and secured throughout the life of the project. At the end of the project, USDOL and the Grantee are expected to determine how to best allocate such, and other, property in order to promote sustainability of efforts in the project's implementing areas.

F. Site Visits

USDOL, through its authorized representatives, has the right, at all reasonable times, to make site visits to review project accomplishments and management control systems and to provide such technical assistance as may be required. USDOL intends to make every effort to notify the Grantee at least two weeks in advance of any trip to the USDOL-funded project site. If USDOL makes any site visit on the premises of a Grantee or a subcontractor(s) under the Cooperative Agreement, the Grantee must provide, and must require its subcontractors to provide, all reasonable facilities and assistance for the safety and convenience of government representatives in the performance of their duties. All site visits and evaluations are expected to be performed in a manner designed to not unduly delay the implementation of the project.

4. Reporting and Deliverables

In addition to meeting the above requirements, a Grantee is expected to monitor the implementation of the program; report to USDOL on a semi-annual basis or more frequently if deemed necessary by USDOL; and undergo independent evaluations of program results. Guidance on USDOL procedures and management requirements will be provided to Grantees in the MPGs with the Cooperative Agreement. Unless otherwise indicated, a Grantee must submit copies of all required reports to USDOL by the specified due dates. Exact timeframes for completion of deliverables will be addressed in the Cooperative Agreement and the MPGs.

Specific deliverables include the following:

A. Project Document

Within 90 calendar days of project award, the Grantee must deliver an initial draft of the Project Document, based on the application submitted in response to this solicitation and including the results of additional consultations with project stakeholders, government officials in the target country(ies), local partners, and USDOL. Within 180 calendar days of project award, the Grantee must deliver the final Project Document, which must include dates for the mid-term and final evaluations, the Logical Framework (logframe), initial Sustainability Plan; and Work Plan. In addition, Applicants proposing to issue government subcontracts must submit a table of all proposed government subcontracts that includes activities to be carried out and a justification for why the government is the most suitable party to carry out the proposed activities.

B. Baseline Data Collection

Within 180 calendar days of award, and prior to the finalization of the Project Document, USDOL expects Grantees to conduct baseline data collection. Baseline data and information measures the existing conditions of target areas or sectors and provides information on the characteristics of the target population, including their living and working conditions. The data should be used to: (1) Develop reliable project targets and identify project beneficiaries and (2) inform project design and formulate activities including the identification of relevant services to children and possible stakeholders. When designed with additional periodic data collection exercises, baseline data can be used to establish benchmarks and contribute to the measurement of project impact. Information can then be used to inform management decisions throughout the project cycle.

C. Technical Progress and Financial Reports

The format for the technical progress reports will be provided in the MPG distributed to Grantees after the award. Grantees must submit a typed technical progress report to USDOL on a semi-annual basis by 31 March and 30 September of each year during the Cooperative Agreement period. However, USDOL reserves the right to require up to four technical progress reports a year, as necessary. Grantees must also submit a quarterly financial report (SF 269) electronically to USDOL through the E-Grants system, and a Federal Cash Transactions Report (PSC 272) to the HHS-PMS.

D. Work Plans

Within 90 calendar days of award, the Grantee must deliver an initial draft of the Work Plan, for the life of the project. Grantees must develop a final Work Plan within 180 calendar days of project award for approval by USDOL so as to ensure coordination with other relevant social actors throughout the country. The final Work Plan must include dates for the mid-term and final evaluations. An annual Work Plan that updates the initial Work Plan must be submitted to USDOL annually with the September technical progress report.

E. Performance Monitoring Plan

Within 180 calendar days of award, the Grantee must submit a draft PMP to USDOL. The PMP must be developed in conjunction with the Logical Framework project design and common indicators for reporting selected by USDOL. The plan must include a limited number of additional key indicators that can be realistically measured within the cost parameters allocated to project monitoring. Baseline data collection (as referenced in section VI.4.B. is expected to be tied to the indicators of the Project Document and the PMP. The final PMP must be submitted after completion of baseline data collection but no later than one year after award. (See background materials available on OCFT's Web site http://www.dol.gov/ilab/grants/bkgrd.htm for a sample PMP.)

F. Project Evaluations

As specified in the Cooperative Agreement, mid-term and final evaluations must take place for the project. The Grantee must include a line item in the budget for funding these evaluations. Mid-term and final evaluations are generally conducted by an independent contractor. When developing Evaluation Plans, Grantees are expected to tentatively schedule mid-term evaluations to correspond with the approximate mid-point of the project. The date of the final evaluation is expected to be tentatively set for approximately two months prior to the project completion date.

VII. Agency Contacts

All inquiries regarding this solicitation should be directed to: Ms. Lisa Harvey, U.S. Department of Labor, Procurement Services Center, 200 Constitution Avenue, NW., Room S-4307, Washington, DC 20210; telephone (202) 693-4570 (please note that this is not a toll-free-number) or e-mail: harvey.lisa@dol.gov. For a list of frequently asked questions on USDOL's Solicitation for Cooperative Agreements, please visit http://www.dol.gov/ILAB/faq/faq36.htm.

VIII. Other Information

1. Coordination With the ILO/IPEC, Other USDOL Grantees, and Other U.S. Government-Funded Projects

Recognizing the important work of ILO/IPEC in reducing exploitive child labor worldwide, and USDOL's substantial funding and support for this organization, Grantees are encouraged to establish good relationships with ILO and IPEC-specific field offices and other U.S. Government-funded projects such as those supported by U.S. Embassies, the U.S. Department of State's Global Trafficking in Persons (GTIP) Office, and the U.S. Agency for International Development (USAID) in the country (ies) where they work. Similarly, USDOL intends to inform Grantees of other organizations that are working on related issues in countries with USDOL-funded projects. Establishing a productive working relationship with these organizations is especially important to avoid duplication of efforts and to build synergies between organizations working in the same issue area. Grantees must also become familiar with standard concepts and definitions regarding child labor that are currently used by the ILO, including Convention 138 and Convention 182 and their accompanying recommendations.

2. Privacy and Freedom of Information Act

Any information submitted in response to this solicitation will be subject to the provisions of the Privacy Act and the Freedom of Information Act, as appropriate.

Signed at Washington, DC, this 11th day of June, 2007.
Lisa Harvey,
Grant Officer.

Appendix A: USDOL's Definitions of Key Terms

Acceptable Work: Work that is performed by children of legal working age, in accordance with national legislation and international standards, namely the International Labor Organization (ILO) Conventions 138 and 182; work that is non-exploitive and non-hazardous and does not prevent a child from receiving the full benefit of an education. Acceptable work would generally include, for example, light work that is compatible with national minimum age legislation and education laws.

Association: An Association is a partnership of more than one organization that becomes a Grantee of USDOL. An Association is comprised of two or more organizations that do not constitute a single legal entity but join in applying for an award under this solicitation. Each member of the Association must be individually eligible for the award, and must sign, and agree to be bound jointly and severally by the Cooperative Agreement. The Association must designate one Associate as the Lead Grantee. Specific obligations of the Lead Grantee are included in the Cooperative Agreement. All references in this solicitation to “Applicant(s)” and “Grantee(s)” apply to Associations as well as individual Applicants.

At-risk: An at-risk situation refers to a set of conditions or circumstances (family environment or situation, proximity to economic activities prone to employ children, etc.) under which a child lives or to which it is exposed which make it more likely that the child will be in employed in exploitive child labor. A project-specific definition of “at-risk,” clearly articulating the defining characteristics of the proposed direct beneficiaries, must be provided with the application, though this definition may be refined after award in the Project Document as a result of baseline data collection. For example, siblings of children formerly engaged in exploitive labor could be considered “at-risk.”

Basic Education: This comprises both formal schooling (primary and sometimes lower secondary) as well as a wide array of non-formal and informal public and private educational activities offered to meet the defined basic learning needs of groups of people of all ages. (Source: UNESCO, Education for All: Year 2000 Assessment: Glossary [CD-ROM], Paris, 2001.

Child: For the purposes of this solicitation, a child is considered to be an individual under the age of 18 years. This category includes older children, “youth,” under the age of 18 years.

Child Labor (see definition of Exploitive Child Labor).

Child Labor Monitoring System (CLMS): CLMS involves the identification, referral, protection and prevention of exploitive child labor through the development of a coordinated multi-sector monitoring and referral process that aims to cover all children living in a given geographical area, not just those that are direct beneficiaries of a project. The principle activities of a CLMS include regularly repeated direct observations to identify child laborers and to determine risks to which they are exposed, referral of these children to services, verification that they have been removed and tracking them afterwards to ensure that they have satisfactory alternatives.

Children Prevented from Entering Exploitive Labor (a common indicator): This comprises part of one of USDOL-OCFT's GPRA Indicators and refers to children not yet engaged in exploitive child labor but who are considered to be at-risk of entering such labor, for example, siblings of former working children. In order to be considered as “prevented,” these children must also have benefited or be benefiting from a direct educational service provided by the project. USDOL considers children prevented from entering exploitive labor and children withdrawn from exploitive labor to be mutually exclusive categories. (For more information on GPRA, see section I.1. Background: USDOL Support for the Global Elimination of Exploitive Child Labor).

Children Withdrawn From Exploitive Labor (a common indicator): This comprises part of one of USDOL-OCFT's GPRA Indicators and refers to those children who were found to be working in exploitive child labor and no longer work under such conditions as a result of a direct project intervention. This category includes:

(a) Children who have been completely withdrawn from work, which is required by ILO Convention 182 for forms (a)-(c) of Article 3, and

(b) Children who were involved in hazardous work (Article 3(d) of C.182) or work that impedes a child's education (ILO Convention 138) but are no longer due to improved working conditions (i.e., fewer hours or safer workplaces) or because they have moved into a new, acceptable form of work (i.e. acceptable work).

To be considered as withdrawn from exploitive child labor, each child must also have benefited or be benefiting from a direct educational service provided by the project. USDOL considers children withdrawn from exploitive labor and children prevented from entering exploitive labor to be mutually exclusive categories.

Completion (a common indicator): The percentage of children withdrawn/prevented through a USDOL-supported educational or training program who complete the program(s).

Cooperative Agreement: A Cooperative Agreement is a form of a grant where substantial involvement is anticipated between the donor (USDOL) and the Grantee during the performance of the proposed activities. The level of monitoring and accountability required by USDOL under a Cooperative Agreement is less than what is required in a contract, but more than in a regular grant.

Direct Beneficiaries: Children and youth who, as a result of a USDOL-funded project, are (a) withdrawn from, or prevented from entering, exploitive child labor AND (b) are provided with a direct educational service that results in their enrollment in at least one of the four categories of educational activities listed below under the definition of direct educational service.

Direct Beneficiary Monitoring (see Project Monitoring System).

Direct Educational Service(s): Direct Educational Services may involve either:

(a) The provision of at least one of the following educational activities:

(1) Non-formal or basic literacy education—This type of educational activity may include transitional, levelling, or literacy classes so that a child may either be mainstreamed into formal education and/or can participate in vocational training activities;

(2) Vocational, pre-vocational, or skills training—This type of training is designed to develop a particular, marketable skill (e.g., mechanics, sewing); or

(b) The provision of goods and/or services (if lack thereof is a barrier to education) that meets the specific needs of the proposed direct beneficiaries and results in their enrollment or in at least one of the four categories of educational activities listed below. Examples of goods and/or services that may meet the specific gaps/educational needs of targeted children include tutoring, school meals, uniforms, school supplies and materials, books, tuition and transportation vouchers, or other types of incentives. The four categories of educational activities that qualify are:

(1) Non-formal or basic literacy education;

(2) Vocational, pre-vocational, or skills training;

(3) Formal education—This is defined as the formal school system within the target country; or

(4) Mainstreaming—This type of educational activity involves a project transitioning children from non-formal education into the formal education system. Generally, mainstreaming involves the provision of goods and/or services that may assist in placement testing and enable a child to attend and stay in school.

Exploitive Child Labor: This term refers to the worst forms of child labor outlined in ILO Convention 182, including work which, by its nature or the circumstances in which it is carried out, is likely to harm the health, safety, or morals of children; all other types of work by children in violation of national labor laws and international standards, such as ILO Conventions 138 and 182; and work that prevents a child from obtaining an education or impede a child's ability to learn as outlined in ILO Convention 138. (See ILAB's Web site at http://www.dol.gov/ilab/grants/bkgrd.htm for a visual presentation of the categories of exploitive child labor).

ILO Convention 182, Article 3, defines the worst forms of child labor as comprised of:

(a) All forms of slavery or practices similar to slavery, such as the sale and trafficking of children, debt bondage and serfdom and forced or compulsory labor, including forced or compulsory recruitment of children for use in armed conflict;

(b) The use, procuring or offering of a child for prostitution, the production of pornography or for pornographic performances;

(c) The use, procuring or offering of a child for illicit activities, in particular for the production and trafficking of drugs as defined in the relevant international treaties;

(d) Work which, by its nature or the circumstances in which it is carried out, is likely to harm the health, safety or morals of children.

ILO Convention 138, Minimum Age Convention, Article 7.1(b) is also used to identify exploitive child labor. Article 7.1(b) states that children within a particular age range shall not participate in work that will “prejudice their attendance at school, their participation in vocational orientation or training programmes approved by the competent authority or their capacity to benefit from the instruction received.”

Exploitive Labor: (see definition of Exploitive Child Labor).

Hazardous Work: This term refers to work that falls under Article 3(d) of ILO Convention 182. ILO Recommendation 190, which accompanies ILO Convention 182 on the Worst Forms of Child Labor, gives additional guidance on identifying hazardous work. Applicants are encouraged to consult Recommendation 190. ILO Recommendation 190 states in Section II. Hazardous work, paragraph 3, “In determining the types of work referred to under Article 3(d) of the Convention [ILO Convention 182], and in identifying where they exist, consideration should be given” to:

(a) Work which exposes children to physical, psychological or sexual abuse;

(b) Work underground, under water, at dangerous heights or in confined spaces;

(c) Work with dangerous machinery, equipment and tools, or which involves the manual handling or transport of heavy loads;

(d) Work in an unhealthy environment which may, for example, expose children to hazardous substances, agents or processes, or to temperatures, noise levels, or vibrations damaging to their health;

(e) Work under particularly difficult conditions such as work for long hours or during the night or work where the child is unreasonably confined to the premises of the employer.

In some cases, the work conditions of children involved in hazardous work may be improved so as to make the work conditions acceptable for children. This may include, for example, reducing hours of work or changing the type of work children perform (i.e., disallowing children in agriculture from working with heavy machinery or pesticide applications). However, conditions can only be improved for children who are legal to work according to the specific laws of the target country(ies). If, for example, a child is 9 years old and working in hazardous work in a country whose minimum age is 15 years, this child should be completely withdrawn from child labor since conditions cannot be improved to make it legally acceptable for the child to work.

Indirect Beneficiaries: Individuals who do not receive a direct educational service provided by the project but who benefit as a result of a project activity, such as awareness raising efforts, support for policy change, or institutional capacity building. These individuals do not qualify as direct beneficiaries.

Improved Country Capacity To Address Child Labor (a common indicator): This is one of USDOL-OCFT's GPRA Indicators (see section I.1. for more information on GPRA) and can be demonstrated if one or more actions listed below took place in the target country(ies) under one of the following four fields:

1. The adaptation of the legal framework to international standards.

• List of hazardous work activities for children approved or revised after tripartite consultation (among government, employer, and employee representatives) and officially adopted (e.g. through law, presidential decree, etc.);

• Adaptation of labor code or education laws to include or modify child labor-related issues;

• Adaptation of criminal code to include or modify child labor-related issues;

• Adaptation of existing legislation concerning child labor or education to put it in line with Conventions 138 or 182; or

• Approval of new legislation concerning specific forms of child labor.

2. The formulation of specific policies and programs at the national, regional, or sectoral level within a country dealing with exploitive child labor.

Progress in this field can be demonstrated by the development of a policy, plan or program document on the worst forms of child labor, a specific worst form of child labor, or basic education reforms which address the worst forms of child labor by one or more of the following entities:

• The Government (at any level);

• The National Steering Committee; or

• Social Partners.

3. The inclusion of child labor concerns in relevant development, social and anti-poverty policies and programs

• The elimination of child labor, including through basic education reform that benefits child labor elimination, has been included as an explicit objective in poverty reduction, development, educational, or other social programs;

• Child labor was included as an indicator in poverty reduction, development or educational strategies, etc. (e.g., UN Development Assistance Framework (UNDAF), Poverty Reduction Strategy Paper (PRSP), Education for All (EFA), Millennium Development Goals (MDG));

• Child laborers have been considered as a priority target group in the poverty reduction, development or educational strategies, etc.; or

• Ensuring that children go to school and do not work has been set as a condition for families that wish to benefit from social and stipends programs

4. The establishment of a child labor monitoring system (CLMS)Progress in this field can be demonstrated if one or several of the following systems has been established and is in operation:

• A CLMS covering various forms of child labor at the national level;

• A CLMS covering various forms of child labor at the local level:

• A CLMS in any formal or informal sector, urban or rural; or

• A comprehensive plan and/or pilot program to develop and establish national, local or sector specific CLMS.

The characteristics of a comprehensive and credible CLMS can include the following:

• The system is focused on the child at work and/or in school;

• It involves all relevant partners in the field, including labor inspectors if appropriate;

• It uses regular observation to identify children in the workplace;

• It refers identified children to the most appropriate alternative to ensure that they are withdrawn from hazardous work;

• It verifies whether the children have actually shifted from hazardous work to an appropriate situation (school or other); and

• It keeps records on the extent and nature of child labor and the schooling of identified child workers.

Logical Framework (Logframe): A tool that summarizes project design. The logframe is a matrix that clearly documents the logic and causal linkages underlying an Applicant's strategy. In developing a logframe, Applicants should document how activities will lead to outputs (intermediate results), which, taken together, will lead to the achievement of the project's purpose. The purpose is the overall result for which the project will be held accountable. The logframe matrix also includes a contextual goal that reflects the broader societal issue that the project hopes to influence. In addition to requiring Applicants to provide a narrative summary of this hierarchy of results (activities-outputs-purpose-goal), the logframe also requires the project to list performance indicators for each result and the means by which those indicators will be measured. Applicants are expected to select appropriate indicators and targets at both the output and purpose levels, which are the most critical results for ensuring that the project achieves its intended outcomes. Projects have the option of monitoring relevant indicators at the lowest, activity level and the contextual goal level as well. The final element of the logframe is the assumptions column, which Applicants should use to describe those conditions outside their control which might affect achievement of project results. Applicants must carefully consider what might go wrong that would affect the link of activities to outputs, the link of outputs to purpose, and the link of purpose to goal. Any issues that are outside the Applicant's control which might affect the ability to achieve results should be documented in the assumptions column so they can be monitored over the life of the project.

Other Project Interventions: This category of interventions may include such activities as awareness raising and social mobilization campaigns, alternative income generating activities and business/skills training for parents, psychosocial services for children, improvements in curriculum, teacher training or improvements to school infrastructure that are also important for withdrawing and preventing children from exploitive labor, including by improving access to and the quality of basic education. While Grantees are encouraged to address the needs of children engaged in, or at-risk of entering, exploitive labor and their families in a comprehensive manner, these activities will not be considered as direct educational services. Therefore, individuals benefiting solely from these interventions cannot be counted toward the project's target number of direct beneficiaries or in GPRA reporting. USDOL recognizes that, in many cases, a combination of services—both direct educational services and other project interventions as outlined in this paragraph—may represent the most effective strategy for prevention or withdrawal of a child from exploitive labor. USDOL encourages Applicants to propose the most effective package of services for direct beneficiaries to achieve the goal of withdrawing children from, and preventing children from entering, exploitive labor. Grantees should be able to match a particular service or educational or training opportunity to an individual child. Therefore, project interventions such as school structural improvements, teacher training, construction of latrines, inclusion of child labor modules in teacher curriculum, or the provision of classroom chalkboards are not considered direct educational services as defined above.

Outputs-Based Budget: Delineates project funds allocated for specific activities and outputs, based on the project design.

Performance Monitoring Plan (PMP): A PMP serves three primary functions: (1) To delineate the data collection process; (2) to ensure data comparability; and (3) to guide data analysis. A PMP, therefore, must contain the following information:

• Definition of each indicator and unit of measurement.

• Description of each indicator data source.

• Method of data collection or calculation.

• Frequency and schedule of data collection.

• Institution(s) or person(s) responsible for ensuring data availability.

• Type or frequency of data analysis and person/institution responsible for data analysis.

• Cost of data collection.

Appropriate performance indicators are expected to be selected during the project design consolidation phase and further defined as the PMP is finalized. PMP finalization includes determining precise indicator definitions, data collection methodologies, responsibilities, and costs. Target setting is also a critical part of the PMP finalization process, as targets are listed by time period in the PMP's data tracking table. (Further information on data tracking will be provided to Grantees after award).

Prevented from Entering (Exploitive Child Labor): (see definition of Children Prevented from Entering Exploitive Child Labor).

Project Design Consolidation Phase: This phase of a project lasts no longer than one year after award. During this phase, the Grantee outlines the goals and objectives of the project; identifies activities of the project that support the stated goals and objectives; establishes specific deadlines and responsibilities for carrying out the activities of the project; and determines a timeframe for measuring the progress and achievements of the project. The Project Design Consolidation Phase, therefore, includes the development of a Project Document, Logical Framework (logframe), Performance Monitoring Plan (PMP), Work Plan, Sustainability Plan, and evaluation plan. Grantees must also address the minimum requirements identified in the Cooperative Agreement, which include but is not limited to defining and describing children targeted; needs, gaps, and/or barriers; proposed strategies to address the needs/gaps/barriers; sustainability and exit strategies; detailed description of activities; program management and performance assessment; and budget and cost effectiveness. USDOL may provide technical assistance to Grantees to refine the Project Document, Logframe, PMP, Work Plan, Sustainability Plan, and evaluation plan, which, as deliverables, are subject to approval by USDOL.

Project Document: The Project Document serves a number of functions. It describes the situation that gave rise to a particular project; explains “why” a project was started; establishes the plan for what must be done; and outlines what must be produced, by when and by whom, and what is expected to happen after the project ends. It can serve as a reference point for all of the implementing partners involved in a project. The Project Document also provides the basis for assessing the success of a project. (The format for the Project Document will be provided to Grantees after award). The Project Document is supplemented by the Logical Framework (logframe) (see definition above). For the most part, Grantees are expected to have already presented an essentially complete Project Design strategy and logframe as part of their application submitted in response to this solicitation. The Project Document (including a project budget) is a more refined and revised version of the application and sets the technical parameters and reference points for the project according to the standardized format outlined by USDOL.

The original proposal is expected to serve as the basis for the Grantee's Project Document. The Project Document should clearly reflect an accurate understanding of direct beneficiaries and how a child can be counted as a direct beneficiary for the purposes of GPRA reporting. The Project Document must also clearly describe the strategy for monitoring and reporting the working and educational status of children who are direct beneficiaries of the project. This strategy includes identifying the responsible persons (i.e., project/partner staff, school teachers, community members, parents), how the responsible persons are expected to collect the information (assessment form, door-to-door monitoring, discussions with children), and how, and at what frequency, the Grantee will obtain the information. The project's monitoring strategy will help inform the Performance Monitoring Plan (PMP).

Project Monitoring System: USDOL requires the development and use of a project monitoring system that incorporates two components: (1) Direct beneficiary monitoring that allows for the monitoring of the work and educational status of children directly benefiting from the project (i.e. direct beneficiaries), and (2) a project Performance Monitoring Plan (PMP) that identifies indicators and tracks progress regarding the project's major objectives. The direct beneficiary monitoring system is a component of the overall project PMP, and allows USDOL to report to Congress and other interested parties on the number of children that are withdrawn from, and prevented from entering, exploitive child labor by USDOL-funded projects. Grantees should use their PMPs also to monitor progress in achieving capacity building objectives. (The format for the PMP will be provided to Grantees after award).

The project monitoring system can help assess the effects and impact of project results to determine if the project activities are achieving the intended outcome. Project monitoring systems include records of the basic identification information for all direct beneficiaries receiving direct educational services (i.e., name, address, sex, and age) and their work status (working, withdrawn, or prevented), working conditions, and educational status (enrollment, retention, and school performance). Project monitoring systems should be designed to collect this kind of detailed information for all direct beneficiaries that receive and continue to receive direct educational services and other project interventions provided by the project.

Retention (a common indicator): The percentage of children withdrawn/prevented through a USDOL-supported educational program(s) who continue in the program (i.e. to subsequent years, periods, and/or levels of the program or who stay in the program even if they are not promoted) and who continue to be withdrawn or prevented from exploitive child labor.

Sustainability Plan: A Sustainability Plan provides detailed strategies, assumptions, and conditions for sustainability, and includes both (1) a Sustainability Plan/matrix, and (2) an exit strategy. Strategies are likely to differ by project and by the type of sustainability being addressed (i.e., financial, benefits, programmatic/institutional, and political). Sustainability Plans must also include a clear exit strategy that outlines how a project will transfer responsibility for project components to local or national stakeholders by the end of the project, if not sooner. Activities to address sustainability issues must be identified together with a list of (or statement concerning) external factors that may impact sustainability. Sustainability Plans must also include a clear process for monitoring progress towards achieving the different areas of sustainability and key partners or institutions involved.

Unconditional Worst Forms of Child Labor: This term refers to those worst forms of child labor specifically identified in Article 3 parts (a)-(c) of ILO Convention 182. Children involved in the unconditional worst forms of child labor must no longer be working to be considered as withdrawn from exploitive labor. No improvements in the working conditions of children involved in unconditional worst forms of child labor, such as slavery or slavery-like practices, prostitution or pornography, or illicit activities, can create an acceptable environment for children to continue to work in an unconditional worst forms of child labor, even for one hour.

Withdrawn from Exploitive Child Labor: (see definition of Children Withdrawn from Exploitive Child Labor).

Work Plan: A Work Plan must identify major project activities, deadlines for completing those activities, and person(s) or institution(s) responsible for completing these activities. The Work Plan must correspond to activities identified in the logframe. The Work Plan may vary depending on what is the most logical form. It may, for example, be divided by project component, country, or region.

Worst Forms of Child Labor: This term refers to the forms of child labor that fall under ILO Convention 182, Article 3, parts (a)-(d); includes the forms of work referred to as “unconditional worst forms of child labor” [parts (a)-(c)] and “hazardous work” [part (d)], which, according to ILO Convention 182, “shall be determined by national laws or regulations or by the competent authority, after consultation with the organizations of employers and workers concerned, taking into consideration relevant international standards * * *” As this suggests, forms of work identified as “hazardous” for children [part (d)] may differ from country to country.

Youth: While individual countries may define “youth” differently, for the purposes of this solicitation, direct beneficiaries may only include children or youth under the age of 18 years (see definition of Child).

Appendix B: Technical Proposal Format

Abstract

A. Project Design/Budget-Cost Effectiveness

i. Background and Justification

ii. Proposed Strategy

iii. Project Monitoring and Evaluation

iv. Budget-Cost Effectiveness Narrative (with cost of activities linked to the outputs-based budget in Annex B)

B. Sustainability Plan

C. Organizational Capacity

i. International and U.S. Government Grant Experience

ii. Country Presence and Host Government Support

iii. Fiscal Oversight

D. Key Personnel/Management Plan/Staffing

i. Key Personnel

ii. Other Professional Personnel

iii. Management Plan

iv. Staff Loading Plan

E. Additional Direct Beneficiaries (optional)

F. Cost Sharing (optional)

Annex A: The Logical Framework Matrix

Annex B: Outputs-Based Budget

(Examples of a Logical Framework Matrix, a Sustainability Plan, an Outputs-Based Budget, PMP and other background documentation for this solicitation are available from ILAB's Web site at http://www.dol.gov/ilab/grants/bkgrd.htm.)

Appendix C Definitions and Usual Characteristics of Subgrants vs. Subcontracts,
[U.S. Department of Labor Office of Child Labor, Forced Labor, and Human Trafficking]
| Subgrants | Subcontracts
Definitions:
General Purpose* | Subject to an agreement that provides for the transfer of money or property to accomplish a public purpose of support or stimulation as authorized under Federal statute | Subject to an agreement in which the purpose is primarily to acquire goods and services.
Focus* | Carries out one or more major programmatic functions | Provides goods and services that are ancillary or supportive to the operation of the Federal program.
Recipient Responsibility* | Has responsibility for programmatic decisionmaking, adherence to applicable Federal program compliance requirements, and is able to determine which participants are eligible to receive Federal financial assistance | Responsibility for programmatic decision making rests primarily with the party providing payment and inspecting deliverables. Is subject to procurement regulations, but not programmatic compliance requirements.
Usual Characteristics: s
Recipients | Awarded largely to non-profits, institutions of higher education, and state and local governments. Fewer commercial enterprises are recipients | Awarded largely to commercial enterprises, although non-profits and state or local governments may respond to a bid or negotiated solicitation.
Terms & Performance Standards | Less rigorous according to their terms and conditions than contracts. Performance is measured against whether the objectives of the Federal program are met (for example, to eliminate exploitive child labor) | More rigorous according to their terms and conditions. Performance is measured against the delivery of goods and services.
Operational Environment | Less likely to operate in a competitive environment and usually provides services for a public purpose | Operates in a competitive environment and provides goods and services to many different purchasers.
Monitoring | Less regulated. If the task is not accomplished, there may be fewer legal and financial ramifications | More heavily regulated and more likely to carry substantial legal or financial risk.
Scope of Work | Scope of work, deliverables and delivery schedule are more flexible and easier to amend when changes are necessary | Scope of work may be less flexible and more difficult to amend. Firm delivery schedule with deliverables subject to rigorous inspection.
Payment Schedule | Funds usually drawn down by recipient or paid in a lump sum. Payments are based on budgeted amounts rather than the unit cost of services | Payment is usually made by invoice only after goods are delivered or services rendered. Advances are made under specific, limited circumstances. Payments are related to goods delivered or services rendered.
*The distinction between subgrants vs. subcontracts should be made primarily based on these three definitions. Even if an agreement has some or many of the “usual characteristics” of a subgrant, project managers and auditors should closely examine its purpose, focus, and recipient responsibilities (using the definitions provided above) before determining whether it meets the definition of a subgrant or subcontract.

BILLING CODE 4910-28-P

Paperwork Burden Statement

According to the Paperwork Reduction Act of 1995, no persons are required to respond to a collection of information unless such collection displays a valid OMB control number. The valid OMB control number for this information collection is 1890-0014. The time required to complete this information collection is estimated to average five (5) minutes per response, including the time to review instructions, search existing data resources, gather the data needed, and complete and review the information collection. If you have any comments concerning the accuracy of the time estimate(s) or suggestions for improving this form, please write to: The Agency Contact listed in this grant application package.

[FR Doc. E7-11526 Filed 6-13-07; 8:45 am]

BILLING CODE 4510-28-C